DEPARTMENT OF HOMELAND SECURITY

Coast Guard

46 CFR Parts 30, 150, and 153

[Docket No. USCG-2013-0423]

RIN 1625-AB94

2013 Liquid Chemical Categorization Updates

AGENCY: Coast Guard, DHS.

ACTION: Supplemental notice of proposed rulemaking.

SUMMARY: The Coast Guard proposes additional updates and revisions to regulatory tables that were amended by an interim rule published in August 2013. The tables list liquid hazardous materials, liquefied gases, and compressed gases approved for maritime transportation in bulk, and indicate how each cargo is categorized by its pollution risk and safe carriage requirements. These proposals would correct errors in the interim rule and bring the tables current through December 2013. Updated information is of value to shippers and to the owners and operators of U.S.-flag tank and bulk cargo vessels in any waters, and most foreign-flag tank and oceangoing bulk cargo vessels in U.S. waters. The proposed rule promotes the Coast Guard's maritime safety and stewardship (environmental protection) missions.

DATES: Comments and related material must be submitted to the online docket via http://www.regulations.gov, or reach the Docket Management Facility, on or before January 20, 2016.

ADDRESSES: Submit comments using one of the listed methods, and see the SUPPLEMENTARY INFORMATION section of this preamble for more information on public comments.

• Online—http://www.regulations.gov following Web site instructions.

• Fax—202-493-2251.

• Mail or hand deliver—Docket Management Facility (M-30), U.S. Department of Transportation, West Building Ground Floor, Room W12-140, 1200 New Jersey Avenue SE., Washington, DC 20590-0001. Hand delivery hours: 9 a.m. to 5 p.m., Monday through Friday, except Federal holidays (telephone 202-366-9329).

FOR FURTHER INFORMATION CONTACT: For information about this document call or email Mr. Patrick Keffler, Coast Guard; telephone 202-372-1424, email Patrick.A.Keffler@uscg.mil. For information about viewing or submitting material to the docket, call Ms. Cheryl Collins, Program Manager, Docket Operations, telephone 202-366-9826, toll free 1-800-647-5527.

SUPPLEMENTARY INFORMATION:

Table of Contents for Preamble

I. Public Participation and Comments

II. Abbreviations

III. Discussion

IV. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Public Participation and Comments

We encourage you to submit comments (or related material) on this rulemaking. We will consider all submissions and may adjust our final action based on your comments. Comments should be marked with docket number USCG-2013-0423 and should provide a reason for each suggestion or recommendation. You should provide personal contact information so that we can contact you if we have questions regarding your comments; but please note that all comments will be posted to the online docket without change and that any personal information you include can be searchable online.¹

Mailed or hand-delivered comments should be in an unbound 8½ × 11 inch format suitable for reproduction. The Docket Management Facility will acknowledge receipt of mailed comments if you enclose a stamped, self-addressed postcard or envelope with your submission.

¹ See the Federal Register Privacy Act notice regarding our public dockets, 73 FR 3316, Jan. 17, 2008.

Documents mentioned in this notice, and all public comments, are in our online docket at http://www.regulations.gov and can be viewed by following the Web site's instructions. You can also view the docket at the Docket Management Facility (see the mailing address under ADDRESSES) between 9 a.m. and 5 p.m., Monday through Friday, except Federal holidays.

We are not planning to hold a public meeting but will consider doing so if public comments indicate a meeting would be helpful. We would issue a separate Federal Register notice to announce the date, time, and location of such a meeting.

II. Abbreviations

DHS—Department of Homeland Security

E.O.—Executive Order

FR—Federal Register

IBC Code—International Code for the Construction and Equipment of Ships Carrying Dangerous Chemicals in Bulk

IMO—International Maritime Organization

MARPOL—International Convention for the Prevention of Pollution from Ships, 1973

MEPC—Marine Environment Protection Committee

NLS—Noxious liquid substance

SOLAS—International Convention for the Safety of Life at Sea

§—Section Symbol

U.S.C.—United States Code

III. Discussion

Basis and purpose. The legal basis of this rulemaking is 46 U.S.C. 3703, which requires the Secretary of the department in which the Coast Guard is operating to prescribe regulations relating to the operation of vessels that carry liquid bulk dangerous cargoes, and to the types and grades of cargo those vessels carry. Additional regulatory authority is provided by 33 U.S.C. 1903 (regulations to implement the International Convention for the Prevention of Pollution from Ships, 1973, or “MARPOL”), 46 U.S.C. 2103 (general merchant marine regulatory authority), and 46 U.S.C. 3306 (regulations for the safety of individuals and property on inspected vessels). The Secretary's authority under these statutes is delegated to the Coast Guard in DHS Delegation No. 0170.1, para.II (77), (92.a), and (92.b).

The purpose of the rulemaking is to update and revise regulatory tables that list liquid hazardous materials, liquefied gases, and compressed gases that have been approved for maritime transportation in bulk, and that indicate how each cargo is categorized by its pollution risk and safe carriage requirements.

2013 Interim Rule. The Coast Guard published an interim rule on this topic in 2013.² Acknowledging public comments that brought to light certain errors in the interim rule, the Coast Guard delayed its effective date, originally September 16, 2013, on three occasions, most recently until January 16, 2017.³ We are correcting those errors in this supplemental notice of proposed rulemaking (SNPRM). In addition, given the lapse of time since we published the interim rule, we propose updating the interim rule's tables as of December 2013. Therefore, we are issuing an SNPRM, rather than proceeding directly from the 2013 interim rule to a final rule, so that, in the interest of ensuring the accuracy of our tables, we can take another round of public comments before issuing a final rule.

² “2012 Liquid Chemical Categorization Updates; Interim Rule,” 78 FR 50147 (Aug. 16, 2013). Because the interim rule contained information updated only through December 2012, it bore the heading “2012 Liquid Chemical Categorization Updates.” This SNPRM is headed “2013 Liquid Chemical Categorization Updates” because it has been updated as of the December 2013 MEPC Circular, but the SNPRM shares the same docket with the interim rule.

³ See 78 FR 56837 (Sep. 16, 2013; delayed until Jan. 16, 2014); 79 FR 2106 (Jan. 13, 2014; delayed until Jan. 16, 2015); 79 FR 68131 (Nov. 14, 2014; delayed until Jan. 16, 2017).

Purpose of tables. Coast Guard regulations in 46 CFR subchapter D (tank vessels, parts 30 through 39) and subchapter O (certain bulk dangerous cargoes, parts 150 through 155) contain requirements for ensuring the safe maritime carriage (transportation) of certain bulk liquid cargoes. Tables in subchapters D and O list the cargoes that have been approved for maritime carriage. They also categorize each cargo's pollution-hazard risk and safe carriage requirements in accordance with the Coast Guard and International Maritime Organization (IMO) assessment and review processes described in the following paragraphs. This information is of value to vessel owners and operators and to shippers of the cargoes involved.

Initial cargo assessment. If a vessel owner or operator plans to ship a newly-developed chemical substance internationally, as a bulk liquid cargo, the new cargo's chemical properties need to be assessed to ensure safe carriage.⁴ Our tables contain cargo categorization information that derives from this initial assessment.

⁴ For Coast Guard approval to ship a cargo not previously approved for carriage, see 46 CFR 153.900.

Agencies responsible for administering international maritime treaties (for the U.S., this is the Coast Guard) must agree on the new cargo's assessment before the cargo can be approved for transportation. This is done by a “tripartite agreement” entered into by the administrations of the exporting country, the importing country, and the country in which the ship that will carry the cargo is registered. The tripartite agreement categorizes the cargo's pollution-hazard risk and flammability/combustibility in accordance with the International Code for the Construction and Equipment of Ships Carrying Dangerous Chemicals in Bulk (IBC Code).⁵ A copy of the tripartite agreement is forwarded to the IMO's Marine Environment Protection Committee (MEPC) and to the administration of every country that is signatory to the IBC Code.

⁵ The IBC Code contains international standards for the safe maritime bulk transportation of dangerous and noxious liquid chemicals in accordance with MARPOL and the International Convention for the Safety of Life at Sea (SOLAS).

The Coast Guard is unique among IBC Code-signatory administrations because, in addition to the categorizations contained in the tripartite agreement, it also assigns each cargo to a “compatibility group.” This grouping guides IBC signatories and shippers in determining which cargoes, based on chemical analyses and test data submitted by manufacturers, would be chemically incompatible with other cargoes and therefore cannot safely be shipped with those other cargoes in adjacent tanks, without special precautions.⁶ Our tables also reflect these compatibility groupings.

⁶ See 46 CFR 150.120, 150.130, and Figure 1 to Part 150 (a compatibility matrix for determining how cargoes should be grouped).

IMO assessment. Upon receipt of a tripartite agreement, the MEPC conducts its own multi-year review and assessment of the information contained in the tripartite agreement, and following that review, either validates or modifies the agreement's information. Our tables also reflect any modifications resulting from this IMO assessment.

Each December, the MEPC releases a circular listing each new cargo for which it has completed its review of the cargo's tripartite agreement. The circular lists the countries that have approved international maritime transportation of each new cargo, and provides information about the cargo's pollution-hazard risk and flammability/combustibility. Thus, if a tripartite agreement has approved a cargo for international bulk maritime transportation and the MEPC validates or modifies that information, eventually it will be listed in the MEPC circular.

Periodically, the IBC Code is revised, and cargoes listed in MEPC annual circulars since the last edition of the IBC Code are incorporated. The IBC Code was last comprehensively revised in 2007, at which time the previous pollution categorization scheme (categories A, B, C, and D, which indicate a cargo's relative pollution-hazard risk) were replaced by categories X, Y, Z, and OS (for “other cargoes,” which at present are considered to pose no risk).⁷ Our tables are intended to reflect the latest IBC Code revision, but until this rulemaking, they were not updated to incorporate the changes made by the 2007 IBC Code revision.

⁷ See MARPOL, Annex II, Chapter 2, Regulation 6. With respect to the discharge of a cargo into the sea from tank cleaning or deballasting operations and the resulting hazard posed to marine resources or human health, the new categories indicate:

• X = Major hazard justifying prohibition of the discharge;

• Y = Hazard justifying a limitation on the quality and quantity of the discharge;

• Z = Minor hazard justifying less stringent restrictions on the quality and quantity of the discharge; and

• OS = No harm that justifies special discharge requirements

IMO actions reflected in this rulemaking. In March 2012, the IMO published an Annex to the 2007 IBC Code, listing additional cargoes with their pollution categorizations.

Until we published our 2013 interim rule, the tables in subchapter D and subchapter O had gone unamended for several years, and still contained the pre-2007 pollution categorizations. The interim rule updated the following tables as of the December 2012 MEPC circular:

• “Table 30.25-1” in subchapter D;

• “Table I to Part 150” in subchapter O;

• “Table II to Part 150” in subchapter O; and

• “Table 2 to Part 153” in subchapter O.

This supplemental notice of proposed rulemaking (SNPRM) proposes updating these tables as of the December 2013 circular. All four tables include cargoes that are listed either in MEPC circulars, or in tripartite agreements to which the U.S. is a party. (Information from other tripartite agreements is excluded pending MEPC review.)

Table contents. Table 30.25-1 lists flammable or combustible cargoes that, when transported in bulk, must be certificated under subchapter D regulations.

The two tables in part 150 contain the Coast Guard chemical compatibility categorization for each cargo. Table I lists all cargoes alphabetically and provides a category group for each. Table II lists cargoes by group.

Table 2 to Part 153 lists cargoes that, when carried in bulk on non-oceangoing barges, are not subject to subchapter D or O regulations, but that must comply with subchapter O if they are carried on oceangoing ships.⁸

⁸ Table 1 to Part 153, “Summary of Minimum Requirements [for safe carriage]” is not amended by this rulemaking. It lists a fuller list of minimum safe carriage requirements than those contained in the tables that this rulemaking amends. Because of Table 1's greater complexity, it may be the subject of a future rulemaking, pending study and recommendations from the Coast Guard's Chemical Transportation Advisory Committee.

Comments on 2013 interim rule and resulting changes. Our interim rule prompted comments from two individuals and four industry representatives, one of whom made multiple submissions. The two individuals commented on the safety of food containing genetically modified organisms. That is not an issue raised by our rulemaking and therefore is beyond its scope.

Three commenters asked why we had not discussed draft table updates with the Chemical Transportation Advisory Committee (CTAC), a group that advises the Coast Guard on chemical transportation matters, and suggested that consultation with CTAC could be helpful, along with more time for industry to review the interim rule before it took effect. CTAC operates pursuant to the Federal Advisory Committee Act, which requires advisory committees to operate under a valid charter.⁹ From 2009 until 2013, the period during which we developed the interim rule, CTAC lacked such a charter and therefore was not operational. Since its reestablishment in 2013, we have kept CTAC apprised as to this rulemaking's status, but at no time has CTAC expressed the desire to make formal recommendations to the Coast Guard as to the rulemaking's direction. We are open to future CTAC recommendations, and individual CTAC members are welcome to comment on this SNPRM, as they are on any Coast Guard rulemaking. As to additional industry time for review, we believe the continuing delay in the interim rule's effective date has provided ample additional review time.

⁹ 5 U.S.C. Appendix 2, sec. 9(c).

Three commenters said that, in Table I to Part 150, we mistakenly listed several cargoes in compatibility group 4, when in the past they have been listed in group 34 and not group 4. We agree this was a mistake and this SNPRM shows the cargoes in group 34.

One commenter asked if we consider that all cargoes shown in Table 30.25-1 or Table 2 to Part 153 as “n.o.s.” (“not otherwise specified”) should be assigned in Table I to Part 150 in group 0. We do not. Group 0 is the default assignment for a cargo that we have either determined cannot be shipped safely with any other cargo, or for a cargo for which we are unable to make any other assignment because we lack sufficient chemical analysis and test data on which to make that assignment. These criteria do not necessarily apply to an “n.o.s.” cargo, and therefore we assign many “n.o.s.” cargoes to compatibility groups other than group 0.

One commenter said that sodium methylate 21-30%, instead of being listed in compatibility group 20, should be listed in group 0 due to its highly reactive nature, and that diglycidyl ether of bisphenol A and F should be listed in compatibility group 18 rather than in group 41. We agree that the interim rule incorrectly listed these cargoes and this SNPRM shows sodium methylate 21-30% in group 0 and diglycidyl ether of bisphenol A and F in group 18.

One commenter addressed the interim rule's amendment to “Appendix I to Part 150—Exceptions to the Chart.” The “chart” referred to is Figure 1 to Part 150, a matrix showing how cargo compatibility can be determined. Appendix I lists binary combinations of substances that are treated as exceptions to Figure 1 because they have been tested and found not to be dangerously reactive. One commenter said that our revision of Appendix I failed to list between 10 and 15 previously approved exceptions. We agree and this SNPRM restores those exceptions to Appendix I.

One commenter said we should have expanded the interim rule's discussion of tripartite agreements, and we have done so accordingly in the “Background” section of this SNPRM. In addition to the changes we have made in response to comments, we are also restoring liquefied flammable gas listings in subchapter D's Table 30.25-1. We removed those listings in the interim rule, in anticipation of a policy change that would have allowed them to fall exclusively under subchapter O. That policy change has not occurred and we have restored the listings in this SNPRM.

It is our intention, for future years, to keep the tables updated annually.This SNPRM proposes the addition of new entries that would bring them up to date as of the December 2013 MEPC Circular.

We specifically request public comment on whether or not this SNPRM's information is correct, and in particular whether or not we have correctly and fully responded to comments on the interim rule and brought our information up to date as of December 2013.

IV. Regulatory Analyses

A. Regulatory Planning and Review

Executive Orders (E.O.s) 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This proposed rule has not been designated a “significant regulatory action” under section 3(f) of E.O. 12866. Accordingly, the proposed rule has not been reviewed by the Office of Management and Budget. A draft regulatory assessment is included herein.

Affected Population

This proposed rule updates tables that list the names, pollution risk categorizations, and safe carriage requirements of liquid chemical cargoes that have already been categorized and approved for maritime transportation in bulk, either permanently or on a provisional basis. This proposed rule makes no new decisions about whether any specific chemical cargo should be approved for bulk maritime transportation, about how any specific cargo should be categorized, or about carriage requirements that should apply to any specific cargo. It simply provides updated information about cargoes that are currently approved for maritime transportation in bulk, and the cargo's pollution categorization and minimum transportation safety requirements. This proposed rule indirectly applies to the carriage of the subject cargoes from the following tank vessel populations as described in 46 CFR 30.01-5, 150.115 (with exceptions described in 46 U.S.C. 3702), 153.1, and 154.5 as described therein. All U.S. tank vessels are included. Foreign tank vessels are, in general, exempt from this regulation when on innocent passage through U.S. waters, except for liquefied gas cargo/cargo residue or vapor carriers. Also included are self-propelled bulk cargo carrying oceangoing/non-oceangoing U.S.-flag and oceangoing foreign-flag vessels when in U.S. waters.

Costs

This proposed rule updates tables that list the names, pollution risk categorizations, and safe carriage requirements of liquid chemical cargoes that have already been categorized and approved by the United States and the IMO for maritime transportation in bulk, either permanently or on a provisional basis. Since this proposed rule simply updates tables and a table preface to reflect decisions already made under international law about which liquid chemical cargoes are approved for bulk maritime transportation, and about how those cargoes should be categorized with respect to their pollution potential, it does not change established shipping requirements and there are no private sector costs expected from this supplemental notice of proposed rule. The only party that will incur any cost will be the Coast Guard. This cost is for 40 hours total of updating work on approximately 50 chemicals per year, for an approximate annual cost of $3,200. The cost is based on 40 hours times the loaded hourly cost to the Coast Guard (wages and employee benefits) of employing a GS-13 or equivalent ($80). The source for this is Commandant Instruction 7310.1P (http://www.uscg.mil/directives/ci/7000-7999/CI_7310_1P.pdf).

In addition, the proposals would correct errors and omissions in the interim rule and bring the tables current through December 2013. This proposed rule incorporates Coast Guard compatibility categorizations and chemical cargoes and categorizations listed by the IMO through its December 2013 MEPC Circular.

Benefits

The primary benefit of this proposed rule is to conform regulatory language to practices currently allowed by the Coast Guard through either individual letters of approval or the IBC Code as discussed above, which we expect will result in the benefit of improved service to the public through improved clarity and transparency.

B. Small Entities

Under the Regulatory Flexibility Act (5 U.S.C. 601-612) (RFA), we have considered whether this proposed rule would have a significant economic impact on a substantial number of small entities. The term “small entities” comprises small businesses, not-for-profit organizations that are independently owned and operated and are not dominant in their fields, and governmental jurisdictions with populations of less than 50,000. Since this proposed rule does not impose any additional direct costs, it does not impose any additional direct costs on small entities as defined by the RFA. Therefore, the Coast Guard certifies that under 5 U.S.C. 605(b), the proposed rule will not have a significant economic impact on a substantial number of small entities.

If you think that your business, organization, or governmental jurisdiction qualifies as a small entity and that this rule would have a significant economic impact on it, please submit a comment to the Docket Management Facility at the address under ADDRESSES. In your comment, explain why you think it qualifies and how and to what degree this rule would economically affect it.

C. Assistance for Small Entities

Under section 213(a) of the Small Business Regulatory Enforcement Fairness Act of 1996 (Pub. L. 104-121), we want to assist small entities in understanding this rule so that they can better evaluate its effects on them and participate in the rulemaking. If this proposed rule would affect your small business, organization, or governmental jurisdiction and you have questions concerning its provisions or options for compliance, please consult Mr. Patrick Keffler at Patrick.A.Keffler@uscg.mil. The Coast Guard will not retaliate against small entities that question or complain about this proposed rule or any policy or action of the Coast Guard.

D. Collection of Information

This proposed rule would call for no new collection of information under the Paperwork Reduction Act of 1995 (44 U.S.C. 3501-3520). This proposed rule simply updates and revises tables that list cargoes that have been approved and categorized for bulk maritime transportation, which does not involve information collection.

E. Federalism

A rule has implications for federalism under E.O. 13132 (“Federalism”) if it has a substantial direct effect on the States, on the relationship between the national government and the States, or on the distribution of power and responsibilities among the various levels of government. We have analyzed this proposed rule under that E.O. and have determined that it is consistent with the fundamental federalism principles and preemption requirements described in the E.O. Our analysis follows.

It is well-settled that States may not regulate in categories reserved for regulation by the Coast Guard, including categories for inspected vessels. It is also well-settled, that all of the categories covered in 46 U.S.C. 3306, 3703, 7101, and 8101 (design, construction, alteration, repair, maintenance, operation, equipping, personnel qualification, and manning of vessels), as well as the reporting of casualties and any other category in which Congress intended the Coast Guard to be the sole source of a vessel's obligations, are within fields foreclosed from regulation by the States (See the decision of the Supreme Court in the consolidated cases of United States v. Locke and Intertanko v. Locke, 529 U.S. 89 (2000). This proposed rule amends existing regulations for inspected vessels carrying certain bulk dangerous cargoes, which, under the principles discussed in Locke, fall within the categories enumerated in 46 U.S.C. 3306 and 3703, which are themselves within fields in which the states are foreclosed from regulating. Therefore, because the States may not regulate within these categories, this rule is consistent with the fundamental federalism principles and preemption requirements described in E.O. 13132.

While it is well settled that States may not regulate in categories in which Congress intended the Coast Guard to be the sole source of a vessel's obligations, the Coast Guard recognizes the key role that State and local governments may have in making regulatory determinations. Additionally, for rules with federalism implications and preemptive effect, Executive Order 13132 specifically directs agencies to consult with State and local governments during the rulemaking process. If you believe this proposed rule has implications for federalism under Executive Order 13132, please contact the person listed in the FOR FURTHER INFORMATION CONTACT section of this preamble.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule will not result in such an expenditure, we do discuss the effects of this rule elsewhere in this preamble.

G. Taking of Private Property

This proposed rule will not cause a taking of private property or otherwise have taking implications under E.O. 12630 (“Governmental Actions and Interference with Constitutionally Protected Property Rights”).

H. Civil Justice Reform

This proposed rule meets applicable standards in sections 3(a) and 3(b)(2) of E.O. 12988 (“Civil Justice Reform”) to minimize litigation, eliminate ambiguity, and reduce burden.

I. Protection of Children

We have analyzed this proposed rule under E.O. 13045 (“Protection of Children from Environmental Health Risks and Safety Risks”). This proposed rule is not an economically significant rule and does not create an environmental risk to health or risk to safety that may disproportionately affect children.

J. Indian Tribal Governments

This proposed rule does not have tribal implications under E.O. 13175 (“Consultation and Coordination with Indian Tribal Governments”) because it does not have a substantial direct effect on one or more Indian tribes, on the relationship between the Federal Government and Indian tribes, or on the distribution of power and responsibilities between the Federal Government and Indian tribes.

K. Energy Effects

We have analyzed this proposed rule under E.O. 13211 (“Actions Concerning Regulations That Significantly Affect Energy Supply, Distribution, or Use”). We have determined that it is not a “significant energy action” under that E.O. because it is not a “significant regulatory action” under E.O. 12866 and is not likely to have a significant adverse effect on the supply, distribution, or use of energy. The Administrator of the Office of Information and Regulatory Affairs has not designated it as a significant energy action. Therefore, it does not require a Statement of Energy Effects under E.O. 13211.

L. Technical Standards

The National Technology Transfer and Advancement Act (15 U.S.C. 272 note) directs agencies to use voluntary consensus standards in their regulatory activities unless the agency provides Congress, through the OMB, with an explanation of why using these standards would be inconsistent with applicable law or otherwise impractical. Voluntary consensus standards are technical standards (e.g., specifications of materials, performance, design, or operation; test methods; sampling procedures; and related management systems practices) that are developed or adopted by voluntary consensus standards bodies. This proposed rule does not use technical standards. Therefore, we did not consider the use of voluntary consensus standards.

M. Environment

We have analyzed this proposed rule under Department of Homeland Security Management Directive 023-01 and Commandant Instruction M16475.lD, which guide the Coast Guard in complying with the National Environmental Policy Act of 1969 (NEPA)(42 U.S.C. 4321-4370f), and have made a preliminary determination that this action is one of a category of actions that do not individually or cumulatively have a significant effect on the human environment. A preliminary environmental analysis checklist supporting this determination is available in the docket where indicated under the “Public Participation and Comments” section of this preamble. This proposed rule involves administrative updates of existing chemical transport regulations and updates provisions relating to the chemical properties of liquid chemical cargoes approved for maritime transportation in bulk. The update incorporates changes in how approved cargoes are categorized by their chemical properties. This proposed rule promotes the Coast Guard's maritime safety and stewardship missions. It is therefore included in the Coast Guard's Commandant Instruction (COMDTINST) M16475.1D, Figure 2-1, which includes categorical exclusions (CEs) under categories (34)(a), “regulations which are editorial or procedural, such as those updating addresses or establishing application procedures,” and 34 (d), “regulations concerning manning, documentation, admeasurement, inspection, and equipping of vessels,” as well as in the “Appendix to National Environmental Policy Act: Coast Guard Procedures for Categorical Exclusions, Notice of Final Agency Policy” (see 67 FR 48243, July 23, 2002) under paragraph 6 (a), “regulations concerning vessel operation safety standards . . . equipment approval, and/or equipment carriage requirements . . . and visual distress signals.” We seek any comments or information that may lead to the discovery of a significant environmental impact from this proposed rule.

List of Subjects

46 CFR Part 30

Cargo vessels, Foreign relations, Hazardous materials transportation, Penalties, Reporting and recordkeeping requirements, Seamen.

46 CFR Part 150

Hazardous materials transportation, Marine safety, Occupational safety and health, Reporting and recordkeeping requirements.

46 CFR Part 153

Administrative practice and procedure, Cargo vessels, Hazardous materials transportation, Marine safety, Reporting and recordkeeping requirements, Water pollution control.

For the reasons set out in the preamble, the Coast Guard proposes to amend 46 CFR parts 30, 150, and 153, as amended by the interim rule published on August 16, 2013 (78 FR 50148), as follows:

Subchapter D—Tank Vessel

PART 30—GENERAL PROVISIONS

1. Revise the authority citation for part 30 to read as follows:

Authority: 46 U.S.C. 2103, 3306, 3703; Pub. L. 103-206, 107 Stat. 2439; 49 U.S.C. 5103, 5106; Department of Homeland Security Delegation No. 0170.1, para. II (92.a), (92.b); Section 30.01-2 also issued under the authority of 44 U.S.C. 3507; Section 30.01-05 also issued under the authority of Sec. 4109, Pub. L. 101-380, 104 Stat. 515.

2. Revise § 30.25-1, as amended by the interim rule published on August 16, 2013 (78 FR 50148), effective January 16, 2017, as delayed at 79 FR 68132, November 14, 2014, to read as follows:

§ 30.25-1 Cargoes carried in vessels certificated under the rules of this subchapter.

(a) Table 30.25-1 lists flammable or combustible cargoes that, when transported in bulk, must be in vessels certificated under this subchapter D.

(b) A mixture or blend of two or more cargoes appearing in Table 30.25-1 may be transported under this subchapter D.

(c) A mixture or blend of one or more cargoes appearing in Table 30.25-1 and one or more cargoes appearing in Table 2, 46 CFR part 153, may be carried under this subchapter D if the mixture is flammable or combustible.

(d) Any mixture containing one or more cargoes categorized by the International Maritime Organization (IMO) and listed in Table 30.25-1 as a category X, Y, or Z noxious liquid substance (NLS) may be carried in bulk—

(1) Under this subchapter D if the vessel is not regulated under 46 CFR part 153; or

(2) Under part 153 if the vessel is regulated under that part; or alternatively under 33 CFR part 151 if the cargo is listed in 33 CFR 151.49; or

(3) Under 33 CFR part 151 if the cargo is listed in 33 CFR 151.47. Table 30.25-1—List of Flammable and Combustible Bulk Liquid Cargoes

See NOTES at the end of the Table for explanation of symbols and terms used. See Table 2, 46 CFR part 153, for additional cargoes that may be carried by tank barge.

Cargo name | IMO Annex II Pollution Category
Acetochlor | X
Acetone | Z
Acetophenone | #
Acrylonitrile-Styrene copolymer dispersion in polyether polyol | Y
Alcohol(C6-C17)(secondary) poly(3-6)ethoxylates | Y
Alcohol(C6-C17)(secondary) poly(7-12)ethoxylates | Y
Alcohol(C9-C11) poly(2.5-9)ethoxylate | Y
Alcohol(C12-C15) poly (. . .) ethoxylates, see Alcohol(C12-C16) poly(. . .) ethoxylates |
Alcohol(C12-C16) poly(1-6)ethoxylates | Y
Alcohol(C12-C16) poly(7-19)ethoxylates | Y
Alcohol(C12-C16) poly(20+)ethoxylates | Y
Alcohols (C13+) | Y
Alcoholic beverages, n.o.s. | Z
Acrylic acid/ethenesulphonic acid copolymer with phosphonate groups, sodium salt solution | Z
Aliphatic oil | I
Alkanes (C6-C9) | X
Iso-and cyclo-alkanes (C10-C11) | Y
Iso-and cyclo-alkanes (C12+) | Y
n-Alkanes (C10+) | Y
Alkaryl polyethers (C9-C20) | Y
Alkenyl(C11+) amide | X
Alkenyl(C8+) amine, Alkenyl(C12+) acid ester mixture | #
Alkyl acrylate-Vinylpyridine copolymer in toluene | Y
Alkylbenzene, alkylindane, alkylindene mixture (each C12-C17) | Z
Alkyl(C3-C4) benzenes | Y
Alkyl(C5-C8) benzenes | X
Alkyl(C8-C9) phenylamine in aromatic solvents | Y
Alkyl(C9+) benzenes | Y
Alkyl(C11-C17) benzene sulfonic acid | Y
Alkylbenzene sulfonic acid (4% or less) | #
Alkyl dithiocarbamate (C19-C35) | Y
Alkyl dithiothiadiazole (C6-C24) | Y
Alkyl ester copolymer (C4-C20) | Y
Alkyl(C7-C11)phenol poly(4-12) ethoxylate | Y
Alkyl phenol sulfide (C8-C40), see Alkyl(C8-C40) phenol sulfide |
Alkyl(C8-C40) phenol sulfide | Z
Alkyl(C8-C9) phenylamine in aromatic solvents | Y
Alkyl(C9-C15) phenyl propoxylate | Z
Alkyl(C8-C10) polyglucoside solution (65% or less) | Y
Alkyl(C12-C14) polyglucoside solution (55% or less) | Y
Alkyl(C8-C10)/(C12-C14):(40% or less/60% or more) polyglucoside solution (55% or less) | Y
Alkyl(C8-C10)/(C12-C14):(60% or more/40% or less) polyglucoside solution (55% or less) | Y
Alkyl(C8-C10)/(C12-C14):(50%/50%) polyglucoside solution (55% or less) | Y
Alkyl(C10-C20, saturated and unsaturated) phosphite | Y
n-Alkyl phthalates, see individual phthalates |
Alkyl sulfonic acid ester of phenol | Y
Aluminium hydroxide, sodium | Y
Aminoethyldiethanolamine/Aminoethylethanolamine solution | Z
2-Amino-2-methyl-1-propanol | Z
Amyl acetate (all isomers) | Y
Amyl alcohol (iso-, n-, sec-, primary, tert-) | Z
tert-Amyl ethyl ether | Z
tert-Amyl methyl ether | X
Amyl methyl ketone, see Methyl amyl ketone |
Amylene, see Pentene (all isomers) |
Animal acid oil | #
Animal and Fish acid oils and distillates, n.o.s. | #
Animal and Fish oils, n.o.s. | #
Animal oil | #
Aromatic oil | I
Aryl polyolefins (C11-C50) | Y
Asphalt | I
Asphalt blending stocks:
Roofers flux | I
Straight run residue | I
Aviation alkylates (C8 paraffins and iso-paraffins BPT 95-120°C) | X
Barium long-chain alkyl (C8-C14) phenate sulfide | #
Beechnut oil | #
Behenyl alcohol, see Alcohols (C13+) |
Benzene tricarboxylic acid, trioctyl ester | Y
Benzyl acetate | Y
Benzyl alcohol | Y
Bis(2-ethylhexyl) terephthalate | Y
Brake fluid base mix: Poly(2-8)alkylene(C2-C3) glycols/Polyalkylene(C2-C10) glycols monoalkyl(C1-C4) ethers and their borate esters | Z
Butane | LFG
Butene, see Butylene |
Butene oligomer | X
2-Butoxyethanol (58%)/Hyperbranched polyesteramide (42%) (mixture) | Y
Butyl acetate (all isomers) | Y
Butyl alcohol (iso-, n-, sec-, tert-), see Butyl alcohol (all isomers) |
Butyl alcohol (all isomers) | Z
Butylbenzene (all isomers) | X
Butyl benzyl phthalate | X
Butyl butyrate (all isomers) | Y
Butylene | LFG
Butylene glycol | Z
1,3-Butylene glycol, see Butylene glycol |
iso-Butyl formate | #
n-Butyl formate | #
Butyl heptyl ketone | #
Butyl methyl ketone, see Methyl butyl ketone |
n-Butyl propionate | Y
Butyl stearate | #
Butyl toluene | #
gamma-Butyrolactone | Y
Calcium alkyl(C9)phenol sulfide, polyolefin phosphorosulfide mixture | #
Calcium alkyl salicylate, see Calcium long-chain alkyl salicylate (C13+) |
Calcium long-chain alkaryl sulfonate (C11-C50) | #
Calcium long-chain alkyl phenate (C8-C40), see Calcium long-chain alkyl(C5-C10) phenate or Calcium long-chain alkyl(C11-C40) phenate |
Calcium long-chain alkyl(C5-C10) phenate | Y
Calcium long-chain alkyl(C11-C40) phenate | Y
Calcium long-chain alkyl phenolic amine (C8-C40) | #
Calcium long-chain alkyl salicylate (C13+) | Y
Camelina oil | Y
Candelilla wax, see Waxes |
Caprolactam solutions, see epsilon-Caprolactam (molten or aqueous solutions) |
epsilon-Caprolactam (molten or aqueous solutions) | Z
Carnauba wax, see Waxes |
Cetyl alcohol, see Alcohols (C13+) |
Cetyl-stearyl alcohol, see Alcohols (C13+) |
Chlorinated paraffins (C10-C13) | X
1-(4-Chlorophenyl)-4,4-dimethyl-pentan-3-one | Y
Citric acid (70% or less) | Z
Clarified oil | I
Coal oil | #
Coconut oil fatty acid methyl ester | Y
Cod liver oil | #
Copper salt of long-chain (C17+) alkanoic acid | Y
Corn acid oil | #
Cotton seed acid oil | #
Cotton seed, fatty acid, see Cotton seed oil, fatty acid |
Cotton seed oil, fatty acid | #
Crude Isononylaldehyde | #
Crude Isopropanol | Z
† Crude oil | I
Cumene, see Propylbenzene (all isomers) |
Cycloheptane | X
Cyclohexane | Y
Cyclohexanol | Y
Cyclohexyl acetate | Y
1,3-Cyclopentadiene dimer (molten) | Y
Cyclopentane | Y
Cyclopentene | Y
p-Cymene | Y
Dark mixed acid oil | #
Decahydronaphthalene | Y
iso-Decaldehyde | #
n-Decaldehyde | #
Decane, see n-Alkanes (C10+) |
Decanoic acid | X
Decene | X
Decyl acetate | #
Decyl alcohol (all isomers) | Y
n-Decylbenzene, see Alkyl(C9+)benzenes |
Detergent alkylate, see Alkyl(C9+)benzenes |
Diacetone alcohol | Z
Dialkyl(C10-C14) benzenes, see Alkyl(C9+) benzenes |
Dialkyl(C8-C9) diphenylamines | Z
Dialkyl(C7-C13) phthalates | X
Including:
Diisodecyl phthalate |
Diisononyl phthalate |
Dinonyl phthalate |
Ditridecyl phthalate |
Diundecyl phthalate |
Dibutyl carbinol, see Nonyl alcohol (all isomers) |
Dibutyl hydrogen phosphonate | Y
2,6-Di-tert-butylphenol | X
Dibutyl phthalate | X
ortho-Dibutyl phthalate, see Dibutyl phthalate |
Dibutyl terephthalate | Y
Dicyclopentadiene, see 1,3-Cyclopentadiene dimer (molten) |
Diesel oil | I
Diethylbenzene | Y
Diethylene glycol | Z
Diethylene glycol butyl ether, see Poly(2-8)alkylene glycol monoalkyl(C1-C6) ether |
Diethylene glycol butyl ether acetate, see Poly(2-8) alkylene glycol monoalkyl(C1-C6) ether acetate |
Diethylene glycol diethyl ether | Z
Diethylene glycol ethyl ether, see Poly(2-8) alkylene glycol monoalkyl(C1-C6) ether |
Diethylene glycol ethyl ether acetate, see Poly(2-8) alkylene glycol monoalkyl (C1-C6) ether acetate |
Diethylene glycol n-hexyl ether, see Poly (2-8) alkylene glycol monoalkyl (C1-C6) ether |
Diethylene glycol methyl ether, see Poly(2-8) alkylene glycol monoalkyl (C1-C6) ether |
Diethylene glycol methyl ether acetate, see Poly(2-8) alkylene glycol monoalkyl (C1-C6) ether acetate |
Diethylene glycol phenyl ether | #
Diethylene glycol phthalate | Y
Diethylene glycol propyl ether, see Poly(2-8) alkylene glycol monoalkyl (C1-C6) ether |
Di-(2-ethylhexyl) adipate | Y
Di-(2-ethylhexyl )phthalate, see Dioctyl phthalate |
Diethyl phthalate | Y
Diglycidyl ether of bisphenol A | X
Diglycidyl ether of bisphenol F | Y
Diheptyl phthalate | Y
Di-n-hexyl adipate | X
Dihexyl phthalate | Y
Diisobutyl carbinol, see Nonyl alcohol (all isomers) |
Diisobutylene | Y
Diisobutyl ketone | Y
Diisobutyl phthalate | X
Diisodecyl phthalate, see Dialkyl (C7-C13) phthalates |
Diisononyl adipate | Y
Diisononyl phthalate, see Dialkyl (C7-C13) phthalates |
Diisooctyl phthalate | Y
Diisopropylbenzene (all isomers) | X
Diisopropylnaphthalene | Y
Dimethyl adipate | X
Dimethylbenzene, see Xylenes |
Dimethyl glutarate | Y
Dimethyl octanoic acid | Y
Dimethyl phthalate | Y
Dimethylpolysiloxane | Y
2,2-Dimethylpropane-1,3-diol (molten or solution) | Z
Dimethyl succinate | Y
Dinonyl phthalate | Y
Dioctyl phthalate | X
Dipentene | Y
Diphenyl | X
Diphenylamine (molten) | Y
Diphenylamines, alkylated | Y
Diphenyl/Diphenyl ether mixtures | X
Diphenyl ether | X
Diphenyl ether/Diphenyl phenyl ether mixture | X
Diphenylol propane-epichlorohydrin resins | X
Dipropylene glycol | Z
Dipropylene glycol butyl ether, see Poly (2-8) alkylene glycol monoalkyl(C1-C6) ether |
Dipropylene glycol dibenzoate | #
Dipropylene glycol methyl ether, see Poly (2-8)alkylene glycol monoalkyl (C1-C6) ether |
Dithiocarbamate ester (C7-C35) | X
Distillates:
Flashed feed stocks | I
Straight run | I
Diundecyl phthalate | Y
Dodecane (all isomers) | Y
Dodecanol, see Dodecyl alcohol |
Dodecene (all isomers) | X
Dodecyl alcohol | Y
Dodecyl benzene, see Alkyl (C9+) benzenes |
Dodecyl hydroxypropyl sulfide | X
Dodecyl phenol | X
Dodecyl xylene | Y
Drilling brines (containing zinc salts) (if flammable or combustible) | X
Drilling brines, including: calcium bromide solution, calcium chloride solution and sodium chloride solution (if flammable or combustible) | Z
Drilling mud (low toxicity) (if flammable or combustible) | #
Ethane | LFG
ETBE, see Ethyl tert-butyl ether |
2-Ethoxyethyl acetate | Y
Ethoxylated alkyloxy alkyl amine, see Ethoxylated long-chain (C16+) alkyloxyalkylamine |
Ethoxy triglycol (crude) | #
Ethyl acetate | Z
Ethyl acetoacetate | Z
Ethyl alcohol | Z
Ethyl amyl ketone | Y
Ethylbenzene | Y
Ethyl butanol | #
Ethyl tert-butyl ether | Y
Ethyl butyrate | Y
Ethyl cyclohexane | Y
Ethylene | LFG
S-Ethyl dipropylthiocarbamate | Y
Ethylene carbonate | Z
Ethylene glycol | Y
Ethylene glycol acetate | Y
Ethylene glycol butyl ether acetate | Y
Ethylene glycol diacetate | Y
Ethylene glycol dibutyl ether | #
Ethylene glycol ethyl ether acetate, see 2-Ethoxyethyl acetate |
Ethylene glycol methyl butyl ether | #
Ethylene glycol methyl ether acetate | Y
Ethylene glycol phenyl ether | Z
Ethylene glycol phenyl ether/Diethylene glycol phenyl ether mixture | Z
Ethyl-3-ethoxypropionate | Y
2-Ethylhexaldehyde, see Octyl aldehydes |
2-Ethylhexanoic acid | Y
Ethylhexoic acid, see 2-Ethylhexanoic acid |
2-Ethylhexanol, see Octanol (all isomers) |
Ethyl hexyl phthalate | #
2-Ethyl-2-(hydroxymethyl) propane-1,3-diol, (C8-C10) ester | Y
Ethyl propionate | Y
Ethyl toluene | Y
Fatty acid (saturated, C13+) | Y
Fatty acids, (C16+) | Y
Fatty acids, essentially linear (C6-C18) 2-ethylhexyl ester | Y
Fish acid oil | #
Formamide | Y
Furfuryl alcohol | Y
† Gas oil, cracked | I
Gas oil, high pour | I
Gas oil, low pour | I
Gas oil, low sulfur | I
Gasoline blending stocks:
Alkylates | I
† Reformates | I
Gasolines:
† Automotive (containing not over 4.23 grams lead per gallon) | I
† Aviation (containing not over 4.86 grams lead per gallon) | I
Casinghead (natural) | I
Polymer | I
† Straight run | I
Gasoline (Natural gas condensate) | I
Glucitol/glycerol blend propoxylated (containing 10% or more amines) | Y
Glycerine | Z
Glycerine (83%), Dioxanedimethanol (17%) mixture | #
Glycerol, see Glycerine |
Glycerol ethoxylated | OS
Glycerol monooleate | Y
Glycerol polyalkoxylate | #
Glycerol, propoxylated and ethoxylated | Z
Glycerol/sucrose blend propoxylated and ethoxylated | Z
Glyceryl triacetate | Z
Glycidyl ester of tridecyl acetic acid, see Glycidyl ester of C10 trialkylacetic acid |
Glycidyl ester of versatic acid, see Glycidyl ester of C10 trialkylacetic acid |
Glycidyl ester of C10 trialkylacetic acid | Y
Glycol diacetate, see Ethylene glycol diacetate |
Glycol triacetate, see Glyceryl triacetate |
Glyoxal solution (40% or less) | Y
Glyphosate solution (not containing surfactant) | Y
Grape Seed Oil | Y
Groundnut acid oil | #
Groundnut oil | Y
Hazelnut oil | #
Heartcut distillate | I
Heptadecane, see n-Alkanes (C10+) |
Heptane (all isomers) | X
Heptanoic acid, see n-Heptanoic acid |
n-Heptanoic acid | Z
Heptanol (all isomers) | Y
Heptene (all isomers) | Y
Heptyl acetate | Y
Herbicide (C15H22NO2Cl), see N-(2-Methoxy-1-methyl ethyl)-2-ethyl-6-methylchloroacetanilide |
Hexadecanol, see Alcohol (C 13+) |
1-Hexadecylnaphthalene/1,4-Bis(hexadecyl)naphthalene mixture | Y
Hexaethylene glycol, see Polyethylene glycol |
Hexamethylene glycol | Z
Hexamethylenetetramine solutions | Z
Hexane (all isomers) | Y
1,6-Hexanediol, distillation overheads | Y
Hexanoic acid | Y
Hexanol | Y
Hexene (all isomers) | Y
Hexyl acetate | Y
Hexylene glycol | Z
Hydrogenated starch hydrolysate | OS
2-Hydroxy-4-(methylthio) butanoic acid | Z
Hydroxy terminated polybutadiene, see Polybutadiene, hydroxy terminated |
Illipe oil | Y
Isoamyl alcohol | Z
Isobutyl alcohol | Z
Isobutyl formate | Z
Isobutyl methacrylate | Z
Isopropyl acetate | Z
Isopropyl alcohol | Z
Isopropylcyclohexane | Y
Jatropha oil | Y
Jet fuels:
† JP-4 | I
JP-5 (kerosene, heavy) | I
JP-8 | I
Kerosene | I
Lactic acid | Z
Lanolin oil | #
Lard acid oil | #
Latex: Carboxylated styrene-Butadiene copolymer; Styrene-Butadiene rubber | Z
Lauric acid | X
Lecithin | OS
Long-chain alkaryl polyether (C11-C20) | Y
Long-chain alkaryl sulfonic acid (C16-C60) | Y
Long-chain alkylphenate/Phenol sulfide mixture | Y
Lubricating oil | I
L-Lysine solution (60% or less) | Z
Magnesium long-chain alkaryl sulfonate (C11-C50) | Y
Magnesium long-chain alkyl phenate sulfide (C8-C20) | #
Magnesium long-chain alkyl salicylate (C11+) | Y
Magnesium nonyl phenol sulfide, see Magnesium long-chain alkyl phenate sulfide (C8-C20) |
Maleic anhydride/sodium allylsulphonate copolymer solution | Z
Mango kernel oil | Y
2-Mercaptobenzothiazol (in liquid mixtures) | #
Methane | LFG
3-Methoxy-1-butanol | Z
3-Methoxybutyl acetate | Y
1-Methoxy-2-propyl acetate | #
N-(2-Methoxy-1-methyl ethyl)-2-ethyl-6-methylchloroacetanilide | X
Methoxy triglycol , see Poly (2-8) alkylene glycol monoalkyl (C1-C6) ether |
Methyl acetate | Z
Methyl acetoacetate | Z
Methyl alcohol | Y
Methylamyl acetate | Y
Methylamyl alcohol | Z
Methyl amyl ketone | Z
Methyl butanol, see the amyl alcohols |
Methylbutenol | Y
Methyl tert-butyl ether | Z
Methyl butyl ketone | Y
Methylbutynol | Z
Methyl butyrate | Y
Methylcyclohexane | Y
Methylcyclopentadiene dimer | Y
Methyl 3-(3,5 di-tert-butyl-4-hydroxyphenyl) propionate crude melt | [Y]
Methyl ethyl ketone | Z
Methyl formate | Z
N-Methylglucamine solution (70% or less) | Z
2-Methylglutaronitrile with 2-Ethylsuccinonitrile (12% or less) | Z
Methyl heptyl ketone | #
2-Methyl-2-hydroxy-3-butyne | Z
Methyl isobutyl carbinol, see Methyl amyl alcohol |
Methyl isobutyl ketone | Z
3-Methyl-3-methoxybutanol | Z
3-Methyl-3-methoxybutyl acetate | #
Methyl pentene, see Hexene (all isomers) |
Methyl tert-pentyl ether, see tert-Amyl methyl ether |
2-Methyl-1,3-propanediol | Z
Methyl propyl ketone | Z
2-Methylpyridine | Z
3-Methylpyridine | Z
4-Methylpyridine | Z
N-Methyl-2-pyrrolidone | Y
Methyl salicylate | Y
Metolachlor, see N-(2-Methoxy-1-methylethyl)-2-ethyl-6-methylchloroacetanilide |
Mineral oil | I
Mineral seal oil | I
Mineral spirits | I
Mixed acid oil | #
Mixed general acid oil | #
Mixed hard acid oil | #
Mixed soft acid oil | #
Motor oil | I
MTBE, see Methyl tert-butyl ether |
Myrcene | X
Naphtha:
† Aromatic (having less than 10% Benzene) | I
Heavy | I
Paraffinic | I
† Petroleum | I
† Solvent | I
Stoddard Solvent | I
† Varnish makers' and painters' (75%) | I
Naphthenic acid | #
Neatsfoot oil | #
Neodecanoic acid | Y
Nitrilotriacetic acid, trisodium salt solution | Y
Nitroethane | Y
Nitroethane(80%)/Nitropropane(20%) | Y
Nitroethane, 1-Nitropropane (each 15% or more) mixture | Y
Nitropropane (60%)/Nitroethane (40%) mixture | Y
Nonane (all isomers) | X
Nonanoic acid (all isomers) | Y
Nonanoic, Tridecanoic acid mixture | #
Nonene (all isomers) | Y
Nonyl acetate | #
Nonyl alcohol (all isomers) | Y
Nonyl methacrylate monomer | Y
Nonylphenol | X
Nonylphenol poly(4+)ethoxylate | Y
Nonyl phenol sulfide (90% or less), see Alkyl (C8-C40) phenol sulfide |
Noxious liquid, F, (2) n.o.s. (“trade name” contains “principle components”) ST 1, Cat X | X
Noxious liquid, F, (4) n.o.s. (“trade name” contains “principle components”) ST 2, Cat X | X
Noxious liquid, F, (6) n.o.s. (“trade name” contains “principle components”) ST 2, Cat Y | Y
Noxious liquid, F, (8) n.o.s. (“trade name” contains “principle components”) ST 3, Cat Y | Y
Noxious liquid, F, (10) n.o.s. (“trade name” contains “principle components”) ST 3, Cat Z | Z
Noxious liquid, (11) n.o.s. (“trade name” contains “principle components”) Cat Z (if flammable or combustible) | Z
Non noxious liquid, (12) n.o.s. (“trade name” contains “principle components”) Cat OS (if flammable or combustible) | OS
Nutmeg butter oil | #
Octadecanol, see Alcohols (C13+) |
Octadecene, see the olefin or alpha-olefin entries |
Octadeceneamide solution | #
Octamethylcyclotetrasiloxane | Y
Octane (all isomers) | X
Octanoic acid (all isomers) | Y
Octanol (all isomers) | Y
Octene (all isomers) | Y
Octyl acetate, see n-Octyl acetate |
n-Octyl acetate | Y
Octyl alcohol (iso-, n-), see Octanol (all isomers) |
Octyl aldehydes | Y
Octyl decyl adipate | Y
Octyl phthalate, see Dioctyl phthalate |
Oil, edible: Poppy seed | I
Oil, fuel:
No. 1 ( kerosene ) | I
No. 1-D | I
No. 2 | I
No. 2-D | I
No. 4 | I
No. 5 | I
No. 6 | I
Oiticica oil | #
alpha-Olefins (C6-C18) mixtures | X
alpha-Olefins (C13-C18) mixtures, see alpha-Olefins (C6-C18) |
Olefins (C13+, all isomers) | Y
Olefin-Alkyl ester copolymer (molecular weight 2000+) | Y
Olefin mixtures (C5-C7) | Y
Olefin mixtures (C5-C15) | X
Olefin Mixture (C7-C9) C8 rich, stabilized | X
Oleic acid | Y
Oleyl alcohol, see Alcohols (C13+) |
Orange juice (concentrated) | OS
Palm kernel acid oil, methyl ester | #
Palm kernel olein | Y
Palm kernel stearin | Y
Palm mid-fraction | Y
Palm kernel fatty acid distillate | Y
Palm oil fatty acid methyl ester | Y
Palm olein | Y
Palm stearin | Y
Paraffin wax | Y
n-Paraffins (C10-C20), see n-Alkanes (C10+) |
Paraldehyde-ammonia reaction product | Y
Peanut oil, see Groundnut oil |
Peel oil (oranges and lemons) | #
Penetrating oil | I
Pentadecanol, see Alcohols (C13+) |
1,3-Pentadiene | Y
1,3-Pentadiene (greater than 50%), cyclopentene and isomers, mixtures | Y
Pentaethylene glycol, see Polyethylene glycols |
Pentane (all isomers) | Y
Pentanoic acid | Y
Pentene (all isomers) | Y
n-Pentyl propionate | Y
Perilla oil | #
Petrolatum | Y
1-Phenyl-1-xylyl ethane | Y
Phosphate esters, alkyl (C12-C14) amine | Y
Phosphosulfurized bicyclic terpene | #
Pilchard oil | #
Pinene, see the alpha- or beta- isomers |
alpha-Pinene | X
beta-Pinene | X
Pine oil | X
Piperazine (70% or less) | Y
Polyalkyl(C18-C22) acrylate in xylene | Y
Polyalkylene glycols, polyalkylene glycol monoalkyl ethers mixtures | #
Polyalkylalkenaminesuccinimide, molybdenum oxysulfide | Y
Polyalkylene glycol butyl ether, see Poly(2-8)alkylene glycol monoalkyl(C1-C6) ether |
Poly(2-8)alkylene glycol monoalkyl (C1-C6) ether | Z
Including:
Diethylene glycol butyl ether |
Diethylene glycol ethyl ether |
Diethylene glycol n-hexyl ether |
Diethylene glycol methyl ether |
Diethylene glycol n-propyl ether |
Dipropylene glycol butyl ether |
Dipropylene glycol methyl ether |
Polypropylene glycol methyl ether |
Triethylene glycol butyl ether |
Triethylene glycol ethyl ether |
Triethylene glycol methyl ether |
Tripropylene glycol methyl ether |
Poly(2-8)alkylene glycol monoalkyl (C1-C6) ether acetate | Y
Including:
Diethylene glycol butyl ether acetate |
Diethylene glycol ethyl ether acetate |
Diethylene glycol methyl ether acetate |
Polyalkylene oxide polyol | #
Polyalkyl(C10-C20) methacrylate | Y
Polyalkyl(C10-C18) methacrylate/ethylene-propylene copolymer mixture | Y
Polybutadiene, hydroxy terminated | #
Polybutene | Y
Polybutenyl succinimide | Y
Poly(2+)cyclic aromatics | X
Polydimethylsiloxane, see Dimethylpolysiloxane |
Polyether (molecular weight 1350+) | Y
Polyether polyols | #
Polyethylene glycol | Z
Polyethylene glycol dimethyl ether | Z
Poly(ethylene glycol) methylbutenyl ether (MW>1000) | Z
Polyethylene glycol monoalkyl ether, see Poly(2-8)alkylene glycol monoalkyl(C1-C6) ether |
Polyglycerine, sodium salt solution (containing less than 3% sodium hydroxide) | Z
Polyglycerol | #
Polyisobutenamine in aliphatic (C10-C14) solvent | Y
Polyisobutenyl anhydride adduct | Z
Poly(4+)isobutylene ( MW>224) | X
Polyisobutylene (MW≤224) | Y
Polymerized esters | #
Polyolefin amide alkeneamine (C17+) | Y
Polyolefin amide alkeneamine (C28+), see Polyolefin amide alkeneamine (C17+) |
Polyolefin amide alkeneamine borate (C28-C250) | Y
Polyolefin amide alkeneamine/Molybdenum oxysulfide mixture | #
Polyolefin amide alkeneamine polyol | Y
Polyolefinamine (C28-C250) | Y
Polyolefinamine in alkyl (C2-C4) benzenes | Y
Polyolefinamine in aromatic solvent | Y
Polyolefin aminoester salts (molecular weight 2000+) | Y
Polyolefin anhydride | Y
Polyolefin ester (C28-C250) | Y
Polyolefin phenolic amine (C28-C250) | Y
Polyolefin phosphorosulfide, barium derivative (C28-C250) | Y
Poly(20)oxyethylene sorbitan monooleate | Y
Poly(5+)propylene | Y
Polysiloxane | Y
Polypropylene glycol methyl ether, see Poly(2-8)alkylene glycol monoalkyl(C1-C6) ether |
Polysiloxane | Y
Poppy oil | #
Potassium oleate | Y
Potassium salt of polyolefin acid | #
Propane | LFG
2-Propene-1-aminium, N,N-dimethyl-N-2-propenyl-, chloride, homopolymer solution | Y
Propionaldehyde | Y
n-Propoxypropanol , see Propylene glycol monoalkyl ether |
n-Propyl acetate | Y
n-Propyl alcohol | Y
iso-Propylbenzene, see Propylbenzene (all isomers) |
n-Propylbenzene, see Propylbenzene (all isomers) |
Propylbenzene (all isomers) | Y
[iso-propylcyclohexane] | [C ]
Propylene | LFG
Propylene-Butylene copolymer | #
Propylene carbonate | Z
Propylene dimer | #
Propylene glycol | Z
Propylene glycol n-butyl ether, see Propylene glycol monoalkyl ether |
Propylene glycol ethyl ether, see Propylene glycol monoalkyl ether |
Propylene glycol methyl ether, see Propylene glycol monoalkyl ether |
Propylene glycol methyl ether acetate | Z
Propylene glycol monoalkyl ether | Z
Including:
n-Propoxypropanol |
Propylene glycol n-butyl ether |
Propylene glycol ethyl ether |
Propylene glycol methyl ether |
Propylene glycol propyl ether |
Propylene glycol phenyl ether | Z
Propylene glycol propyl ether, see Propylene glycol monoalkyl ether |
Propylene polymer (in liquid mixtures) | #
Propylene tetramer | X
Propylene trimer | Y
Pseudocumene, see Trimethylbenzenes |
Raisin seed oil | #
Rapeseed acid oil | #
Rape seed oil fatty acid methyl esters | Y
Residual oil | I
Road oil | I
Rosin | Y
Rosin oil | #
Rum, see Alcoholic beverages, n.o.s. |
Safflower acid oil | #
Salad oil | #
Seal oil | I
Sesame oil | #
Soapstock oil | #
Sodium acetate, Glycol, Water mixture (containing 1% or less, Sodium hydroxide) (if flammable or combustible) | #
Sodium benzoate | Z
Sodium bromide solution (less than 50%) | Y
Sodium carboxylate solution | Y
Sodium long-chain alkyl salicylate (C13+) | #
Sodium methylate 21-30% in methanol | Y
Sodium thiocyanate solution (56% or less) | Y
Soya acid oil | #
Soybean oil fatty acid methyl ester | Y
Soybean oil (epoxidized) | #
Spindle oil | I
Stearic acid, see Fatty acid (saturated, C13+) |
Stearyl alcohol, see Alcohols (C13+) |
Sulfohydrocarbon (C3-C88) | Y
Sulfohydrocarbon, long-chain (C18+) alkylamine | #
Sulfolane | Y
Sulfurized fat (C14-C20) | Z
Sulfurized polyolefinamide alkene(C28-C250) amine | Z
Sunflower oil, see Sunflower seed acid oil |
Sunflower seed acid oil | #
Tall oil, crude | Y
Tall oil, distilled | Y
Tall oil, fatty acid | #
Tall oil pitch | Y
Tall oil soap, crude | Y
Tallow | Y
Tallow alcohol, see Alcohols (C13+) |
Tallow alkyl nitrile | #
Tallow fatty acid | Y
TAME, see tert-Amyl methyl ether |
Tetradecanol, see Alcohols (C13+) |
Tetradecene, see alpha-Olefins (C6-C18) mixtures, Olefin mixtures (C5-C15), or Olefins (C13+, all isomers) |
Tetradecylbenzene, see Alkyl(C9+)benzenes |
Tetraethylene glycol | Z
Tetraethyl silicate monomer/oligomer (20% in ethanol) | Z
Tetrahydronaphthalene | Y
Tetramethylbenzene (all isomers) | X
Tetrapropylbenzene, see Alkyl(C9+)benzenes |
Toluene | Y
Transformer oil | I
Triarylphosphate, see Triisopropylated phenyl phosphates |
Tributyl phosphate | Y
Tridecane | Y
Tridecanoic acid | Y
Tridecanol, see Alcohols (C13+) |
Tridecene, see Olefins (C13+, all isomers) |
Tridecyl acetate | Y
Tridecylbenzene, see Alkyl(C9+)benzenes |
Triethylbenzene | X
Triethylene glycol | Z
Triethylene glycol butyl ether, see Poly(2-8)alkylene glycol monoalkyl(C1-C6) ether |
Triethylene glycol butyl ether mixture | #
Triethylene glycol di-(2-ethylbutyrate) | #
Triethylene glycol ether mixture | #
Triethylene glycol ethyl ether, see Poly(2-8)alkylene glycol monoalkyl(C1-C6) ether |
Triethylene glycol methyl ether, see Poly(2-8)alkylene glycol monoalkyl(C1-C6) ether |
Triethyl phosphate | Z
Triisooctyl trimellitate | #
Triisopropanolamine | Z
Triisopropylated phenyl phosphates | X
Trimethylamine solution (30% or less) | Z
Trimethylbenzene (all isomers) | X
2,2,4-Trimethyl-1,3-pentanediol diisobutyrate | Y
2,2,4-Trimethyl-1,3-pentanediol-1-isobutyrate | Y
2,2,4-Trimethyl-3-pentanol-1-isobutyrate | #
Tripropylene, see Propylene trimer |
Tripropylene glycol | Z
Tripropylene glycol methyl ether, see Poly(2-8)alkylene glycol monoalkyl(C1-C6) ether |
1,3,5-Trioxane | Y
Trixylenyl phosphate, see Trixylyl phosphate |
Trixylyl phosphate | X
Tucum oil | #
Turbine oil | I
Turpentine | X
† Turpentine substitute, see White spirit (low (15-20%) aromatic) |
Undecanoic acid | Y
1-Undecanol, see Undecyl alcohol |
Undecene, see 1-Undecene |
1-Undecene | X
1-Undecyl alcohol, see Undecyl alcohol |
Undecyl alcohol | X
Undecylbenzene, see Alkyl(C9+)benzenes |
Vegetable oils, n.o.s. | #
Vegetable protein solution (hydrolyzed) (if flammable or combustible) | OS
Vinyltoluene | Y
Walnut oil | #
Waxes | Y
† White spirit, see White spirit (low (15-20%) aromatic) |
† White spirit, low (15-20%) aromatic | Y
Wine, see Alcoholic beverages, n.o.s. |
Wood lignin with sodium acetate/oxalate | Z
Xylenes | Y
Xylenes/Ethylbenzene (10% or more) mixture | Y
Zinc alkaryl dithiophosphate (C7-C16) | Y
Zinc alkenyl carboxamide | Y
Zinc alkyl dithiophosphate (C3-C14) | Y
Notes:
“#” = Noxious liquid substance status is undetermined—see 46 CFR 153.900(c) for shipping on an oceangoing vessel.
“†” = Marine occupational safety and health regulations for benzene, 46 CFR part 197, subpart C, may apply to this cargo.
“[ ]” = Provisional categorization to which the United States is party.
“@” = The noxious liquid substance category has been assigned by the U.S. Coast Guard, in absence of one assigned by the IMO. The category is based on a GESAMP Hazard Profile or by analogy to a closely related product having a noxious liquid substance assigned.
Entries in bold were added from the March 2012 Annex to the 2007 edition of the IBC Code.
“Cat” = Pollution category.
“F” = Flammable (flash point less than or equal to 60 degrees C (140 degrees F).
“I” = An “oil” under MARPOL Annex I.
Italicized words are not part of the cargo name but may be used in addition to the cargo name.
“n.o.s.” = Not otherwise specified.
“OS” = An “other cargo” considered at present to present no harm to marine resources, human health, amenities, or other legitimate uses of the sea when discharged into the sea from tank cleaning or deballasting operations.
“see” = A redirection to the preferred, alternative cargo name—for example in “Diethyl ether, see Ethyl ether,” the pollution category for “diethyl ether” will be found under the preferred, alternative cargo name “ethyl ether.”
“ST” = Ship type.
“X,” “Y,” and “Z” = Noxious liquid substance categories under MARPOL Annex II.

PART 150—COMPATIBILITY OF CARGOES

3. Revise the authority citation for part 150 to read as follows:

Authority: 46 U.S.C. 2103, 3306, 3703; Department of Homeland Security Delegation No. 0170.1. Section 150.105 issued under 44 U.S.C. 3507; Department of Homeland Security Delegation No. 0170.1, para. II (92.a), (92.b).

4. Revise Table I to Part 150, as amended by the interim rule published on August 16, 2013 (78 FR 50148), effective January 16, 2017, as delayed at 79 FR 68132, November 14, 2014, to read as follows:

Table I to Part 150—Alphabetical List of Cargoes
Chemical name | Group No. | Footnote | CHRIS Code | Related CHRIS codes
Acetaldehyde | 19 |  | AAD |
Acetic acid | 4 | 2 | AAC |
Acetic anhydride | 11 | 2 | ACA |
Acetochlor | 10 |  | ACG |
Acetone | 18 | 2 | ACT |
Acetone cyanohydrin | 0 | 1, 2 | ACY |
Acetonitrile | 37 |  | ATN |
Acetonitrile (low purity grade) | 37 |  | AIL |
Acetophenone | 18 |  | ACP |
Acid oil mixture from soybean, corn (maize) and sunflower oil refining, see Oil, misc: Acid mixture from soybean, corn (maize) and sunflower oil refining | 34 | 3 |  | AOM
Acrolein | 19 | 2 | ARL |
Acrylamide solution (50% or less) | 10 | 3 | AAM | AAO
Acrylic acid | 4 | 2 | ACR |
Acrylic acid/ethenesulfonic acid copolymer with phosphonate groups, sodium salt solution | 30 | 3 | APG |
Acrylonitrile | 15 | 2 | ACN |
Acrylonitrile-Styrene copolymer dispersion in Polyether polyol | 20 |  | ALE |
Adiponitrile | 37 |  | ADN |
Alachlor technical (90% or more) | 33 | 3 | ALH | ALI
Alcohol (C12-C13, branched and linear) poly (4-8) propoxy sulfates, sodium salt 25-30% solution | 41 | 3 | ABL |
Alcohol (C9-C11) poly (2.5-9) ethoxylates | 20 | 3 | AET | ALY/APV/APW
Alcohol (C6-C17) (secondary) poly (3-6) ethoxylates | 20 | 3 | AEA | AEB
Alcohol (C6-C17) (secondary) poly (7-12) ethoxylates | 20 | 3 | AEB | AEA
Alcohol (C12-C16) poly (1-6) ethoxylates | 20 | 3 | AED | AET/ALY/APW
Alcohol (C12-C16) poly (7-19) ethoxylates | 20 | 3 | APV | AET/ALY/APV
Alcohol (C12-C16) poly (20+) ethoxylates | 20 | 3 | APW | AET/ALY
Alcohol (C12-C15) poly (. . .) ethoxylate, see Alcohol (C12-C16) poly (. . .) ethoxylates | 20
Alcohol polyethoxylates | 20 |  |  | AEA/AEB/AED/AET/APV/APW
Alcohol polyethoxylates, secondary | 20 |  |  | AEA/AEB
Alcoholic beverages, n.o.s. | 20 | 3 | ABV |
Alcohols (C12+), primary, linear | 20 | 3 | ASY | ALR/AYK/AYL
Alcohols (C8-C11), primary, linear and essentially linear | 20 |  | ALR | AYK/AYL
Alcohols (C12-C13), primary, linear and essentially linear | 20 | 3 | AYK | ALR/ASY/AYL
Alcohols (C14-C18), primary, linear and essentially linear | 20 | 3 | AYL | ALR/ASY AYK
Alcohols (C13+) | 20 |  | ALY | ASY/AYK
Including:
Cetyl Alcohol (hexadecanol) | 20
Oleyl Alcohol (octadecenol) | 20
Pentadecanol | 20
Tallow alcohol | 20
Tetradecanol | 20
Tridecanol | 20
Alkanes (C10-C26), linear and branched (flash point > 60 °C) | 31 | 3 | ABD
Alkanes (C6-C9) | 31 |  | ALK
Including:
Heptanes | 31
Hexanes | 31
Nonanes | 31
Octanes | 31
n-Alkanes (C10+) (all isomers) | 31 |  | ALV | ALJ
Including:
Decanes | 31
Dodecanes | 31
Heptadecanes | 31
Tridecanes | 31
Undecanes | 31
iso-& cyclo-Alkanes (C10-C11) | 31 |  | AKI
iso-& cyclo-Alkanes (C12+) | 31 |  | AKJ
Alkane (C14-C17) sulfonic acid, sodium salt solutions, see Sodium alkyl (C14-C17) sulfonates (60-65% solution) | 34 |  | AKA | SAA (AKE/SSU)
Alkaryl polyether (C9-C20) | 41 |  | AKP
Alkenoic acid, polyhydroxy ester borated | 0 | 1, 3 | AAY
Alkenyl (C11+) amide | 10 |  | AKM
Alkenyl (C16-C20) succinic anhydride | 11 |  | AAH
Alkyl acrylate-Vinyl pyridine copolymer in Toluene | 32 |  | AAP
Alkylaryl phosphate mixtures (more than 40% Diphenyl tolyl phosphate, less than 0.02% ortho-isomer) | 34 |  | APD
Alkylated (C4-C9) hindered phenols | 21 | 3 | AYO
Alkyl (C3-C4) benzenes | 32 |  | AKC |
Including:
Butylbenzenes | 32
Cumene | 32
Propylbenzenes | 32
Alkyl (C5-C8) benzenes | 32 |  | AKD
Including:
Amylbenzenes | 32
Heptylbenzenes | 32
Hexylbenzenes | 32
Octylbenzenes | 32
Alkyl (C9+) benzenes | 32 |  | AKB
Including:
Decylbenzenes | 32
Dodecylbenzenes | 32
Nonylbenzenes | 32
Tetradecylbenzenes | 32
Tetrapropylbenzenes | 32
Tridecylbenzenes | 32
Undecylbenzenes | 32
Alkyl (C8+) amine, Alkenyl (C12+) acid ester mixture | 34 |  | AAA
Alkyl amine (C17+) | 7 |  | AKY
Alkyl benzene distillation bottoms | 0 | 1, 3 | ABB
Alkylbenzene mixtures (containing at least 50% of Toluene) | 32 | 3 | AZT
Alkylbenzene, Alkylindane, Alkylindene mixture (each C12-C17) | 32 |  | AIH
Alkyl (C11-C17) benzene sulfonic acid | 0 | 1, 2, 3 | ABN | ABS/ABQ
Alkylbenzene sulfonic acid (less than 4%) | 0 | 1 | ABQ | ABS/ABN
Alkylbenzene sulfonic acid, sodium salt solution | 33 |  | ABT
Alkyl (C12+) dimethylamine | 7 | 3 | ADM
Alkyl dithiocarbamate (C19-C35) | 34 | 3 | ADB
Alkyl dithiothiadiazole (C6-C24) | 33 |  | ADT
Alkyl ester copolymer (C4-C20) | 34 |  | AES | AEQ
Alkyl ester copolymer in mineral oil | 34 |  | AEQ | AES
Alkyl (C7-C9) nitrates | 34 | 2 | AKN | ONE
Alkyl (C7-C11) phenol poly (4-12) ethoxylates | 40 |  | APN | NPE
Alkyl (C4-C9) phenols | 21 |  | AYI | BLT/BTP/NNP/OPH
Alkyl phenol sulfide (C8-C40), see Alkyl (C8-C40) phenol sulfide | 34 |  |  | AKS
Alkyl (C8-C40) phenol sulfide | 34 |  | AKS
Alkyl (C9-C15) phenyl propoxylate | 40 |  | AXL
Alkyl (C8-C9) phenylamine in aromatic solvents | 9 |  | ALP
Alkyl phthalates, see individual phthalates | 34 |  | AYS
Alkyl polyglucoside solution, see individual polyglucoside solution | 43 |  | AGD | AGL/AGM AGN/AGO AGP
Alkyl (C8-C10) polyglucoside solution (65% or less) | 43 | 3 | AGL | AGD/AGM/AGN/AGO/AGP
Alkyl (C8-C10)/(C12-C14):(40% or less/60% or more) polyglucoside solution (55% or less) | 43 | 3 | AGN | AGD/AGL AGM/AGO AGP
Alkyl (C8-C10)/(C12-C14):(50%/50%) polyglucoside solution (55% or less) | 43 | 3 | AGO | AGD/AGL/AGN/AGP
Alkyl (C8-C10)/(C12-C14):(60% or more/40% or less) polyglucoside solution (55% or less) | 43 | 3 | AGP | AGD/AGL/AGM/AGN/AGO
Alkyl (C12-C14) polyglucoside solution (55% or less) | 43 | 3 | AGM | AGD/AGL/AGN/AGO/AGP
Alkyl (C12-C16) propoxyamine ethoxylates | 8 | 3 | AXE | LPE
Alkyl (C10-C20), saturated and unsaturated) phosphite | 34 |  | AKL
Alkyl succinic anhydride | 11 |  | AUA
Alkyl sulfonic acid ester of phenol | 34 |  | AKH
Alkyl toluene | 32 |  | AYL | AUS
Alkyl (C18+) toluenes | 32 | 3 | AUS | AYL
Alkyl (C18-C28) toluenesulfonic acid | 0 | 1, 3 | AUU
Alkyl (C18-C28) toluenesulfonic acid, Calcium salts, borated | 34 | 3 | AUB
Alkyl (C18-C28) toluenesulfonic acid, Calcium salts, low overbase | 33 | 3 | AUL
Alkyl (C18-C28) toluenesulfonic acid, calcium salts, high overbase | 33 | 3 | AUC
Allyl alcohol | 15 | 2 | ALA
Allyl chloride | 15 |  | ALC
Aluminum chloride/Hydrochloric acid solution, see “Aluminum chloride/Hydrogen chloride solution” | 0 | 1 | AHS | AHG
Aluminum chloride/Hydrogen chloride solution | 0 | 1, 3 | AHG | AHS
Aluminum hydroxide/sodium hydroxide/sodium carbonate solution (40% or less) | 5 | 3 | AHN
Aluminum sulfate solution | 43 | 2 | ASX | ALM
Amine C-6, morpholine process residue | 9 |  | AOI
Aminoethyldiethanolamine/Aminoethylethanolamine solution | 8 |  | ADY
2-(2-Aminoethoxy)ethanol | 8 |  | AEX
Aminoethylethanolamine | 8 |  | AEE
N-Aminoethylpiperazine | 7 |  | AEP
2-Amino-2-hydroxymethyl-1,3-propanediol solution | 43 |  | AHL
2-Amino-2-methyl-1-propanol | 8 |  | APZ | APQ/APR
Ammonia, anhydrous | 6 |  | AMA
Ammonia, aqueous (28% or less Ammonia), see Ammonium hydroxide | 6 |  |  | AMH
Ammonium bisulfite solution (70% or less) | 43 | 2 | ABX | ASU
Ammonium chloride solution (less than 25%) | 43 | 3 | AIS | AMC
Ammonium hydrogen phosphate solution | 0 | 1 | AMI
Ammonium hydroxide (28% or less Ammonia) | 6 |  | AMH
Ammonium lignosulfonate solution, see also Lignin liquor | 43 |  | ALG | LNL
Ammonium nitrate solution (45% or less) | 0 | 1 | AND | AMN/ANR/ANW
Ammonium nitrate solution (93% or less) | 0 | 1 | ANW | AMN/AND/ANR
Ammonium nitrate/Urea solution (containing Ammonia), see Urea/Ammonium nitrate solution (containing 1% or more Ammonia) | 6 |  |  | UAS (ANU/UAT/UAU/UAV)
Ammonium nitrate/Urea solution (not containing Ammonia), see Urea/Ammonium nitrate solution (containing less than 1% Ammonia) | 43 |  |  | UAU (ANU/UAS/UAT/UAV)
Ammonium phosphate/Urea solution, see Urea/Ammonium phosphate solution | 43 |  |  | UAP (APP/URE)
Ammonium polyphosphate solution | 43 |  | AMO
Ammonium sulfate solution | 43 |  | ASW | AME/AMS
Ammonium sulfate solution (20% or less) | 43 |  | AME | AMS/ASW
Ammonium sulfide solution (45% or less) | 5 | 3 | ASS | ASF
Ammonium thiocyanate/Ammonium thiosulfate solution | 0 | 1 | ACV | ACS
Ammonium thiosulfate solution (60% or less) | 43 | 3 | ATV | ATF
Amyl acetate (all isomers) | 34 | 3 | AEC | IAT/AML/AAS/AYA
Amyl acid phosphate | 34 |  | AIA |
Amyl alcohol, primary | 20 | 3 | APM | AAI/AAL/AAN/IAA
n-Amyl alcohol | 20 | 3 | AAN | AAI/AAL/APM/ASE/IAA
sec-Amyl alcohol | 20 | 3 | ASE | AAI/AAL/AAN/APM/IAA
tert-Amyl alcohol | 20 | 3 | AAL | AAI/APM/ASE/IAA
tert-Amyl methyl ether | 41 |  | AYE |
Amyl methyl ketone, see Methyl amyl ketone | 18 |  | AMJ | MAK (AMK)
Amylene, see Pentene (all isomers) | 30 |  | AMW | PTX (AMX/AMZ/PTE)
tert-Amylenes, see Pentene | 30 |  | AMZ | PTX (AMW)
Aniline | 9 |  | ANL
Animal and Fish oils, n.o.s. | 34 |  | AFN
Including:
Cod liver oil | 34
Lanolin | 34
Neatsfoot oil | 34
Pilchard oil | 34
Sperm oil | 34
Animal and Fish acid oils and distillates, n.o.s. | 34 |  | AFA
Including:
Animal acid oil | 34
Fish acid oil | 34
Lard acid oil | 34
Mixed acid oil | 34
Mixed general acid oil | 34
Mixed hard acid oil | 34
Mixed soft acid oil | 34
Anthracene oil (Coal tar fraction), see Coal tar | 33 |  | AHO | COR
Apple juice | 43 |  | APJ
Argon, liquefied | 0 | 1 | ARG
Aryl polyolefin (C11-C50) | 30 |  | AYF
Asphalt | 33 |  | ASP | ACU
Asphalt blending stocks, roofers flux | 33 |  | ARF
Asphalt blending stocks, straight run residue | 33 |  | ASR
Asphalt emulsion | 33 |  | ASQ
Asphalt, kerosene, and other components | 33 |  | AKO
Aviation alkylates (C8 paraffins and iso-paraffins BPT 95-120 °C) | 33 | 3 | AVA | GAK/GAV
Barium long-chain alkaryl (C11-C50) sulfonate | 34 |  | BCA
Barium long-chain alkyl (C8-C14) phenate sulfide | 34 |  | BCH
Behenyl alcohol | 20 |  | BHY
Benzene | 32 | 2 | BNZ | BHA/BHB/PYG
Benzene and mixtures having 10% Benzene or more | 32 |  | BHB | BHA/BNZ/PYG
Benzene hydrocarbon mixtures (containing Acetylenes) (having 10% Benzene or more) | 32 |  | BHA | BHB/BNZ/PYG
Benzene/Toluene/Xylene mixtures (having 10% Benzene or more) | 32 |  | BTX | BHB/BNZ/PYG/TOL/XLX/XLM/XLO/XLP
Benzenesulfonyl chloride | 0 | 1, 2 | BSC
Benzenetricarboxylic acid, trioctyl ester | 34 |  | BCE
Benzyl acetate | 34 |  | BZE
Benzyl alcohol | 21 |  | BAL
Benzyl chloride | 36 |  | BCL
Bio-fuel blends of Diesel/gas oil and Alkanes (C10-C26), linear and branched with a flash point >60°C (>25% but <99% by volume) | 33 | 3 | BIF | BIG/BIH/BII/BIJ/BIK
Bio-fuel blends of Diesel/gas oil and Alkanes (C10-C26), linear and branched with a flash point ≤60°C (>25% but < 99% by volume) | 33 | 3 | BIG | BIF/BIH/BII/BIJ/BIK
Bio-fuel blends of Diesel/gas oil and FAME (>25% but <99% by volume) | 34 | 3 | BIH | BIF/BIG/BII/BIJ/BIK
Bio-fuel blends of Diesel/gas oil and vegetable oil (>25% but <99% by volume) | 34 | 3 | BII | BIF/BIG/BIH/BIJ/BIK
Bio-fuel blends of Gasoline and Ethyl alcohol (>25% but <99% by volume) | 20 | 2, 3 | BIJ | BIF/BIG/BIH/BII/BIK
Bis (2-ethylhexyl) terephthalate | 34 |  | DHH
Boronated calcium sulfonate | 34 |  | BCU
Brake fluid base mix: Poly(2-8)alkylene (C2-C3) glycols/Polyalkylene (C2-C10) glycols monoalkyl (C1-C4) ethers and their borate esters | 20 | 3 | BFY
Brominated Epoxy Resin in Acetone | 16 |  | BER
Bromochloromethane | 36 |  | BCM
Butadiene (all isomers) | 30 |  | BDI
Butadiene/Butylene mixtures (containing Acetylenes) | 30 |  | BBM | BBX/BDI/BTN/IBL
Butane (all isomers) | 31 |  | BMX | IBT/BUT
Butane/Propane mixture | 31 |  | BUP | LPG
1,4-Butanediol, see Butylene glycol | 20 |  | BDO | BUG
2-Butanone, see Methyl ethyl ketone | 18 | 2 |  | MEK
Butene oligomer | 30 |  | BOL
Butene, see Butylenes (all isomers) | 30 |  |  | BUT/IBL
2-Butoxyethanol (58%)/Hyperbranched polyesteramide (42%) (mixture) | 20
Butyl acetate (all isomers) | 34 | 3 | BAX | BCN/BTA/BYA/IBA
Butyl acrylate (all isomers) | 14 | 3 | BAR | BAI/BTC
Butyl alcohol (all isomers) | 20 | 2, 3 | BAY | BAN/BAS/BAT/IAL
Butyl alcohol (iso-, n-, sec-, tert-), see Butyl alcohol (all isomers) | 20 | 2 |  | BAN/BAS/BAT/BAY/IAL
Butylamine (all isomers) | 7 | 3 | BTY | BAM/BTL/BUA/IAM
Butylbenzene (all isomers), see Alkyl(C3-C4)benzenes | 32 | 3 | BBE | AKC
Butyl benzyl phthalate | 34 |  | BPH
Butyl butyrate (all isomers) | 34 | 3 | BBA | BIB/BUB
n-Butyl ether | 41 | 3 | BTE
n-Butyl formate | 34 |  | BFN | BFI/BFO
Butyl heptyl ketone | 18 |  | BHK
Butyl methacrylate | 14 |  | BMH | BMI/BMN
Butyl methacrylate, Decyl methacrylate, Cetyl-Eicosyl methacrylate mixture, see Butyl/Decyl/Cetyl/Eicosyl methacrylate mixture | 14 | 3 |  | DER (BMH/BMI/BMN/CEM)
Butyl methyl ketone, see Methyl butyl ketone | 18 | 2 |  | MBJ (MBK/MIK)
Butyl phenol, Formaldehyde resin in Xylene | 32
n-Butyl propionate | 34 |  | BPN
Butyl stearate | 34 |  | BST
Butyl toluene | 32 |  | BUE
Butyl/Decyl/Cetyl/Eicosyl methacrylate mixture | 14 | 3 | DER | BMH/BMI/BMN/CEM
Butylene glycol | 20 | 2 | BUG | BDO
1,2-Butylene oxide | 16 |  | BTO
Butylenes (all isomers) | 30 |  | BTN | IBL
Butyraldehyde (all isomers) | 19 | 3 | BAE | BAD/BTR
Butyric acid | 4 |  | BRA | IBR
gamma-Butyrolactone | 0 | 1, 2 | BLA |
C9 Resinfeed (DSM) | 32 | 2 | CNR
Calcium alkaryl sulfonate (C11-C50), see Calcium long-chain alkaryl sulfonate (C11-C50) | 34 | 3 | CAE | CAY
Calcium alkyl (C9) phenol sulfide, polyolefin phosphorosulfide mixture | 34 |  | CPX
Calcium alkyl (C10-C28) salicylate | 34 | 3 | CAJ
Calcium alkyl salicylate, see Calcium long-chain alkyl salicylate (C13+), Calcium long-chain alkyl (C18-C28) salicylate, or Calcium alkyl (C10-C28) salicylate | 34 |  |  | CAJ/CAK/CAZ
Calcium bromide solution, see Drilling brines |  |  | CBI | DRB
Calcium bromide/Zinc bromide solution, see Drilling brine (containing Zinc salts) | 43 |  |  | DZB
Calcium carbonate slurry | 34 |  | CSR
Calcium chloride solution | 43 |  | CCS | CLC
Calcium hydroxide slurry | 5 |  | COH | CAH
Calcium hypochlorite solution (15% or less) | 5 | 3 | CHU | CHY/CHZ
Calcium hypochlorite solution (more than 15%) | 5 | 3 | CHZ | CHU/CHY
Calcium lignosulfonate solutions, see also Lignin liquor | 43 |  | CLL | LNL
Calcium long-chain alkaryl sulfonate (C11-C50) | 34 |  | CAY
Calcium long-chain alkyl (C8-C40) phenate, see Calcium long-chain alkyl (C5-C10) phenate or Calcium long-chain alkyl (C11-C40) phenate | 34 |  | CAQ | CAU/CAV (CAN/CAW)
Calcium long-chain alkyl (C5-C10) phenate | 34 | 3 | CAU | CAN/CAQ/CAV/CAW
Calcium long-chain alkyl (C5-C20) phenate | 34 |  | CAV | CAN/CAQ/CAU/CAW
Calcium long-chain alkyl (C11-C40) phenate | 34 | 3 | CAW | CAN/CAQ/CAU/CAV
Calcium long-chain alkyl phenate sulfide (C8-C40) | 34 |  | CPI
Calcium long-chain alkyl phenolic amine (C8-C40) | 9 |  | CPQ
Calcium long-chain alkyl (C18-C28) salicylate | 34 | 3 | CAJ
Calcium long-chain alkyl salicylate (C13+) | 34 |  | CAK | CAJ/CAZ
Calcium nitrate solutions (50% or less) | 34 | 3 | CNU | CNT
Calcium nitrate/Magnesium nitrate/Potassium chloride solution | 34 |  | CLM
Calcium salts of fatty acids | 34 |  | CFF
Calcium stearate | 34 |  | CSE
Calcium sulfonate/Calcium carbonate/Hydrocarbon solvent mixture | 33 |  | CSH
Camelina oil, see Oil, misc.: Camelina | 34 | 3 | CEL
Camphor oil (light) | 18 |  | CPO
Canola oil, see Oil, edible: Rapeseed, (low erucic acid containing less than 4% free fatty acids) | 34 |  |  | ORO (ORP)
Caprolactam solution, see epsilon-Caprolactam (molten or aqueous solutions) | 22 |  | CLS
epsilon-Caprolactam (molten or aqueous solutions) | 22 | 3 | CLU | CLS
Caramel solutions | 43 |  | CML
Carbolic oil | 21 |  | CBO
Carbon dioxide (high purity) | 0 | 1 | CDH | CDO/CDQ
Carbon dioxide (reclaimed quality) | 0 | 1 | CDQ | CDH/CDO
Carbon dioxide, liquefied | 0 | 1 | CDO | CDH/CDQ
Carbon disulfide | 38 |  | CBB
Carbon tetrachloride | 36 | 2 | CBT | CBU
Cashew nut shell oil (untreated), see Oil, misc.: Cashew nut shell (untreated) | 34 |  | OCN
Castor oil, see Oil, edible: Castor | 34 |  |  | OCA (VEO)
Catoxid feedstock | 36 | 2 | CXF
Caustic potash solution | 5 | 2 | CPS
Caustic soda solution | 5 | 2 | CSS
Cesium formate solution | 43 | 3 | CSM
Cetyl alcohol (hexadecanol), see Alcohols (C13+) | 20 |  |  | ALY (ASY/AYL)
Cetyl/Stearyl alcohol, see Alcohols (C13+) | 20 |  |  | ALY (ASY/AYL)
Cetyl/Eicosyl methacrylate mixture | 14 |  | CEM
Chlorinated paraffins (C10-C13) | 36 |  | CLH | CLG/CLJ/CLQ
Chlorinated paraffins (C14-C17) (with 50% Chlorine or more, and less than 1% C13 or shorter chains) | 36 | 3 | CLJ | CLG/CLH/CLQ
Chlorinated paraffins (C14-C17) (with 52% Chlorine) | 36 |  | CLQ | CLG/CLH/CLJ
Chlorinated paraffins (C18+) with any level of chlorine | 36 |  | CLG | CLH/CLJ
Chlorine | 0 | 1 | CLX
Chloroacetic acid (80% or less) | 4 | 3 | CHM | CHL/MCA
Chlorobenzene | 36 | 2 | CRB
Chlorodifluoromethane, see monochlorodifluoromethane | 36 |  | MCF
2-Chloro-4-ethylamino-6-isopropylamino-5-triazine solution | 0 | 1 | CET
1-(4-Chlorophenyl)-4,4-dimethyl pentan-3-one | 18 | 2 | CDP
2-or 3-Chloropropionic acid | 4 |  | CPM | CLA/CLP
Chloroform | 36 |  | CRF
Chlorohydrins (crude) | 17 | 3 | CHD
4-Chloro-2-methylphenoxyacetic acid, Dimethylamine salt solution | 9 |  | CDM
o-Chloronitrobenzene | 42 |  | CNO | CNP
Chlorosulfonic acid | 0 | 1 | CSA
m-Chlorotoluene | 36 | 3 | CTM | CHI/CRN/CTO
o-Chlorotoluene | 36 | 3 | CTO | CHI/CRN/CTM
p-Chlorotoluene | 36 | 3 | CRN | CHI/CTM/CTO
Chlorotoluenes (mixed isomers) | 36 | 3 | CHI | CRN/CTM/CTO
Choline chloride solutions | 20 |  | CCO |
Citric acid (70% or less) | 4 | 3 | CIS | CIT
Clay slurry | 43 |  | CLY
Coal slurry | 43 |  | COG | COA
Coal tar | 33 |  | COR | OCT
Coal tar crude bases | 33 |  | CTB
Coal tar distillate, see Naphtha: Coal tar solvent | 33 |  | CDL | NCT (CTU)
Coal tar naphtha solvent, see Naphtha: Coal tar solvent | 33 |  |  | NCT (CDL/CTU)
Coal tar pitch (molten) | 33 | 3 | CTP
Coal tar, high temperature | 33 |  | CHH
Cobalt naphthenate in solvent naphtha | 34 |  | CNS
Cocoa butter, see Oil, edible: Cocoa butter | 34 |  |  | OCB (VEO)
Coconut oil, see Oil, edible: Coconut | 34 | 2 |  | OCC (VEO)
Coconut oil, fatty acid, see Oil, misc: Coconut fatty acid | 34 | 2 |  | CFA
Coconut oil, fatty acid methyl ester, see Oil, misc: Coconut fatty acid methyl ester | 34 | 3 |  | OCM
Copper salt of long-chain (C17+) alkanoic acid | 34 |  | CUS | CFT
Copper salt of long-chain (C3-C16) fatty acid | 34 |  | CFT | CUS
Corn oil, see Oil, edible: Corn | 34 |  |  | OCO (VEO)
Corn syrup | 43 |  | CSY
Cotton seed oil, see Oil, edible: Cotton seed | 34 |  |  | OCS (VEO)
Cotton seed oil, fatty acid, see Oil, misc.: Cotton seed oil, fatty acid | 34 |  | CFY
Creosote | 21 | 2 | CCW | CCT/CWD
Creosote (coal tar) | 21 | 2, 3 | CCT | CCW
Creosote (wood tar) | 21 | 2, 3 | CWD | CCT/CCW
Cresols (all isomers) | 21 | 3 | CRS | CFO/CFP/CRL/CRO/CSC/CSO
Cresols with 5% or more Phenol, see Phenol | 21 |  | CFP | PHN (CFO/CRL/CRO/CRS/CSO)
Cresols with less than 5% Phenol, see Cresols (all isomers) | 21 |  | CFO | CRS (CFP/CRL/CRO/CSO)
Cresylate spent caustic, see Cresylic acid, sodium salt solution | 5 | 2 | CSC | CYD
Cresylic acid | 21 |  | CRY
Cresylic acid, dephenolized | 21 |  | CAD | CRY/CYN
Cresylic acid tar | 21 |  | CRX
Cresylic acid with 5% or more phenol | 21 |  | CYN | CAD/CRY
Cresylic acid, sodium salt solution | 5 | 2 | CYD | CSC
Crotonaldehyde | 19 | 2 | CTA
Crude isononylaldehyde, see Isononyldehyde (crude) | 19 |  |  | INC
Crude isopropanol, see Isoproyl alcohol, crude | 20 |  |  | IPB (IPA/PAL)
Crude piperazine, see Piperazine, crude | 7 |  |  | PZC (PPZ/PIZ)
Cumene, see Propylbenzene (all isomers) | 32 |  | CUM | AKD (PBY/PBZ)
1,5,9-Cyclododecatriene | 30 |  | CYT
Cycloheptane | 31 |  | CYE
Cyclohexane |  |  | CHX
Cyclohexanol | 20 |  | CHN
Cyclohexanone | 18 | 2 | CCH
Cyclohexanone/Cyclohexanol mixtures | 18 | 2 | CYX
Cyclohexyl acetate | 34 |  | CYC
Cyclohexylamine | 7 |  | CHA
Cyclopentadiene/Styrene/Benzene mixture | 30 |  | CSB
1,3-Cyclopentadiene dimer (molten) | 30 | 3 | CPD | DPT/DPV
Cyclopentane | 31 |  | CYP
Cyclopentene | 30 |  | CPE
p-Cymene | 32 |  | CMP
Decahydronaphthalene | 33 |  | DHN
Decaldehyde | 19 |  | DAY | IDA/DAL
Decane (all isomers), see n-Alkanes (C10+) (all isomers) | 31 |  | DCC | ALV (ALJ)
Decanoic acid | 4 |  | DCO | NEA
Decene | 30 |  | DCE
Decyl acetate | 34 |  | DYA
Decyl acrylate | 14 |  | DAT | IAI/DAR
Decyl alcohol (all isomers) | 20 | 2, 3 | DAX | ISA/DAN
Decyl/Dodecyl/Tetradecyl alcohol mixture | 20 | 3 | DYO | DAN/DAX/DDN/ISA
Decylbenzene, see Alkyl (C9+) benzenes | 32 |  | DBZ | AKB
Decyloxytetrahydrothiophene dioxide | 0 | 1 | DHT
Detergent alkylate | 32 |  | DKY | AKB/DBZ/DDB/TDB/TRB/UDB
Dextrose solution, see Glucose solution | 43 |  | DTS | GLU
Diacetone alcohol | 20 | 2 | DAA
Dialkyl (C9-C10) phthalates, see Dialkyl (C7-C13) phthalates | 34 |  | DLK | DLH (DAP/DHL/DHP/DID/DIE/DIF/DIN/DIO/DIT/DOP/DPA/DTP/DUP)
Dialkyl thiophosphates sodium salts solution | 34 | 3 | DYH
Dialkyl (C10-C14) benzenes, see Alkyl (C9+) benzenes | 32 |  | DAB | AKB
Dialkyl (C8-C9) diphenylamines | 9 |  | DAQ
Dialkyl (C7-C13) phthalates | 34 |  | DAH
Including:
Di-(2-ethylhexyl) phthalate | 34
Diheptyl phthalate | 34
Dihexyl phthalate | 34
Diisooctyl phthalate | 34
Dioctyl phthalate | 34
Diisodecyl phthalate | 34
Diisononyl phthalate | 34 | 2
Dinonyl phthalate | 34
Ditridecyl phthalate | 34
Diundecyl phthalate | 34
Dibromomethane | 36 |  | DBH
Dibutyl carbinol, see Nonyl alcohol (all isomers) | 20 |  |  | NNS (DBC/NNI/NNN)
Dibutyl hydrogen phosphonate | 34 |  | DHD
Dibutyl phthalate | 34 |  | DPA | DIT
Dibutyl terephthalate | 34 | 3 | DYE
Dibutylamine | 7 |  | DBA
Dibutylphenols | 21 |  | DBT | DBF/DBV/DBW
Di-tert-butylphenol | 21 |  | DBF | DBT/DBV/DBW
2,4-Di-tert-butylphenol | 21 |  | DBV | DBF/DBT/DBW
2,6-Di-tert-butylphenol | 21 | 3 | DBW | DBF/DBT/DBV
Dichlorobenzene (all isomers) | 36 | 3 | DBX | DBM/DBO/DBP
3,4-Dichloro-1-butene | 36 |  | DCD | DCB
Dichlorodifluoromethane | 36 |  | DCF
1,1-Dichloroethane | 36 |  | DCH
Dichloroethyl ether | 41 | 3 | DYR | DEE
1,6-Dichlorohexane | 36 |  | DHX
2,2′-Dichloroisopropyl ether | 41 |  | DCI
Dichloromethane | 36 | 2 | DCM
2,4-Dichlorophenol | 21 |  | DCP
2,4-Dichlorophenoxyacetic acid, Diethanolamine salt solution | 43 |  | DDE
2,4-Dichlorophenoxyacetic acid, Dimethylamine salt solution (70% or less) | 0 | 1, 2, 3 | DDA | DAD/DSX
2,4-Dichlorophenoxyacetic acid, Triisopropanolamine salt solution | 43 | 2 | DTI
Dichloropropane | 36 |  | DPX
1,1-Dichloropropane | 36 |  | DPB | DPC/DPL/DPP/DPX
1,2-Dichloropropane | 36 | 2, 3 | DPP | DPB/DPC/DPL/DPX
1,3-Dichloropropane | 36 |  | DPC | DPB/DPL/DPP/DPX
Dichloropropene (all isomers) | 15 |  | DCW | DPF/DPU
1,3-Dichloropropene | 15 |  |  | DCW/DPF
Dichloropropene/Dichloropropane mixtures | 15 |  | DMX | DCW/DPB/DPC/DPL/DPP/DPU/DPX
2,2-Dichloropropionic acid | 4 |  | DCN
Dicyclopentadiene, Resin Grade, 81-89% | 30 | 3 | DPV | CPD/DPT
Dicyclopentadiene, see 1,3-Cyclopentadiene dimer (molten) | 30 |  | DPT | CPD (DPV)
Diethanolamine | 8 | 2 | DEA
Diethanolamine salt of 2,4-Dichlorophenoxyacetic acid solution, see 2,4-Dichlorophenoxyacetic acid, Diethanolamine salt solution | 43 |  | DZZ | DDE
Diethylamine | 7 |  | DEN
Diethylaminoethanol | 8 |  | DAE
2,6-Diethylaniline | 9 |  | DMN | DIY
Diethylbenzene | 32 |  | DEB
Diethyl ether | 41 |  | EET
Diethyl hexanol, see Decyl alcohol (all isomers) | 20 |  |  | DAX
Di-(2-ethylhexyl) adipate | 34 |  | DEH
Di-(2-ethylhexyl) phosphoric acid | 1 |  | DEP
Di-(2-ethylhexyl) phthalate, see Dialkyl (C7-C13) phthalate | 34 |  | DIE | DAH
Di-(2-ethylhexyl) terephthalate | 34 |  | DHH
Diethylene glycol | 40 | 2 | DEG
Diethylene glycol butyl ether, see Poly(2-8)alkylene glycol monoalkyl(C1-C6) ether | 40 |  | DME | PAG
Diethylene glycol butyl ether acetate, see Poly(2-8)alkylene glycol monoalkyl(C1-C6) ether acetate | 34 |  | DEM | PAF
Diethylene glycol dibenzoate | 34 |  | DGZ
Diethylene glycol dibutyl ether | 40 |  | DIG
Diethylene glycol diethyl ether | 40 |  | DGS
Diethylene glycol ethyl ether, see Poly(2-8)alkylene glycol monoalkyl (C1-C6) ether | 40 |  | DGE | PAG
Diethylene glycol ethyl ether acetate, see Poly(2-8)alkylene glycol monoalkyl(C1-C6) ether acetates | 34 |  | DGA | PAF
Diethylene glycol methyl ether, see Poly(2-8)alkylene glycol monoalkyl(C1-C6) ether | 40 |  | DGM | PAG
Diethylene glycol methyl ether acetate, see Poly(2-8)alkylene glycol monoalkyl(C1-C6) ether acetate | 34 |  | DGR | PAF
Diethylene glycol n-hexyl ether, see Poly(2-8)alkylene glycol monoalkyl(C1-C6) ether | 40 |  | DHE | PAG
Diethylene glycol phenyl ether | 40 |  | DGP
Diethylene glycol phthalate | 34 |  | DGL
Diethylene glycol propyl ether, see Poly(2-8)alkylene glycol monoalkyl(C1-C6) ether | 40 |  | DGO | PAG
Diethylenetriamine | 7 | 2 | DET
Diethylenetriamine pentaacetic acid, pentasodium salt solution | 43 |  | DYS
Diethylethanolamine, see Diethylaminoethanol | 8 |  |  | DAE
Diethyl phthalate | 34 |  | DPH
Diethyl sulfate |  |  | DSU
Diglycidyl ether of Bisphenol A | 16 |  | BDE
Diglycidyl ether of Bisphenol F | 16 |  | DGF
Diheptyl phthalate, see Dialkyl (C7-C13) phthalate | 34 |  | DHP | DAH
Di-n-hexyl adipate | 34 |  | DHA
Dihexyl phthalate, see Dialkyl (C7-C13) phthalate | 34 |  | DHL
Diisobutyl carbinol, see Nonyl alcohol (all isomers) | 20 |  | DBC | NNS
Diisobutyl ketone | 18 |  | DIK
Diisobutyl phthalate | 34 |  | DIT | DPA
Diisobutylamine | 7 |  | DBU
Diisobutylene | 30 |  | DBL
Diisodecyl phthalate, see Dialkyl (C7-C13) phthalates | 34 |  | DID | DAH
Diisononyl adipate | 34 |  | DNY
Diisononyl phthalate, see Dialkyl (C7-C13) phthalates | 34 | 2 | DIN | DAH
Diisooctyl phthalate, see Dialkyl (C7-C13) phthalate | 34 |  | DIO | DAH/(DIE/DOP)
Diisopropanolamine | 8 |  | DIP
Diisopropylnaphthalene | 32 |  | DII
Diisopropylamine | 7 |  | DIA | DNA
Diisopropylbenzene (all isomers) | 32 |  | DIX
1,4-Dihydro-9,10-dihydroxy anthracene, disodium salt solution | 5 |  | DDH
N,N-Dimethylacetamide | 10 |  | DAC | DLS
N,N-Dimethylacetamide solution (40% or less) | 10 | 3 | DLS | DAL
Dimethyl adipate | 34 |  | DLA
Dimethylamine | 7 |  | DMA | DMC/DMG/DMY
Dimethylamine salt of 2,4-Dichlorophenoxyacetic acid solution, see 2,4-Dichlorophenoxyacetic acid, Dimethylamine salt solution (70% or less) | 0 | 1 | DAD | DDA (DSX)
Dimethylamine salt of 4-Chloro-2-methylphenoxyacetic acid solution, see 4-Chloro-2-methylphenoxyacetic acid, Dimethylamine salt solution | 9 |  |  | CDM
Dimethylamine solution (45% or less) | 7 | 3 | DMG | DMA/DMC/DMY
Dimethylamine solution (greater than 45% but not greater than 55%) | 7 | 3 | DMY | DMA/DMC/DMG
Dimethylamine solution (greater than 55% but not greater than 65%) | 7 | 3 | DMC | DMA/DMG/DMY
2,6-Dimethylaniline | 9 |  | DMM | DDL
Dimethylbenzene, see Xylenes | 32 | 2 |  | XLX/XLM/XLO/XLP
Dimethylcyclicsiloxane hydrolyzate | 34 |  | DXZ
N,N-Dimethylcyclohexylamine | 7 |  | DXN
Dimethyl disulfide | 0 | 1, 2, 3 | DSK
Dimethyldodecylamine, see N,N-Dimethyldodecylamine | 7 |  |  | DDY
N,N-Dimethyldodecylamine | 7 |  | DDY
Dimethylethanolamine | 8 |  | DMB
Dimethyl ether | 41 |  | DIM
Dimethylformamide | 10 | 2 | DMF
Dimethyl furan | 41 |  | DFU
Dimethyl glutarate | 34 |  | DGT
Dimethyl hydrogen phosphite | 34 | 2 | DPI
Dimethyl naphthalene sulfonic acid, sodium salt solution | 34 | 2 | DNS
Dimethyl octanoic acid | 4 |  | DMO
Dimethyl phthalate | 34 |  | DTL
Dimethylpolysiloxane, see Polydimethylsiloxane | 34 |  | DMP
2,2-Dimethylpropane-1,3-diol (molten or solution) | 20 | 3 | DDI
Dimethyl succinate | 34 |  | DSE
Dinitrotoluene (molten) | 42 | 3 | DNM | DNL/DNU/DTT
Dinonyl phthalate, see Dialkyl (C7-C13) phthalates | 34 |  | DIF | DAH
Dioctyl phthalate, see Dialkyl (C7-C13) phthalates | 34 |  | DOP | DAH (DIE/DIO)
1,4-Dioxane | 41 |  | DOX
Dipentene | 30 |  | DPN
Diphenyl |  |  | DIL
Diphenylamine (molten) | 9 |  | DAG | DAM
Diphenylamine, reaction product with 2,2,4-trimethylpentene | 9 |  | DAK
Diphenylamines, alkylated |  |  | DAJ
Diphenyl/Diphenyl ether mixture | 33 |  | DDO
Diphenyl ether | 41 |  | DPE
Diphenyl ether/Biphenyl ether mixture, see Diphenyl/Diphenyl ether mixture | 41 |  |  | DDO
Diphenyl ether/Diphenyl phenyl ether mixture | 41 |  | DOB
Diphenylmethane diisocyanate | 12 | 2 | DPM
Diphenyl oxide, see Diphenyl ether | 41 |  |  | DPE
Diphenylol propane-Epichlorohydrin resins | 0 | 1 | DPR
Di-n-propylamine | 7 |  | DNA | DIA
Dipropylene glycol | 40 |  | DPG
Dipropylene glycol butyl ether, see Poly(2-8)alkylene glycol monoalkyl(C1-C6) ether | 40 |  | DBG | PAG
Dipropylene glycol dibenzoate | 34 |  | DGY
Dipropylene glycol methyl ether, see Poly(2-8)alkylene glycol monoalkyl(C1-C6) ether | 40 |  | DPY | PAG
Distillates, flashed feed stocks | 33 |  | DFF
Distillates, straight run | 33 |  | DSR
Dithiocarbamate ester (C7-C35) | 34 |  | DHO
Ditridecyl adipate | 34 |  | DTY
Ditridecyl phthalate, see Dialkyl (C7-C13) phthalates | 34 |  | DTP | DAH
Diundecyl phthalate, see Dialkyl (C7-C13) phthalates | 34 |  | DUP | DAH
Dodecane (all isomers), see Alkanes (C10+) (all isomers) | 31 |  | DOF | ALV (ALJ/DOC)
tert-Dodecanethiol | 0 | 1, 2 | DDL | LRM
Dodecene (all isomers) | 30 | 3 | DOZ | DDC/DOD
Dodecanol (all isomers), see Dodecyl Alcohol (all isomers) | 20 | 2 | DDN | LAL
2-Dodecenylsuccinic acid, dipotassium salt solution | 34 |  | DSP
Dodecyl alcohol (all isomers) | 20 | 2 | DDN | ASK/ASY/LAL
Dodecylamine/Tetradecylamine mixture | 7 | 2 | DTA
Dodecylbenzene, see Alkyl (C9+) benzenes | 32 |  | DDB | AKB
Dodecyldimethylamine/Tetradecyldimethylamine mixture | 7 |  | DOT
Dodecyl diphenyl ether disulfonate solution | 43 |  | DTA
Dodecyl hydroxypropyl sulfide | 0 | 1 | DOH
Dodecyl methacrylate | 14 |  | DDM
Dodecyl/Octadecyl methacrylate mixture | 14 |  | DOM | DDM
Dodecyl/Pentadecyl methacrylate mixture | 14 |  | DDP
Dodecyl phenol | 21 |  | DOL
Dodecyl xylene | 32 |  | DXY
Dodecylbenzenesulfonic acid | 0 | 1, 2 | DSA
Drilling brines (containing Calcium, Potassium or Sodium salts) | 43 |  | DRL | DRB/DRS
Drilling brines (containing Zinc salts) | 43 |  | DZB | DRB
Drilling brines, including: Calcium bromide solution, Calcium chloride solution and Sodium chloride solution | 43 | 3 |  | DRS/DRL
Drilling mud (low toxicity) (if flammable or combustible) | 33 |  | DRO | DRM/DRN/DRP
Drilling mud (low toxicity) (if non-flammable or non-combustible) | 43 |  | DRP | DRM/DRN/DRO
Epichlorohydrin | 17 |  | EPC
Epoxy resin | 16 |  | EPN
Ethane | 31 |  | ETH
Ethanolamine | 8 |  | MEA
2-Ethoxyethanol, see Ethylene glycol monoalkyl ethers | 40 |  | EEO | EGC (EGE)
ETBE, see Ethyl tert-butyl ether | 41 |  |  | EBE
2-Ethoxyethyl acetate | 34 | 2 | EEA | EGA
Ethoxylated alkyloxy alkyl amine | 8 |  | ELM
Ethoxylated alcohols , C11-C15, see alcohol polyethoxylates | 20 |  |  | AEA/AEB/AED/AET/APV/APW/APX
Ethoxylated long-chain (C16+) alkyloxyalkylamine | 8 |  | ELA
Ethoxylated tallow alkyl amine | 7 |  | TAY | TAG/TAR
Ethoxylated tallow alkyl amine, glycol mixture | 7 |  | TAG | TAR/TAY
Ethoxylated tallow amine (>95%) | 7 | 3 | TAR | TAG/TAY
Ethoxy triglycol, see Poly(2-8)alkylene glycol monoalkyl (C1-C6) ether | 40 |  | ETG | PAG (ETR/TGE)
Ethoxy triglycol (crude) | 40 |  | ETR
Ethyl acetate | 34 | 2 | ETA
Ethyl acetoacetate | 34 |  | EAA
Ethyl acrylate | 14 | 2 | EAC
Ethyl alcohol | 20 | 2 | EAL
Ethylamine | 7 | 2 | EAM | EAN/EAO
Ethylamine solution (72% or less) | 7 | 3 | EAN | EAM/EAO
Ethyl amyl ketone | 18 |  | EAK | ELK
Ethylbenzene | 32 |  | ETB
Ethyl butanol | 20 |  | EBT
N-Ethylbutylamine | 7 |  | EBA
Ethyl tert-butyl ether | 41 | 2 | EBE
Ethyl butyrate | 34 |  | EBR
Ethyl chloride | 36 |  | ECL
Ethyl cyclohexane | 31 |  | ECY
N-ethylcyclohexylamine | 7 |  | ECC
2-Ethyl-2-(2,4-dichlorophenoxy) acetate | 34 |  | EDY
2-Ethyl-2-(2,4-dichlorophenoxy) propionate | 34 |  | EDP
S-Ethyl dipropylthiocarbamate | 34 | 3 | ECB
Ethylene | 30 |  | ETL
Ethyleneamine EA 1302 | 7 | 2 | EMX
Ethylene carbonate | 34 |  | ECR
Ethylene chlorohydrin | 20 |  | ECH
Ethylene cyanohydrin | 20 | 2 | ETC
Ethylenediamine | 7 | 2 | EDA | EMX
Ethylenediaminetetraacetic acid/tetrasodium salt solution | 43 |  | EDS
Ethylene dibromide | 36 |  | EDB
Ethylene dichloride | 36 | 2 | EDC
Ethylene glycol | 20 | 2 | EGL | EAG
Ethylene glycol acetate | 34 |  | EGO
Ethylene glycol butyl ether acetate | 34 |  | EMA
Ethylene glycol diacetate | 34 |  | EGY
Ethylene glycol dibutyl ether | 40 |  | EGB
Ethylene glycol ethyl ether acetate | 34 | 2 | EGA | EEA
Ethylene glycol methyl ether acetate | 34 |  | EGT
Ethylene glycol butyl ether, see Ethylene glycol monoalkyl ethers | 40 |  | EGM | EGC
Ethylene glycol tert-butyl ether, see Ethylene glycol monoalkyl ethers | 40 |  | EGG | EGC
Ethylene glycol isobutyl ether, see Ethylene glycol monoalkyl ethers | 40 |  |  | EGC (EGG/EGM)
Ethylene glycol methyl butyl ether, see Ethylene glycol monoalkyl ethers | 40 |  | EMB | EGC
Ethylene glycol ethyl ether, see Ethylene glycol monoalkyl ethers | 40 |  | EGE | EGC/EEO
Ethylene glycol hexyl ether, see Ethylene glycol monoalkyl ethers | 40 |  | EGH | EGC
Ethylene glycol methyl ether, see Ethylene glycol monoalkyl ethers | 40 |  | EME | EGC
Ethylene glycol n-propyl ether, see Ethylene glycol monoalkyl ethers | 40 |  | EGN | EGC (EGI/EGP)
Ethylene glycol propyl ether, see Ethylene glycol monoalkyl ethers | 40 |  | EGP | EGC/EGI/EGN
Ethylene glycol isopropyl ether, see Ethylene glycol monoalkyl ethers | 40 |  | EGI | EGC (EGG/EGM)
Ethylene glycol monoalkyl ethers | 40 | 2 | EGC
Including:
Ethylene glycol butyl ether | 40
Ethylene glycol ethyl ether | 40
Ethylene glycol isobutyl ether | 40
Ethylene glycol methyl butyl ether | 40
Ethylene glycol tert-butyl ether | 40
Ethylene glycol hexyl ether | 40
Ethylene glycol methyl ether | 40
Ethylene glycol propyl ether | 40
Ethylene glycol isopropyl ether | 40
Ethylene glycol phenyl ether | 40 |  | EPE
Ethylene glycol phenyl ether/Diethylene glycol phenyl ether mixture | 40 |  | EDX
Ethylene oxide | 0 | 1 | EOX
Ethylene oxide/Propylene oxide mixture | 16 |  | EPF | EPM
Ethylene oxide/Propylene oxide mixture with an Ethylene oxide content not more than 30% by mass | 16 | 3 | EPM | EPF
Ethylene-Propylene copolymer (in liquid mixtures) | 31 |  | EPY
Ethylene-Vinyl acetate copolymer (emulsion) | 43 |  | ECV
Ethyl ether, see Diethyl ether | 41 |  |  | EET
Ethyl-3-ethoxypropionate | 34 |  | EEP
2-Ethylhexaldehyde, see Octyl aldehydes | 19 |  | EHA | OAL (OLX)
2-Ethylhexanoic acid, see Octanoic acid (all isomers) | 4 |  | EHO | OAY (OAA)
2-Ethylhexanol, see Octanol | 20 |  | EHX | OCA (OTA)
2-Ethylhexyl acrylate | 14 |  | EAI
2-Ethylhexylamine | 7 |  | EHM
Ethyl hexyl phthalate | 34 |  | EHE
Ethyl hexyl tallate | 34 |  | EHT
2-Ethyl-2-(hydroxymethyl) propane-1,3-diol (C8-C10) ester | 34 |  | EHD
Ethyl lactate | 34 |  | ELT
Ethylidene norbornene | 30 | 2 | ENB
Ethyl methacrylate | 14 |  | ETM
N-ethylmethylallylamine | 7 |  | EML
2-Ethyl-6-methyl-N-(1′-methyl-2-methoxyethyl)aniline | 9 |  | EEM
o-Ethyl phenol | 21 |  | EPL
Ethyl propionate | 34 |  | EPR
2-Ethyl-3-propylacrolein | 19 | 2 | EPA
Ethyl toluene | 32 |  | ETE
Fatty acid methyl esters | 34 | 3 | FME
Fatty acids, (C8-C10) | 34 | 3 | FDS
Fatty acids, (C12+) | 34 | 3 | FDT | FAB/FAD/FAI/FDI
Fatty acids (saturated, C13+) | 34 |  | FAB | FAD
Fatty acids (saturated, C14+), see Fatty acids (saturated C13+) | 34 |  | FAD | FAB
Fatty acids, (C16+) | 34 | 3 | FDI
Fatty acids, essentially linear (C6-C18) 2-ethylhexyl ester | 34 | 2, 3 | FAE
Ferric chloride solution | 1 |  | FCS | FCL
Ferric hydroxyethylethylenediaminetriacetic acid, trisodium salt solution | 43 | 2 | FHX | STA
Ferric nitrate/Nitric acid solution | 3 | 2 | FNN
Fish oil, see Oil, edible: Fish | 34 | 2 |  | OFS (AFN)
Fish solubles (water based fish meal extracts) | 43 |  | FSO
Fluorosilicic acid (20-30%) in water solution | 1 | 3 | FSK | FSJ/FSL/HFS
Fluorosilicic acid (30% or less) | 1 |  | FSJ | FSK/FSL/HFS
Formaldehyde (50% or more)/Methanol mixtures | 19 | 2 | MTM
Formaldehyde solutions (37%-50%) | 19 | 2 | FMS | FMG/FMR
Formaldehyde solutions (45% or less) | 19 | 2, 3 | FMR | FMG/FMS
Formamide | 10 |  | FAM
Formic acid | 4 | 2 | FMA | FMB
Formic acid (85% or less) | 4 | 2 | FMB | FMA
Formic acid (over 85%) | 4 | 2, 3 | FMD
Formic acid mixture (containing up to 18% Propionic acid and up to 25% Sodium formate) | 4 | 2, 3 | FMC | FMA/FMB
Fructose solution | 43 |  | FTS | FRT
Fumaric adduct of Rosin, water dispersion | 43 |  | FAR
Fuming sulfuric acid, see Oleum | 0 | 2
Furfural | 19 |  | FFA
Furfuryl alcohol | 20 | 2 | FAL
Gas oil, cracked, see Oil, misc: Gas, cracked | 33 |  |  | GOC
Gasoline blending stock, alkylates | 33 |  | GAK
Gasoline blending stock, reformates | 33 |  | GRF
Gasolines:
Automotive (not over 4.23 grams lead per gal.) | 33 |  | GAT
Aviation (containing not over 4.86 grams lead per gal.) | 33 |  | GAV | AVA
Casinghead (natural) | 33 |  | GCS
Polymer | 33 |  | GPL
Straight run | 33 |  | GSR
Gasolines: Pyrolysis (containing Benzene), see Pyrolysis gasoline (containing Benzene) | 32 |  | GPY | PYG
Glucitol/Glycerol blend propoxylated (containing less than 10% amines) | 40 | 3 | GGA
Glucose solution | 43 |  | GLS | DTS
Glutaraldehyde solutions (50% or less) | 19 |  | GTA
Glycerine | 20 | 2 | GCR
Glycerine (83%)/Dioxanedimethanol (17%) mixture | 20 |  | GDN | GDM
Glycerol, see Glycerine | 20 | 2 |  | GCR
Glycerol ethoxylated | 40 |  | GXA
Glycerol monooleate | 20 |  | GMO
Glycerol polyalkoxylate | 40 |  | GPA
Glycerol propoxylated | 40 | 3 | GXP
Glycerol, propoxylated and ethoxylated | 40 | 3 | GXE
Glycerol/Sucrose blend propoxylated and ethoxylated | 40 | 3 | GSB
Glyceryl triacetate | 34 |  | GCT
Glycidyl ester of C10 trialkyl acetic acid | 34 |  | GLU | GLT
Glycidyl ester of tertiary carboxylic acid, see Glycidyl ester of C10 trialkyl acetic acid | 34 |  | GLT | GLU
Glycidyl ester of tridecyl acetic acid, see Glycidyl ester of C10 trialkyl acetic acid | 34 |  | GLT | GLU
Glycidyl ester of Versatic acid, see Glycidyl ester of C10 trialkyl acetic acid | 34 |  | GLT | GLU
Glycine, sodium salt solution | 7 |  | GSS
Glycol diacetate, see Ethylene glycol diacetate | 34 |  |  | EGY
Glycol mixture, crude | 20 |  | GMC
Glycol triacetate, see Glyceryl triacetate | 34 |  |  | GCT
Glycolic acid solution (70% or less) | 4 | 3 | GLC
Glyoxal solution (40% or less) | 19 | 3 | GOS
Glyoxylic acid solution (50% or less) | 4 | 3 | GAC
Glyphosate solution (not containing surfactant) | 7 |  | GIO | RUP
Grape Seed Oil, see Oil, edible: Grape Seed | 34
Groundnut Oil, see Oil, edible: Groundnut | 34 |  |  | OGN (VEO)
Hazelnut oil, see Oil, edible: Hazelnut | 34 |  |  | OHN (VEO)
Heptadecane (all isomers), see Alkanes (C10+) (all isomers) | 31 |  |  | ALV (ALJ)
Heptane (all isomers), see Alkanes (C6-C9) | 31 |  | HMX | ALK (HPI/HPT)
n-Heptanoic acid | 4 |  | HEN | HEP
Heptanol (all isomers) | 20 |  | HTX | HTN
Heptene (all isomers) | 30 | 2, 3 | HPX | THE
Heptyl acetate | 34 |  | HPE
Heptylbenzenes, see Alkyl (C5-C8) benzenes | 32 |  |  | AKD
Herbicide (C15-H22-NO2-Cl), see Metolachlor | 34 |  |  | MCO
Hexadecanol, see Alcohols (C13+) | 20 |  |  | ALY (ASY/AYL)
1-Hexadecylnaphthalene/1,4-bis(Hexadecyl)naphthalene mixture | 32 |  | HNH | HNI
1-n-Hexadecylnaphthalene (90%)/1,4-di-n-(Hexadecyl)naphthalene (10%) | 32 |  | HNI | HNH
Hexaethylene glycol, see Polyethylene glycol | 20 |  | HMG | PEG
Hexamethylene diisocyanate | 12 |  | HMS | HDI
Hexamethylene glycol | 20 |  | HMG | HXG
Hexamethylenediamine (molten) | 7 | 3 | HME | HMD/HMC
Hexamethylenediamine adipate (50% in water) | 43 |  | HAM | HAN
Hexamethylenediamine adipate solution | 43 |  | HAN | HAM
Hexamethylenediamine solution | 7 |  | HMC | HMD/HME
Hexamethyleneimine | 7 |  | HMI
Hexamethylenetetramine solutions | 7 |  | HTS | HMT
Hexane (all isomers), see Alkanes (C6-C9) | 31 | 2 | HXS | ALK (IHA/HXA)
1,6-Hexanediol, distillation overheads | 4 | 2,3 | HDO
Hexanoic acid | 4 |  | HXO
Hexanol | 20 |  | HXM | HEW/HEZ/HXN
Hexene (all isomers) | 30 | 2, 3 | HEX | HXE/HXT/HXU/HXV/MPN/MTN
Hexyl acetate | 34 |  | HAE
Hexylbenzenes, see Alkyl (C5-C8) benzenes | 32 |  |  | AKD
Hexylene glycol, see hexamethylene glycol | 20 |  | HXG | HMG
Hog grease, see Lard | 34 |  |  | LRD
Hydrochloric acid | 1 |  | HCL
Hydrofluorosilicic acid, (25% or less), see Fluorosilicic acid (30% or less) | 1 |  |  | FSJ (FSK/FSL/HFS)
bis (Hydrogenated tallow alkyl) methyl amines | 7 |  | HTA
Hydrogen peroxide solutions (over 60% but not over 70% by mass) | 0 | 1, 3 | HPS | HPN/HPO
Hydrogen peroxide solutions (over 8% but not over 60% by mass) | 0 | 1, 3 | HPN | HPO/HPS
alpha-Hydro-omega-hydroxytetradeca (oxytetramethylene) | 40 |  | HTO | PYS/PYT
Hydrogenated starch hydrolysate | 0 | 1, 3 | HSH
2-Hydroxyethyl acrylate | 14 | 2 | HAI
N-(Hydroxyethyl)ethylenediamine triacetic acid, trisodium salt solution | 43 |  | HET
N,N-bis(2-Hydroxyethyl) oleamide | 10 |  | HOO
2-Hydroxy-4-(methylthio)butanoic acid | 4 |  | HBA
Hydroxy terminated polybutadiene, see Polybutadiene, hydroxy terminated | 31 |  |  | PHT
Illipe oil, see Oil, edible: Illipe | 34 |  |  | ILO (VEO)
Isoamyl alcohol | 20 | 3 | IAA | AAI/AAL/AAN/APM/ASE
Isobutyl alcohol | 20 | 2, 3 | IAL | BAN/BAS/BAT/BAY
Isobutyl formate | 34 | 3 | BFI | BFN/BFO
Isobutyl methacrylate | 14 | 3 | BMI | BMH/BMN
Isononylaldehyde (crude) | 19 |  | INC
Isophorone | 18 | 2 | IPH
Isophorone diamine | 7 |  | IPI
Isophorone diisocyanate | 12 |  | IPD
Isoprene (all isomers) | 30 |  | IPR
Isoprene (part refined) | 30 |  | IPS | IPR/ISC
Isoprene concentrate (Shell) | 30 |  | ISC
Isopropanolamine | 8 | 3 | MPA | IPF/PAX/PLA
Isopropanolamine solution | 8 | 3 | PAI | MPA/PAY/PLA/PRG
iso-Propanolamine, see Isopropanolamine | 8 |  |  | MPA (PAX/PLA)
Isopropyl acetate | 34 | 3 | IAC | PAT
Isopropyl alcohol | 20 | 2, 3 | IPA | IPB/PAL
Isopropylamine | 7 | 3 | IPP | IPO/IPQ/PRA
Isopropylamine (70% or less) solution | 7 | 2, 3 | IPQ | IPO/IPP/PRA
iso-Propylamine solution, see Isopropylamine (70% or less) solution | 7 |  |  | IPQ (IPO/IPP/PRA)
Isopropylbenzenes, see Alkyl (C3-C4) benzenes | 32 |  |  | AKC (CUM/PBY/PBZ)
Isopropylcyclohexane | 31 | 3 | IPX
iso-Propyl cyclohexane, see Isopropylcyclohexane | 31 |  |  | IPX
Isopropyl ether | 41 | 3 | IPE | PRL/PRN
Jatropha oil, see Oil, misc: Jatropha | 4 |  |  | JTO
Jet fuels: |  |  |  | IBR
JP-4 | 33 |  | JPF
JP-5 | 33 |  | JPV
JP-8 | 33 |  | JPE
Kaolin clay solution | 43 |  | KLC | KLS
Kaolin slurry | 43 |  | KLS | KLC
Kerosene | 33 |  | KRS
Ketone residue | 18 |  | KTR
Kraft black liquor | 5 |  | KBL | KPL
Kraft pulping liquors (free alkali content 3% or more) (Black, Green, or White) | 5 |  | KPL | KBL
Lactic acid | 0 | 1, 2 | LTA
Lactonitrile solution (80% or less) | 37 | 3 | LNI
Lard | 34 |  | LRD | OLD
Latex, ammonia (1% or less)- inhibited | 30 | 3 | LTX
Latex, liquid synthetic | 43 |  | LLS | LCB/LCC/LSB
Latex: Carboxylated Styrene-Butadiene copolymer; Styrene-Butadiene rubber | 43 | 3 | LCC | LCB/LSB
Lauric acid | 34 |  | LRA
Lauric acid methyl ester/Myristic acid methyl ester mixture | 34 |  | LMM
Lauryl polyglucose (50% or less), see Alkyl (C12-C14) polyglucoside solution (55% or less) | 43 |  | LAP | AMG
Lauryl polyglucose, see Alkyl (C12-C14) polyglucoside solution (55% or less) | 43 |  |  | AGM/LAP
Lecithin | 34 |  | LEC
Lignin liquor | 43 |  | LNL | ALG/CLL/LGA/LGM/LSL/SHC/SHP/SHQ/SLP
Ligninsulfonic acid, magnesium salt solution | 43 | 3 | LGM | LGA/LNL/LSL
Ligninsulfonic acid, sodium salt solution, see Lignin liquor or Sodium lignosulfonate solution | 43 |  | LGA | LNL or SLG
d-Limonene, see Dipentene | 30 |  |  | DPN
Linear alkyl (C12-C16) propoxyamine ethoxylate | 8 |  | LPE
Linseed oil, see Oil, misc: Linseed | 34 |  |  | OLS
Liquefied Natural Gas, see Methane | 31 |  | LNG | MTH
Liquid chemical wastes | 0 | 1, 3 | LCW
Liquid Streptomyces solubles | 43
Long-chain alkaryl polyether (C11-C20) | 41 |  | LCP
Long-chain alkyl amine | 7 |  | LAA
Long-chain alkylphenate/Phenol sulfide mixture | 21 |  | LPS
Long-chain alkaryl sulfonic acid (C16-C60) | 0 | 1 | LCS
Long-chain alkyl (C13+) salicylic acid | 4 |  | LAS
Long-chain polyetheramine in alkyl(C2-C4)benzenes | 7 |  | LCE
L-Lysine solution (60% or less) | 43 | 3 | LYS
Magnesium chloride solution | 0 | 1, 2 | MGL
Magnesium hydroxide slurry | 5 |  | MHS
Magnesium long-chain alkaryl sulfonate (C11-C50) | 34 |  | MAS | MSE
Magnesium long-chain alkyl phenate sulfide (C8-C20) | 34 |  | MPS
Magnesium long-chain alkyl salicylate (C11+) | 34 |  | MLS
Magnesium nitrate solution (66.7%) | 43 |  | MGP | MGN/MGO
Magnesium nonyl phenol sulfide, see Magnesium long-chain alkyl phenate sulfide (C8-C20) | 34 |  |  | MPS
Magnesium sulfonate, see Magnesium long-chain alkaryl sulfonate (C11-C50) | 34 |  | MSE | MAS
Maleic anhydride | 11 |  | MLA
Maleic anhydride/sodium allylsulphonate copolymer solution | 11 |  |  | PHN (CFO/CRL/CRO/CRS/CSO)
Maltitol solution | 0 | 1, 3 | MTI
Mango kernel oil, see Oil, edible: Mango kernel | 34 |  |  | MKO (VEO)
Mercaptobenzothiazol, sodium salt solution | 5 |  | SMB | MBT
2-Mercaptobenzothiazol (in liquid mixture) | 5 |  | BTM | SMD
Mesityl oxide | 18 | 2 | MSO
Metam sodium solution | 7 |  | MSS | SMD
Methacrylic acid | 4 |  | MAD
Methacrylic acid—Alkoxypoly(alkylene oxide) methacrylate copolymer, sodium salt aqueous solution (45% or less) | 20 | 3 | MAQ
Methacrylic resin in ethylene dichloride | 14 |  | MRD
Methacrylonitrile | 15 | 2 | MET
Methane | 31 |  | MTH | LNG
3-Methoxy-1-butanol | 20 |  | MTX
3-Methoxybutyl acetate | 34 |  | MOA
N-(2-Methoxy-1-methyl ethyl)-2-ethyl-6-methyl chloroacetanilide, see Metolachlor | 34 |  |  | MCO
1-Methoxy-2-propyl acetate | 34 |  | MXP
Methoxy triglycol, see Poly(2-8)alkylene glycol monoalkyl (C1-C6) ether | 40 |  | MTG | PAG (TGY)
Methyl acetate | 34 |  | MTT
Methyl acetoacetate | 34 |  | MAE
Methyl acetylene/Propadiene mixture | 30 |  | MAP
Methyl acrylate | 14 |  | MAM
Methyl alcohol | 20 | 2 | MAL
Methylamine solutions (42% or less) | 7 | 3 | MSZ
Methyl amyl acetate | 34 |  | MAC
Methyl amyl alcohol | 20 |  | MAA | MIC
Methyl amyl ketone | 18 |  | MAK
N-Methylaniline | 9 | 3 | MAN
alpha-Methylbenzyl alcohol with Acetophenone (15% or less) | 20 | 3 | MBA
Methyl bromide | 36 |  | MTB
Methyl butanol, see the amyl alcohols | 20 |  |  | AAI/AAL/AAN/APM/ASE/IAA
Methyl butenes, see Pentene (all isomers) | 30 |  |  | PTX (AMW/AMZ/PTE)
Methyl butenol | 20 |  | MBL
Methyl tert-butyl ether | 41 | 2 | MBE
Methyl butyl ketone | 18 | 2 | MBB | MBK/MIK
Methyl 3-(3,5 di-tert-butyl-4-hydroxyphenyl) propionate crude melt | 20 |  | MYP
Methylbutynol | 20 |  | MBY | MHB
3-Methyl butyraldehyde | 19 |  | MBR
Methyl butyrate | 34 |  | MBU
Methyl chloride | 36 |  | MTC
Methylcyclohexane | 31 |  | MCY
Methylcyclohexanemethanol (crude) | 20 |  | MYH
Methylcyclopentadiene dimer | 30 |  | MCK
Methylcyclopentadienyl manganese tricarbonyl | 0 | 1, 3 | MCT | MCW
Methylcyclopentadienyl manganese tricarbonyl (60-70%) in mineral oil | 0 | 1 | MCW | MCT
Methyl diethanolamine | 8 |  | MDE | MAB
Methyl ethyl ketone | 18 | 2 | MEK
2-Methyl-6-ethyl aniline | 9 |  | MEN
Methyl formate | 34 |  | MFM
N-Methylglucamine solution (70% or less) | 43 | 3 | MGC
2-Methylglutaronitrile | 37 |  | MLN | MGN
2-Methylglutaronitrile with 2-Ethylsuccinonitrile (12% or less) | 37 | 3 | MGE | MLN
Methyl heptyl ketone | 18 |  | MHK
2-Methyl-2-hydroxy-3-butyne | 20 |  | MHB | MBY
Methyl isoamyl ketone, see Methyl amyl ketone | 18 |  | MAJ | MAK
Methyl isobutyl carbinol, see Methyl amyl alcohol | 20 |  | MIC | MAA
Methyl isobutyl ketone | 18 | 2 | MIK | MBB/MBK
Methyl methacrylate | 14 |  | MMM
Methylene bridged isobutylenated phenols | 21 |  | MBP
Methylene chloride, see Dichloromethane | 36 |  |  | DCM
3-Methyl-3-methoxybutanol | 20 |  | MXB
3-Methyl-3-methoxybutyl acetate | 34 |  | MMB
Methyl naphthalene (molten) | 32 | 3 | MNA
Methylolureas | 19 |  | MUS
2-Methyl pentane, see Hexane (all isomers) | 31 |  |  | HXS (ALK/HXA/IHA/NHX)
2-Methyl-1,5-pentanediamine | 7 |  | MPM
4-Methyl-1-pentene, see Hexene (all isomers) | 30 |  | MTN | HEX (HXE/HXT/HXU/HXV/MPN)
2-Methyl-1-pentene, see Hexene (all isomers) | 30 |  | MPN | HEX (HXE/HXT/HXU/HXV/MTN)
Methyl tert-pentyl ether, see tert-Amyl methyl ether | 41 |  |  | AYE
2-Methyl-1,3-propanediol | 20 |  | MDL
Methyl propyl ketone | 18 |  | MKE
2-Methyl-5-ethylpyridine | 9 |  | MEP
Methylpyridine, see the Methylpyridines | 9 |  | MPQ | MPE/MPF/MPR
2-Methylpyridine | 9 | 3 | MPR | MPE/MPF/MPQ
3-Methylpyridine | 9 | 3 | MPE | MPF/MPQ/MPR
4-Methylpyridine | 9 | 3 | MPF | MPE/MPQ/MPR
N-Methyl-2-pyrrolidone | 9 | 2 | MPY
Methyl salicylate | 34 |  | MES
alpha-Methylstyrene | 30 |  | MSR
3-(Methylthio)propionaldehyde | 19 |  | MTP
Metolachlor | 34 |  | MCO
Microsilica slurry | 43 |  | MOS
Milk | 43 |  | MLK
Mineral spirits | 33 |  | MNS
Mixed C4 Cargoes | 30 |  | MIX
Molasses | 20 |  | MOL | MON
Molasses residue (from fermentation) | 0 | 1 | MON | MOL
Molybdenum polysulfide long-chain alkyl dithiocarbamide complex | 0 | 1, 3 | MOP
Monochlorodifluoromethane | 36 |  | MCF
Monoethanolamine, see Ethanolamine | 8 |  | MEA
Monoethylamine, see Ethylamine | 7 |  |  | EAM (EAN/EAO)
Monoisopropanolamine, see Isopropanolamine | 8 |  |  | MPA (PLA/PLX)
Morpholine | 7 | 2 | MPL
Motor fuel anti-knock compound (containing lead alkyls) | 0 | 1 | MFA
MTBE, see Methyl tert-butyl ether | 41 |  |  | MBE
Myrcene | 30 |  | MRE
Naphtha:
Aromatic | 33 |  | NAR
Coal tar naphtha solvent | 33 |  | NCT
Heavy | 33 |  | NAG
Paraffinic | 33 |  | NPF
Petroleum | 33 |  | PTN
Solvent | 33 |  | NSV
Stoddard solvent | 33 |  | NSS
Varnish Makers' and Painters' | 33 |  | NVM
Naphthalene (molten) | 32 | 3 | NTM
Naphthalene still residue | 32 | 2 | NSR
Naphthalene sulfonic acid, sodium salt solution | 34 |  | NSB | NSA
Naphthalene sulfonic acid-formaldehyde copolymer, sodium salt solution | 0 | 1 | NFS |
Naphthenic acid | 4 |  | NTI
Naphthenic acid, sodium salt solution | 43 |  | NTS
Neodecanoic acid | 4 |  | NEA | DCO/NAT
NIAX POLYOL APP 240C | 0 | 1, 2 | NXP
Nitrating acid (mixture of Sulfuric and Nitric acids) | 0 | 1 | NIA
Nitric acid (70% and over) | 0 | 1, 2, 3 | NCE | NAC/NCD
Nitric acid (less than 70%) | 3 | 2 | NCD | NAC/NCE
Nitric Acid, fuming, see Nitric acid (70% and over) | 0 | 1, 2, 3 |  | NCE
Nitric Acid, red fuming, see Nitric acid (70% and over) | 0 | 1, 2, 3 |  | NCE
Nitrilotriacetic acid, trisodium salt solution | 34 | 3 | NCA
Nitrobenzene | 42 |  | NTB
o-Nitrochlorobenzene, see o-Chloronitrobenzene | 42 |  |  | CNO (CNP)
Nitroethane | 42 |  | NTE
Nitroethane (80%)/Nitropropane (20%) | 42 | 2, 3 | NNL | NNM/NNO/NPM/NPN/NPP/NTE
Nitroethane/1-Nitropropane (each 15% or more) mixture | 42 | 2 | NNO | NNL/NNM/NPM/NPN/NPP/NTE
Nitrogen | 0 | 1 | NXX
Nitrophenol (mixed isomers) | 42 |  | NPX | NIP/NPH/NTP
o-Nitrophenol (molten) | 0 | 1, 2 | NTP | NIP/NPH/NPX
Nitropropane (60%)/Nitroethane (40%) mixture | 42 |  | NNM | NNL/NNO/NPM/NPN/NPP/NTE
1-or 2-Nitropropane | 42 |  | NPM | NPN/NPP
o- or p-Nitrotoluenes | 42 | 3 | NIT | NIE/NTR/NTT
Nonane (all isomers), see Alkanes (C6-C9) | 31 |  | NAX | ALK (NAN)
Nonanoic acid (all isomers) | 4 |  | NNA | NAI/NIN
Nonanoic/Tridecanoic acid mixture | 4 |  | NAT | NAI/NIN/NNA
Non-edible industrial grade palm oil, see Oil, misc: Palm, non-edible industrial grade | 34 |  |  | OPB
Nonene (all isomers) | 30 | 2 | NOO | NNE/NON/OAM/OFX/OFY
Nonyl acetate | 34 |  | NAE
Nonyl alcohol (all isomers) | 20 | 2 | NNS | ALR/DBC/NNI/NNN
Nonylbenzene, see Alkyl(C9+)benzenes | 32 |  |  | AKB
Nonyl methacrylate monomer | 14 |  | NMA
Nonyl phenol | 21 |  | NNP
Nonyl phenol poly(4+)ethoxylate, see Alkyl (C7-C11) phenol poly (4-12) ethoxylate | 40 |  | NPE | APN
Nonyl phenol sulfide (90% or less) solution, see Alkyl phenol sulfide (C8-C40) | 34 |  |  | AKS (NPS)
Nonylphenol (48-62%)/Phenol (42-48%)/Dinonylphenol (1-10%) mixture | 21 |  | NYL
Non-noxious Liquid Substance, (12) n.o.s. Cat OS | 0 | 1 | NOL
Noxious Liquid Substance, NF, (1) n.o.s. Cat X | 0 | 1
Noxious Liquid Substance, F, (2) n.o.s. Cat X | 0 | 1
Noxious Liquid Substance, NF, (3) n.o.s. Cat X | 0 | 1
Noxious Liquid Substance, F, (4) n.o.s. Cat X | 0 | 1
Noxious Liquid Substance, NF, (5) n.o.s. Cat Y | 0 | 1
Noxious Liquid Substance, F, (6) n.o.s. Cat Y | 0 | 1
Noxious Liquid Substance, NF, (7) n.o.s. Cat Y | 0 | 1
Noxious Liquid Substance, F, (8) n.o.s. Cat Y | 0 | 1
Noxious Liquid Substance, NF, (9) n.o.s. Cat Z | 0 | 1
Noxious Liquid Substance, F, (10) n.o.s. Cat Z | 0 | 1
Noxious Liquid Substance, (11) n.o.s. Cat Z | 0 | 1
Nutmeg butter oil, see Oil, edible: Nutmeg butter | 34 |  |  | ONB (VEO)
1-Octadecene, see the olefin or alpha-olefin entries | 30 |  |  | OAM/OFZ
1-Octadecanol, see Stearyl alcohol | 20 |  |  | SYL (ALY/ASY)
Octadecenoamide solution | 10 |  | ODD
Octadecenol (oleyl alcohol), see Alcohols (C13+) | 20 |  |  | ALY (AYL/ASY/OYL)
Octamethylcyclotetrasiloxane | 34 | 3 | OSA
Octane (all isomers), see Alkanes (C6-C9) | 31 |  | OAX | ALK (IOO/OAN)
Octanoic acid (all isomers) | 4 |  | OAY | OAA/EHO
Octanol (all isomers) | 20 | 2 | OCX | EHX/OPA/OTA
Octene (all isomers) | 30 | 2 | OTX | OAM/OFC/OFY/OFW/OTE
n-Octyl acetate | 34 |  | OAF | OAE
Octyl alcohol, see Octanol (all isomers) | 20 | 2 |  | OCX (EHX/IOA/OTA)
Octyl aldehydes | 19 |  | OAL | EHA/IOC/OLX
Octylbenzenes, see Alkyl (C5-C8) benzenes | 32 |  |  | AKD
Octyl decyl adipate | 34 |  | ODA
n-Octyl mercaptan | 0 |  | OME
Octyl nitrates (all isomers), see Alkyl (C7-C9) nitrates | 34 |  | ONE | AKN
Octyl phenol | 21 |  | OPH
Octyl phthalate, see Dioctyl phthalate | 34 |  |  | DAH (DIE/DIO/DLK/DOP)
Oil, edible:
Beechnut | 34 |  | OBN
Castor | 34 |  | OCA | VEO
Cocoa butter | 34 |  | OCB | VEO
Coconut | 34 |  | OCC | VEO
Cod liver | 34 |  | OCL | AFN
Corn | 34 |  | OCO | VEO
Cotton seed | 34 |  | OCS | VEO
Fish | 34 | 2 | OFS | AFN
Grape seed | 34
Groundnut | 34 |  | OGN | VEO
Hazelnut | 34 |  | OHN | VEO
Illipe | 34 |  | ILO | VEO
Lard | 34 |  | OLD | AFN
Maize, see Oil, edible: Corn | 34 |  |  | OCO (VEO)
Mango kernel | 34 | 3 | MKO
Nutmeg butter | 34 |  | ONB | VEO
Olive | 34 |  | OOL | VEO
Palm | 34 | 2 | OPM | VEO
Palm kernel | 34 |  | OPO | VEO
Palm kernel olein | 34 |  | PKO | VEO
Palm kernel stearin | 34 |  | PKS | VEO
Palm mid fraction | 34 |  | PFM | VEO
Palm olein | 34 |  | PON | VEO
Palm stearin | 34 |  | PMS | VEO
Peanut | 34 |  | OPN | VEO
Poppy | 34 |  | OPY | VEO
Poppy Seed | 34 |  | OPS | VEO
Raisin seed | 34 |  | ORA | VEO
Rapeseed | 34 |  | ORP | VEO
Rapeseed, (low erucic acid containing less than 4% free fatty acids) | 34 |  | ORO | ORP/VEO
Rice bran | 34 |  | ORB | VEO
Safflower | 34 |  | OSF | VEO
Salad | 34 |  | OSL | VEO
Sesame | 34 |  | OSS | VEO
Shea butter | 34 |  | OSH | VEO
Soyabean | 34 | 2 | OSB | VEO
Sunflower, see Oil, edible: Sunflower seed | 34 |  | OSN | VEO
Sunflower seed | 34 |  | OSN | VEO
Tucum | 34 |  | OTC | VEO
Vegetable | 34 |  | OVG | VEO
Walnut | 34 |  | OWN | VEO
Oil, fuel:
No. 1 | 33 |  | OON
No. 1-D | 33 |  | OOD
No. 2 | 33 |  | OTW
No. 2-D | 33 |  | OTD
No. 4 | 33 |  | OFR
No. 5 | 33 |  | OFV
No. 6 | 33 |  | OSX
Oil, misc:
Acid mixture from soybean, corn (maize) and sunflower oil refining | 34 |  | AOM
Aliphatic | 33 |  | OML
Animal | 34 |  | OMA | AFN
Aromatic | 33
Camelina | 34 |  | OCI
Cashew nut shell oil (untreated) | 34 |  | OCN
Clarified | 33 |  | OCF
Coal | 33 |  | OMC
Coconut fatty acid | 34 | 2 | CFA
Coconut, fatty acid methyl ester | 34 |  | OCM
Cotton seed oil, fatty acid | 34 |  | CFY
Crude | 33 |  | OFA
Diesel | 33 |  | ODS
Disulfide | 0 | 1 | ODI
Gas, cracked | 33 |  | GOC
Gas, high pour | 33 |  | OGP
Gas, low pour | 33 |  | OGL
Gas, low sulfur | 33 |  | OGS
Heartcut distillate | 33 |  | OHD
Jatropha | 4 |  | JTO
Lanolin | 34 |  | OLL | AFN
Linseed | 33 |  | OLS
Lubricating | 33 | 2 | OLB
Mineral | 33 |  | OMN
Mineral seal | 33 |  | OMS
Motor | 33 |  | OMT
Neatsfoot | 33 |  | ONF | AFN
Oiticica | 34 |  | OOI
Palm acid | 34 |  | PLM
Palm fatty acid distillate | 34 |  | PFD
Palm oil, fatty acid methyl ester | 34 |  | OPE
Palm kernel acid | 34 |  | OPK
Palm kernel fatty acid distillate | 34 |  | PNG
Palm, non-edible industrial grade | 34 |  | OPB
Penetrating | 33 |  | OPT
Perilla | 34 |  | OPR
Pilchard | 34 |  | OPL | AFN
Pine | 33 |  | OPI | PNL
Rapeseed fatty acid methyl esters | 34 | 3 | ORP
Residual | 33 |  | ORL
Resin, distilled | 33 |  | ORR
Road | 33 |  | ORD
Rosin | 33 |  | ORN
Seal | 34
Soapstock | 34 |  | OIS
Soyabean (epoxidized) | 34 |  | OSC | EVO
Soyabean fatty acid methyl ester | 34 |  |  | OST
Spindle | 33 |  | OSD
Tall | 34 |  | OTL | OTI/OTJ
Tall, crude | 34 | 2 | OTI | OTJ/OTL
Tall, distilled | 34 | 2 | OTJ | OTI/OTL
Tall, fatty acid | 34 | 2 | OTT
Tall, fatty acid (resin acids less than 20%) | 34 | 2 | OTK | OTT
Tall pitch | 34 |  | OTP
Transformer | 33 |  | OTF
Tung | 34 |  | OTG
Turbine | 33 |  | OTB
Vacuum gas oil | 33 |  | OVC
Oleamide solution, see Octadecenoamide solution | 10 |  |  | ODD
Olefin-Alkyl ester copolymer (molecular weight 2000+) | 30 |  | OCP
Olefin mixture (C7-C9) C8 rich, stabilized | 30 | 3 | OFC | OFW/OFY/OFX
Olefin mixtures (C5-C7) | 30 | 3 | OFX | OAM/OFC/OFW/OFX/OFZ
Olefin mixtures (C5-C15) | 30 | 3 | OFY | OAM/OFC/OFW/OFX/OFZ
Olefins (C13+, all isomers) | 30 |  | OFZ | OAM/OFW
alpha-Olefins (C6-C18) mixtures | 30 |  | OAM | OFC/OFW/OFX/OFY/OFZ
Oleic acid | 4 |  | OLA
Oleum | 0 | 1, 2 | OLM | SAC/SFX
Oleyl alcohol, see Alcohols (C13+) | 20 |  | OYL | ALY (ASY)
Oleylamine | 7 |  | OLY
Olive oil, see Oil, edible: Olive | 34 |  |  | OOL (VEO)
Orange juice (concentrated) | 0 | 1 | OJC | OJN
Orange juice (not concentrated) | 0 | 1 | OJN | OJC
Organomolybdenum amide | 10 |  | OGA
ORIMULSION, see Asphalt emulsion | 33 |  |  | ASQ
Oxyalkylated alkyl phenol formaldehyde | 33 |  | OPF
Oxygenated aliphatic hydrocarbon mixture | 0 | 1, 3 | OAH
Palm acid oil, see Oil, misc: Palm acid | 34 | 3 |  | PLM
Palm fatty acid distillate, see Oil, misc: Palm fatty acid distillate | 34 | 3 |  | PFD
Palm kernel acid oil, see Oil, misc: Palm kernel acid | 34 |  |  | PNO
Palm kernel acid oil, methyl ester, see Oil, misc: Palm kernel acid, methyl ester | 34 |  |  | PNF
Palm kernel oil, see Oil, edible: Palm kernel | 34 |  |  | OPO (VEO)
Palm kernel oil fatty acid distillate, see Oil, misc: Palm kernel fatty acid distillate | 34 |  |  | PNG
Palm kernel olein, see Oil, edible: Palm kernel olein | 34 | 3 |  | PKO (VEO)
Palm kernel stearin, see Oil, edible: Palm kernel stearin | 34 | 3 |  | PKS (VEO)
Palm mid fraction, see Oil, edible: Palm mid fraction | 34 | 3 |  | PFM (VEO)
Palm oil, see Oil, edible: Palm | 34 | 2, 3 |  | OPM (VEO)
Palm oil fatty acid methyl ester, see Oil, misc: Palm fatty acid methyl ester | 34 | 3 |  | OPE
Palm olein, see Oil, edible: Palm Olein | 34 | 3 |  | PON (VEO)
Palm stearin, see Oil, edible: Palm stearin | 34 |  |  | PMS (VEO)
Parachlorobenzotrifluoride | 32 |  | PBF
Paraffin wax, see Waxes: Paraffin | 31 | 3 |  | WPF
n-Paraffins (C10-C20), see n-Alkanes (C10+) | 31 |  | PFN | ALJ
Paraldehyde | 19 |  | PDH
Paraldehyde-Ammonia reaction product | 9 |  | PRB
Peanut, see Oil, edible: Peanut | 34 |  |  | OPN (VEO)
Pentachloroethane | 36 |  | PCE
Pentacosa(oxypropane-2,3-diyl)s | 20 |  | POY |
Pentadecanol, see Alcohols (C13+) | 20 |  | PDC | ALY
1,3-Pentadiene |  | PDE | PDN
1,3-Pentadiene (greater than 50%), Cyclopentene and isomers, mixtures | 30 | 3 | PMM
Pentaethylene glycol, see Polyethylene glycols | 20 |  |  | PEG
Pentaethylene glycol methyl ether, see Poly(2-8)alkylene glycol monoalkyl (C1-C6) ether | 40 |  |  | PAG
Pentaethylenehexamine | 7 |  | PEN
Pentaethylenehexamine/Tetraethylenepentamine mixture | 7 |  | PEP
Pentane (all isomers) | 31 |  | PTY | IPT/PTA
Pentanoic acid | 4 |  | POC
n-Pentanoic acid (64%)/2-Methyl butyric acid (36%) mixture | 4 |  | POJ | POC
Pentasodium salt of Diethylenetriamine pentaacetic acid solution, see Diethylenetriamine pentaacetic acid, pentasodium salt solution | 43 |  |  | DYS
Pentene (all isomers) | 30 |  | PTX | PTE
Pentyl aldehyde | 19 |  | PYL
n-Pentyl propionate | 34 |  | PPE
Perchloroethylene | 36 | 2 | PER | TTE
Petrolatum | 33 |  | PTL
Phenol | 21 | 2 | PHN | PNS
Phenol solutions (2% or less) | 43 |  | PNS | PHN
1-Phenyl-1-xylyl ethane | 32 |  | PXE
Phosphate esters | 34 |  | PZE
Phosphate esters, alkyl(C12-C14)amine | 7 |  | PEA
Phosphoric acid | 1 | 2 | PAC
Phosphorus, yellow or white | 0 | 1 | PPW | PPB/PPR
Phosphosulfurized bicycle terpene | 0 | 1 | PBT
Phthalate based polyester polyol | 0 | 1, 2 | PBE
Phthalic anhydride (molten) | 11 |  | PAN
PIB, seePoly(4+)Isobutylene (MW>224) | 30
alpha-Pinene | 30 |  | PIO | PIB/PIN
beta-Pinene | 30 |  | PIP | PIN/PIO
Pine oil, see Oil, misc: Pine | 33 |  | PNL | OPI
Piperazine (70% or less) | 7 |  | PIZ | PPB/PPZ
Piperazine (crude) | 7 |  | PZC | PPZ/PIZ
Piperazine, 68% solution | 7
Piperylene concentrate | 30 |  | PIC | PDE/PDN
Polyacrylic acid solution (40% or less) | 43 |  | PYA
Polyalkenyl succinic anhydride amine | 7 |  | PSN
Polyalkyl acrylate | 14 |  | PAY
Polyalkyl(C18-C22) acrylate in Xylene | 14 |  | PIX
Polyalkyl alkenamine succinimide, molybdenum oxysulfide | 10 |  | PSO
Polyalkylene glycols/Polyalkylene glycol monoalkyl ethers mixtures | 40 |  | PPX
Polyalkylene glycol butyl ether, see Poly(2-8)alkylene glycol monoalkyl(C1-C6) ether | 40 |  | PGB | PAG
Poly(2-8)alkylene glycol monoalkyl(C1-C6) ether | 40 | 2 | PAG
Including:
Diethylene glycol butyl ether | 40
Diethylene glycol ethyl ether | 40
Diethylene glycol n-hexyl ether | 40
Diethylene glycol methyl ether | 40
Diethylene glycol propyl ether | 40
Dipropylene glycol butyl ether | 40
Dipropylene glycol methyl ether | 40
Polyalkylene glycol butyl ether | 40
Polyethylene glycol monoalkyl ether | 40
Polypropylene glycol methyl ether | 40
Tetraethylene glycol methyl ether | 40
Triethylene glycol butyl ether | 40
Triethylene glycol ethyl ether | 40
Triethylene glycol methyl ether | 40
Tripropylene glycol methyl ether | 40
Poly(2-8)alkylene glycol monoalkyl(C1-C6) ether acetate | 34 |  | PAF
Including:
Diethylene glycol butyl ether acetate | 34
Diethylene glycol ethyl ether acetate | 34
Diethylene glycol methyl ether acetate | 34
Polyalkylene oxide polyol | 20 |  | PAO
Polyalkyl (C10-C20) methacrylate | 14 |  | PMT | PYY
Polyalkyl methacrylate in mineral oil | 14 |  | PYY | PMT
Polyalkyl(C10-C18)methacrylate/Ethylene propylene copolymer mixture | 14 |  | PEM
Polyalpha olefins | 31 |  | PYO
Polyaluminum chloride solution | 1 |  | PLS
Polybutadiene, hydroxyl terminated | 20 |  | PHT
Polybutene | 33 |  | PLB
Polybutenyl succinimide | 10 |  | PBS
Polycarboxylic ester (C9+), see Ditridecyl adipate | 34 |  |  | DTY
Poly(2+)cyclic aromatics | 32 |  | PCA
Polydimethylsiloxane, see Dimethylpolysiloxane | 34 |  |  | DMP
Polyether, borated | 41 |  | PED
Polyether (molecular weight 1350+) | 41 |  | PYR
Polyether polyols | 41 |  | PEO
Polyethylene glycol | 40 |  | PEG
Polyethylene glycol dimethyl ether | 40 |  | PEF
Poly (ethylene glycol) methylbutenyl ether (MW > 1000) | 40 |  | PBN
Polyethylene glycol monoalkyl ether, see Poly(2-8)alkylene glycol monoalkyl(C1-C6) ether | 40 |  | PEE | PAG
Polyethylene polyamines | 7 | 2 | PEB | PEY
Polyethylene polyamines (more than 50% C5-C20 Paraffin oil) | 7 | 2, 3 | PEY | PEB
Polyferric sulfate solution | 34 |  | PSS
Polyglycerine/Sodium salts solution (containing less than 3% Sodium hydroxide) | 20 | 2 | PGT | PGS
Polyglycerol | 20 |  | PGL
Poly(iminoethylene)-graft-N-poly(ethyleneoxy) solution (90% or less) | 7 | 3 | PIG | PIM
Polyisobutenamine in aliphatic (C10-C14) solvent | 7 | 2 | PIB | PIA
Polyisobutenyl anhydride adduct | 11 |  | PBA
Polyisobutenyl succinimide | 10 |  | PIS
Poly(4+)isobutylene | 30 |  | PIL
Polyisobutylene succinic anhydride | 11 |  | PYS
Polymerized esters | 34 |  | PYM
Polymethylene polyphenyl isocyanate | 12 | 2 | PPI
Polymethylsiloxane | 34 |  | PMX
Polyolefin (molecular weight 300+) | 33 |  | PMW | PLF
Polyolefin amide alkeneamine (C17+) | 33 |  | POH | POD
Polyolefin amide alkeneamine (C28+), see Polyolefin amide alkenamine (C17+) | 33 |  | POD | POH
Polyolefin amide alkeneamine borate (C28-C250) | 33 |  | PAB
Polyolefin amide alkeneamine in mineral oil | 33 |  | PLK
Polyolefin amide alkeneamine/Molybdenum oxysulfide mixture | 7 |  | PMO
Polyolefin amide alkeneamine polyol | 20 |  | PAP
Polyolefin amine (C17+) | 7 |  | POG
Polyolefinamine (C28-C250) | 33 |  | POM
Polyolefinamine in alkyl(C2-C4)benzenes | 32 |  | POF | POR
Polyolefinamine in aromatic solvent | 32 | 3 | POR | POF
Polyolefin aminoester salts (MW 2000+) | 34 |  | PAE
Polyolefin anhydride | 11 |  | PAR
Polyolefin ester (C28-C250) | 34 |  | POS
Polyolefin in mineral oil | 30 |  | PLF | PMW
Polyolefin phenolic amine (C28-C250) | 9 |  | PPH
Polyolefin phosphorosulfide, barium derivative (C28-C250) | 34 |  | PPS
Poly (oxyalkylene) alkenyl ether (MW>1000) | 41 |  | PXY
Polyoxybutylene alcohol | 41 |  | PXA
Poly(20)oxyethylene sorbitan monooleate | 34 |  | PSM
Polyoxypropylenediamine (MW 2000) | 7 |  | PYD
Poly(5+)propylene | 30 |  | PLQ | PLP
Polypropylene glycol | 40 | 2 | PGC
Polypropylene glycol methyl ether, see Poly(2-8)alkylene glycol monoalkyl (C1-C6) ether | 40 |  | PGM | PAG
Polysiloxane | 34 |  | PSX
Polysiloxane/White spirit, low (15-20%) aromatic | 34 |  | PWS
Poly(tetramethylene ether) glycols (mw 950-1050), see alpha-hydro-omega-Hydroxytetradeca(oxytetramethylene) | 40 |  | PYU | HTO
Polytetramethylene ether glycol | 40 |  | PYT | HTO/PYU/PYS
Poppy seed, see Oil, edible: Poppy seed | 34 |  |  | OPS (VEO)
Poppy, see Oil, edible: Poppy | 34 |  |  | OPY (VEO)
Potassium chloride solution | 43 |  | PCU | PCD/PSD
Potassium chloride solution (10% or more) | 43 |  | PCS | PCD/PCU
Potassium chloride solution (less than 26%) | 43 |  | PSD | CLM/DRL/PCS/PCU
Potassium formate solutions | 34 |  | PFR
Potassium hydroxide solution, see Caustic potash solution | 5 | 2 |  | CPS/PTH
Potassium oleate | 34 |  | POE
Potassium polysulfide/Potassium thiosulfide solution (41% or less) | 0 | 1 | PYP | PSF/PTF
Potassium salt of polyolefin acid | 34 |  | PSP
Potassium thiosulfate (50% or less) | 43 |  | PTF
Propane | 31 |  | PRP | LPG
n-Propanolamine | 8 |  | PLA | MPA/PAX
2-Propene-1-aminium, N,N-dimethyl-N-2-propenyl-, chloride, homopolymer solution | 0 | 1, 3 | PLN
Propionaldehyde | 19 |  | PAD
beta-Propiolactone | 18 | 3 | PLT
Propionic acid | 4 |  | PNA
Propionic anhydride | 11 |  | PAH
Propionitrile | 37 |  | PCN
n-Propoxypropanol, see Propylene glycol monoalkyl ether | 40 |  | PXP | PGE
n-Propyl acetate | 34 |  | PAT | IAC
n-Propyl alcohol | 20 | 2 | PAL | IPA
n-Propyl chloride | 36 |  | PRC
Propyl ether | 41 |  |  | IPE/PRE
n-Propylamine | 7 |  | PRA | IPO/IPP/IPQ
Propylbenzenes (all isomers), see Alkyl(C3-C4)benzenes | 32 |  | PBY | AKC (CUM/PBZ)
Propylene | 30 |  | PPL
Propylene-butylene copolymer | 30 |  | PBP
Propylene carbonate | 34 |  | PLC
Propylene dimer | 30 |  | PDR
Propylene glycol | 20 | 2 | PPG
Propylene glycol n-butyl ether, see Propylene glycol monoalkyl ether | 40 |  | PGD | PGE
Propylene glycol ethyl ether, see Propylene glycol monoalkyl ether | 40 |  | PGY | PGE
Propylene glycol methyl ether, see Propylene glycol monoalkyl ether | 40 | 2 | PME | PGE
Propylene glycol methyl ether acetate | 34 | 2 | PGN
Propylene glycol monoalkyl ether | 40 |  | PGE
Including:
n-Propoxypropanol | 40
Propylene glycol n-butyl ether | 40
Propylene glycol ethyl ether | 40
Propylene glycol methyl ether | 40 | 2
Propylene glycol propyl ether | 40
Propylene glycol phenyl ether | 40 |  | PGP
Propylene glycol propyl ether, see Propylene glycol monoalkyl ether | 40 |  |  | PGE
Propylene oxide | 16 |  | POX
Propylene tetramer | 30 |  | PTT
Propylene trimer | 30 |  | PTR
Propylene/Propane/MAPP gas mixture | 30 | 2 | PPM
Pseudocumene, see Trimethylbenzene (all isomers) | 32 |  |  | TMB/TMD/TME/TRE
Pyridine | 9 |  | PRD
Pyridine bases, see Paraldehyde-Ammonia reaction product | 9 |  |  | PRB
Pyrolysis gasoline (containing Benzene) | 32 | 3 | PYG | GPY
Rapeseed oil (low erucic acid containing less than 4% free fatty acids), see Oil, edible: Rapeseed, (low erucic acid containing less than 4% free fatty acids) | 34 | 3 |  | ORO (VEO)
Rapeseed oil fatty acid methyl esters, see Oil, misc: Rapeseed fatty acid methyl esters | 34 | 3 |  | RSO
Rapeseed oil, see Oil, edible: Rapeseed | 34 |  |  | ORO (VEO)
Refrigerant gases | 0 | 1 | RFG
Resin oil, distilled, see Oil, misc: Resin, distilled | 33 | 3 |  | ORR (ORS)
Rice bran oil, see Oil, misc: Rice bran | 34 |  |  | ORB
Rosin soap (disproportionated) solution | 43 |  | RSP
Rosin, see Oil, misc: Rosin | 33 |  |  | ORN
ROUNDUP | 7 |  | RUP | GIO
Rum, see Alcoholic beverages | 20 |  |  | ABV
Safflower oil, see Oil, edible: Safflower | 34 |  |  | OSF (VEO)
Sewage sludge | 43 |  | SWS
Shea butter, see Oil, edible: Shea butter | 34 | 3 |  | OSH (VEO)
Silica slurry | 43 |  | SLC
Siloxanes | 34 |  | SLX
Sludge, treated | 43 |  | SWA
Sodium acetate solutions | 34 |  | SAN
Sodium acetate, Glycol, Water mixture (1% or less Sodium hydroxide) (if non-flammable or non-combustible) | 5 | 2 | SAY | SAO/SAP/SAQ/SAY
Sodium acetate, Glycol, Water mixture (containing Sodium hydroxide) | 5 |  | SAQ | SAO/SAP/SAW/SAY
Sodium acetate, Glycol, Water mixture (not containing Sodium hydroxide) | 34 | 2 | SAW | SAO/SAP/SAQ/SAY
Sodium alkyl (C14-C17) sulfonates (60-65% solution) | 34 |  | SSA | AKA/AKE/SSU
Sodium aluminate solution | 5 |  | SAV | SAU
Sodium aluminate solution (45% or less) | 5 |  | SAU | SAV
Sodium aluminosilicate slurry | 34 |  | SLR
Sodium benzoate | 34 |  | SBN | SBM
Sodium bicarbonate solution (less than 10%) | 34 |  | SBC
Sodium borohydride (15% or less)/Sodium hydroxide solution | 5 |  | SBX | CSS/SBH/SBI/SHD
Sodium bromide solution (less than 50%) | 43 | 3 | SBL | SBR
Sodium carbonate solutions | 5 |  | SCE
Sodium chlorate solution (50% or less) | 0 | 1, 2 | SDD | SDC
Sodium cyanide solution | 5 |  | SCO | SCN/SCS
Sodium dichromate solution (70% or less) | 0 | 1, 2 | SDL | SCR
Sodium dimethyl naphthalene sulfonate solution, see Dimethyl naphthalene sulfonic acid, sodium salt solution | 34 |  |  | DNS
Sodium hydrogen sulfide (6% or less)/Sodium carbonate (3% or less) solution | 0 | 1, 2 | SSS | SCE/SHW
Sodium hydrogen sulfite solution (45% or less) | 43 |  | SHY | SHX
Sodium hydrosulfide solution (45% or less) | 5 | 2 | SHR
Sodium hydrosulfide/Ammonium sulfide solution | 5 | 2 | SSA | ASF/ASS
Sodium hydroxide solution, see Caustic soda solution | 5 | 2 |  | CSS (SHD)
Sodium hypochlorite solution (15% or less) | 5 |  | SHP | SHC/SHQ
Sodium hypochlorite solution (20% or less) | 5 |  | SHQ | SHC/SHP
Sodium lignosulfonate solution | 43 |  | SLG | LNL
Sodium long-chain alkyl salicylate (C13+) | 34 |  | SLS
Sodium 2-mercaptobenzothiazol solution, see Mercaptobenzothiazol, sodium salt solution | 5 |  |  | SMB
Sodium methoxide (25% in methanol) | 0 | 1 | SMO
Sodium methylate 21-30% in methanol | 0 | 1, 2 ,3 | SMT | SMS
Sodium naphthalene sulfonate solution, see Naphthalene sulfonic acid (40% or less), sodium salt solution (40% or less) | 34 |  | SNS | NSA (NSB)
Sodium naphthenate solution, see Naphthenic acid, sodium salt solution | 43 |  |  | NTS
Sodium nitrite solution | 5 |  | SNI | SNT
Sodium N-methyl dithio carbamate solution, see Metam sodium solution | 7 |  | MSS | SMD
Sodium petroleum sulfonate | 34 |  | SPS
Sodium poly(4+)acrylate solution | 43 | 2 | SOP | SOO
Sodium polyacrylate solution | 43 | 2 | SOO | SOP
Sodium salt of Ferric hydroxyethylethylenediaminetriacetic acid solution, see Ferric hydroxyethylethylenediaminetriacetic acid, trisodium salt solution | 43 |  | STA | FHX
Sodium silicate solution | 43 | 2 | SSN | SSC
Sodium sulfate solution | 34 | 3 | SST | SSO
Sodium sulfide solution (15% or less) | 43 |  | SDR | SDS
Sodium sulfide/Hydrosulfide solution (H2S 15 ppm or less) | 0 | 1, 2 | SSH | SDS/SHR/SSI/SSJ
Sodium sulfide/Hydrosulfide solution (H2S greater than 15 ppm but less than 200 ppm) | 0 | 1, 2 | SSI | SDS/SHR/SSH/SSJ
Sodium sulfide/Hydrosulfide solution (H2S greater than 200 ppm) | 0 | 1, 2 | SSJ | SDS/SHR/SSH/SSI
Sodium sulfite solution (25% or less) | 43 |  | SUP | SSF/SUS
Sodium tartrates/Sodium succinates solution | 43 |  | STM
Sodium thiocyanate solution (56% or less) | 0 | 1, 2 | STS | SCY
Sorbitol solution | 20 |  | SBU | SBT
Soyabean fatty acid methyl ester, see Oil, misc: Soyabean fatty acid methyl ester | 34 |  |  | OST
Soyabean oil (expoxidized) | 34 |  | OSC
Soyabean oil, see Oil, edible: Soyabean | 34 | 2 |  | OSB (VEO)
Stearic acid, see Fatty acids (saturated, C14+) | 34 |  | SRA | FAD (FAB/FAE/FDI/FDT)
Stearyl alcohol | 20 |  | SYL | ALY/ASY
Stoddard solvent, see Naphtha: Stoddard solvent | 33 |  |  | NSS
Styrene monomer | 30 |  | STY
Sulfohydrocarbon (C3-C88) | 33 |  | SFO
Sulfohydrocarbon, long-chain (C18+) alkylamine mixture | 7 |  | SFX
Sulfolane | 39 |  | SFL
Sulfonated polyacrylate solution | 43 | 2 | SPA
Sulfur (molten) | 0 | 1, 2 | SXX
Sulfur dioxide | 0 | 1 | SFD
Sulfuric acid | 2 | 2 | SFA | SAC
Sulfuric acid, spent | 2 | 2 | SAC | SFA
Sulfurized fat (C14-C20) | 33 |  | SFT
Sulfurized polyolefinamide | 10 |  | SPY
Sulfurized polyolefinamide alkene(C28-C250) amine | 33 |  | SPO
Sunflower seed oil, see Oil, edible: Sunflower seed | 34 |  |  | OSN (VEO)
Sym-trichlorobenzene, see 1,2,4-Trichlorobenzene | 36
Tall oil, see Oil, misc: Tall | 34 |  |  | OTL (OTI/OTJ)
Tall oil fatty acid (resin acids less than 20%), see Oil, misc: Tall oil fatty acid (resin less than 20%) | 34 | 2 |  | OTK (OTT)
Tall oil fatty acid, barium salt | 0 | 1, 2 | TOB
Tall oil soap (crude) | 34 |  | TOR | TOS
Tall oil soap (disproportionated) solution | 43 |  | TOS
Tall oil, crude, see Oil, misc: Tall, crude | 34 | 2, 3 |  | OTI (OTJ/OTL)
Tall oil, distilled, see Oil, misc: Tall, distilled | 34 | 3 |  | OTJ (OTI/OTL)
Tall oil, fatty acid, see Oil, misc: Tall fatty acid | 34 | 2 |  | OTT
Tall oil, pitch, see Oil, misc: Tall pitch | 34 | 3 |  | OTP (OTI/OTJ/OTL)
Tallow | 34 | 2 | TLO
Tallow alcohol, see Alcohols (C13+) | 20 | 2 | TFA | ALY (ASY)
Tallow alkyl nitrile | 37 |  | TAN
Tallow fatty acid | 34 | 2 | TFD
Tallow fatty alcohol, see Alcohols (C13+) | 20 | 2 | TFA | ALY
TAME, see tert-Amyl methyl ether | 41 |  |  | AYE
Tertiary butylphenols | 21 |  | BLT | BTP
Tetrachloroethane | 36 |  | TEC
1,1,2,2-Tetrachloroethane, see Tetrachloroethane | 36 |  | TEC | TEE
Tetradecanol, see Alcohols (C13+) | 20 |  | TTN | ALY
Tetradecene, see olefins or alpha-olefin entries | 30 |  |  | OAM/OFY/OFW/OFZ/TDD
Tetradecylbenzene, see Alkyl(C9+) benzenes | 32 |  | TDB | AKB
Tetraethyl silicate monomer/oligomer (20% in ethanol) | 0 | 1, 3 | TSM
Tetraethylene glycol | 40 |  | TTG
Tetraethylene glycol methyl ether, see Poly(2-8)alkylene glycol monoalkyl(C1-C6) ether | 40 |  |  | PAG
Tetraethylenepentamine | 7 | 2 | TTP
Tetrahydrofuran | 41 |  | THF
Tetrahydronaphthalene | 32 |  | THN
Tetramethylbenzene (all isomers) | 32 |  | TTC | TTB
1,2,3,5-Tetramethylbenzene, see Tetramethylbenzene (all isomers) | 32 |  | TTB | TTC
Tetrapropylbenzene, see Alkyl(C9+)benzenes | 32 |  |  | AKB
Tetrasodium salt of ethylenediaminetetraacetic acid solution, see Ethylenediaminetetraacetic acid, tetrasodium salt solution | 43 |  |  | EDS
Titanium dioxide slurry | 43 |  | TDS
Titanium tetrachloride | 2 |  | TTT
Toluene | 32 | 2 | TOL
Toluene diisocyanate | 12 | 2 | TDJ | TDI
Toluenediamine | 9 |  | TDA
o-Toluidine | 9 | 2 | TLI | TOD/TOI
Triarylphosphate, see Triisopropylated phenyl phosphates | 34 |  | TRA | TPL
Tributyl phosphate | 34 |  | TBP
1,2,3-Trichlorobenzene (molten) | 36 | 3 | TBZ | TCB
1,2,4-Trichlorobenzene | 36 |  | TCB | TBZ
1,2,3-Trichlorobenzol, see 1,2,3-Trichlorobenzene (molten) | 36 |  | TBZ | TCB
1,1,1-Trichloroethane | 36 | 2 | TCE | TCM
1,1,2-Trichloroethane | 36 |  | TCM | TCE
Trichloroethylene | 36 | 2 | TCL
1,1,2-Trichloro-1,2,2-trifluoroethane | 36 |  | TTF
Tricresyl phosphate (containing 1% or more ortho-isomer) | 34 | 3 | TCO | TCP/TCQ
Tricresyl phosphate (containing less than 1% ortho-isomer) | 34 | 3 | TCP | TCO/TCQ
1,2,3-Trichloropropane | 36 | 2 | TCN
Tridecane (all isomers), see Alkanes (C10+) (all isomers) | 31 |  | TRD | ALV (ALJ)
Tridecanoic acid | 34 |  | TDO
Tridecanol, see Alcohols (C13+) | 20 |  | TDN | ALY (ASK/ASY/AYK/LAL)
Tridecene, see Olefins (C13+, all isomers) | 30 |  | TRD | OAM/OFY/OFW/OFZ/TDC
Tridecyl acetate | 34 |  | TAE
Tridecylbenzene, see Alkyl(C9+) benzenes | 32 |  | TRB | AKB
Triethanolamine | 8 | 2 | TEA
Triethylamine | 7 |  | TEN
Triethylbenzene | 32 |  | TEB
Triethylene glycol | 40 |  | TEG
Triethylene glycol butyl ether mixture | 40 |  | TBD
Triethylene glycol butyl ether, see Poly(2-8)alkylene glycol monoalkyl (C1-C6) ether | 40 |  | TBE | PAG
Triethylene glycol di-(2-ethylbutyrate) | 34 |  | TGD
Triethylene glycol dibenzoate | 34 |  | TGB
Triethylene glycol ether mixture | 40 |  | TYM
Triethylene glycol ethyl ether, see Poly(2-8)alkylene glycol monoalkyl(C1-C6) ether | 40 |  | TGE | PAG
Triethylene glycol methyl ether, see Poly(2-8)alkylene glycol monoalkyl(C1-C6) ether | 40 |  | TGY | PAG
Triethylenetetramine | 7 | 2 | TET
Triethyl phosphate | 34 |  | TPS
Triethyl phosphite | 34 | 2 | TPI
Triisobutylene | 30 |  | TIB
Triisooctyl trimellitate | 34 |  | TIS
Triisopropanolamine | 8 |  | TIP
Triisopropanolamine salt of 2,4-Dichlorophenoxyacetic acid solution, see 2,4-Dichlorophenoxyacetic acid, Triisopropanolamine salt solution | 43 |  |  | DTI
Triisopropylated phenyl phosphates | 34 |  | TPL
Trimethylacetic acid | 4 |  | TAA
Trimethylamine solution (30% or less) | 7 |  | TMT | TMA
Trimethylbenzene (all isomers) | 32 |  | TRE | TMB/TMD/TME
Trimethyl nonanol, see Dodecanol | 20 |  |  | DDN (ASK/ASY/LAL)
Trimethylol propane polyethoxylated | 20 |  | TPR
Trimethyl phosphite | 34 | 2 | TPP
Trimethylhexamethylene diisocyanate (2,2,4- and 2,4,4-) | 12 |  | THI
Trimethylhexamethylenediamine (2,2,4- and 2,4,4-) | 7 |  | THA
2,2,4-Trimethyl-1,3-pentanediol diisobutyrate | 34 |  | TMQ
2,2,4-Trimethyl-1,3-pentanediol-1-isobutyrate | 34 |  | TMP
2,2,4-Trimethyl-3-pentanol-1-isobutyrate | 34 |  | TMR
Triphenylborane (10% or less)/Caustic soda solution | 5 |  | TPB
1,3,5-Trioxane | 41 | 2 | TRO
Tripropylene, see Propylene trimer | 30 |  |  | PTR
Tripropylene glycol | 40 |  | TGC
Tripropylene glycol methyl ether, see Poly(2-8)alkylene glycol monoalkyl(C1-C6) ether | 40 |  | TGM | PAG
Trisodium nitrilotriacetate solution, see Nitrilotriacetic acid, trisodium salt solution | 34 |  | TSO | NCA (TSN)
Trisodium phosphate solution | 5 |  | TSP
Trisodium salt of N-(Hydroxyethyl)ethylenediaminetriacetic acid solution, see N-(Hydroxyethyl)ethylenediaminetriacetic acid, trisodium salt solution | 43 |  |  | HET
Trixylyl phosphate | 34 |  | TRP
Trixylenyl phosphate, see Trixylyl phosphate | 34 |  |  | TRP
Tung oil, see Oil, misc: Tung | 34 |  |  | OTG
Turpentine | 30 |  | TPT
Turpentine substitute, see White spirit (low (15-20%) aromatic) | 33 |  |  | WSL (WSP)
Ucarsol CR Solvent 302 SG | 8 |  | UCS
Undecane (all isomers), see Alkanes (C10+) (all isomers) | 31 |  | UDN | ALV (ALJ)
Undecanoic acid | 4 |  | UDA
Undecanol, see Undecyl alcohol | 20 |  |  | UND (ALR)
Undecene | 30 |  | UDD | UDC
1-Undecene | 30 |  | UDC | UDD
Undecyl alcohol | 20 |  | UND | ALR
Undecylbenzene, see Alkyl(C9+) benzenes | 32 |  | UDB | AKB
Urea solution | 43 |  | USL | URE
Urea, Ammonium mono- and di-hydrogen phosphate/Potassium chloride solution | 0 | 1 | UPX
Urea/Ammonium phosphate solution | 43 |  | UAP
Urea/Ammonium nitrate solution (containing less than 1% free Ammonia) | 43 | 2 | UAU | ANU/UAS/UAT/UAV
Urea/Ammonium nitrate solution (containing 1% or more Ammonia) | 6 |  | UAV | ANU/UAS/UAT/UAU
Vacuum gas oil, see oil misc: Vacuum gas oil | 33 |  | OVC
Valeraldehyde (all isomers) | 19 |  | VAK | IVA/VAL
Vanillin black liquor (free alkali content 3% or more) | 5 |  | VBL
Vegetable acid oils, n.o.s. | 34 |  | VAD
Including:
Corn acid oil | 34
Cottonseed acid oil | 34
Dark mixed acid oil | 34
Groundnut acid oil | 34
Mixed acid oil | 34
Mixed general acid oil | 34
Mixed hard acid oil | 34
Mixed soft acid oil | 34
Rapeseed acid oil | 34
Safflower acid oil | 34
Soya acid oil | 34
Sunflower seed acid oil | 34
Vegetable fatty acid distillates, n.o.s. | 34 | 3 | VFD
Including:
Palm kernel fatty acid distillate | 34
Palm oil fatty acid distillate | 34
Tall fatty acid distillate | 34
Tall oil fatty acid distillate | 34
Vegetable oils, n.o.s. | 34 |  | VEO
Including:
Beechnut oil | 34
Camelina oil | 34
Cashew nut shell | 34
Castor oil | 34
Cocoa butter | 34
Coconut oil | 34 | 2
Corn oil | 34
Cotton seed oil | 34
Croton oil | 34
Grape seed oil | 34
Groundnut oil | 34
Hazelnut oil | 34
Illipe oil | 34
Jatropha oil | 4
Linseed oil | 34
Mango kernel oil | 34
Nutmeg butter | 34
Oiticica oil | 34
Olive oil | 34
Palm kernel oil | 34
Palm kernel olein | 34
Palm kernel stearin | 34
Palm mid fraction | 34
Palm, non-edible industrial grade | 34
Palm oil | 34 | 2
Palm olein | 34
Palm stearin | 34
Peanut oil | 34
Peel oil (oranges and lemons) | 34
Perilla oil | 34
Pine oil | 34
Poppy seed oil | 34
Poppy oil | 34
Raisin seed oil | 34
Rapeseed oil | 34
Rapeseed (low erucic acid containing less than 4% free fatty acids) | 34
Resin, distilled | 33
Resin oil | 33
Rice bran oil | 34
Rosin oil | 34
Safflower oil | 34
Salad oil | 34
Sesame oil | 34
Shea butter | 34
Soyabean oil | 34 | 2
Sunflower seed oil | 34
Tall | 34
Tall, crude | 34
Tall, distilled | 34
Tall, pitch | 34
Tucum oil | 34
Tung oil | 34
Walnut oil | 34
Vegetable protein solution (hydrolyzed) | 43 |  | VPS
Vinyl acetate | 13 | 2 | VAM
Vinyl chloride | 35 |  | VCM
Vinyl ethyl ether | 13 |  | VEE
Vinylidene chloride | 35 |  | VCI
Vinyl neodecanoate | 13 | 2 | VND
Vinyltoluene | 13 |  | VNT
Water | 43 |  | WTR
Waxes:
|  |  | WAX
Candelilla | 34 |  | WCD
Carnauba | 34 |  | WCA
Paraffin | 31 |  | WPF
Petroleum | 33 |  | WPT
White spirit, see White spirit (low (15-20%) aromatic) | 33 |  | WSP | WSL
White spirit (low (15-20%) aromatic) | 33 |  | WSL | WSP
Wine, see Alcoholic beverages | 20 |  | ABV
Wood lignin with Sodium acetate/oxalate | 0 | 1, 3 | WOL
Xylenes | 32 | 2 | XLX | XLM/XLO/XLP
Xylenes/Ethylbenzene (10% or more) mixture | 32 |  | XEB
Xylenols | 21 |  | XYL
Zinc alkaryl dithiophosphate (C7-C16) | 34 |  | ZAD
Zinc alkenyl carboxamide | 10 |  | ZAA | WSL
Zinc alkyl dithiophosphate (C3-C14) | 34 |  | ZAP
Zinc bromide/Calcium bromide solution, see Drilling brine (containing Zinc salts) | 43 |  |  | DZB
Notes:
1. Because of very high reactivity or unusual conditions of carriage or potential compatibility problems, this commodity is not assigned to a specific group in Figure 1 to 46 CFR part 150 (Compatibility Chart).
2. See Appendix I to 46 CFR part 150 (Exceptions to the Chart).
3. Entries which were added from the March 2012 Annex to the 2007 edition of the IBC Code.
4. Italicized words are not part of the cargo name but may be used in addition to the cargo name.

5. Revise Table II to Part 150, as amended by the interim rule published on August 16, 2013 (78 FR 50148), effective January 16, 2017, as delayed at 79 FR 68132, November 14, 2014, to read as follows:

Table II to Part 150—Grouping of Cargoes
0. UNASSIGNED CARGOES
Acetone cyanohydrin
Alkenoic acid, polyhydroxy ester borated
Alkyl benzene distillation bottoms
Alkyl (C11-C17) benzene sulfonic acid
Alkylbenzene sulfonic acid (less than 4%)
Alkyl (C18-C28) toluenesulfonic acid
Aluminum chloride/Hydrochloric acid solution
Aluminum chloride/Hydrogen chloride solution
Ammonium hydrogen phosphate solution
Ammonium nitrate solution (45% or less)
Ammonium nitrate solution (93% or less)
Ammonium thiocyanate/Ammonium thiosulfate solution
Argon, liquefied
Benzenesulfonyl chloride ¹
gamma-Butyrolactone ¹
Carbon dioxide (high purity)
Carbon dioxide (reclaimed quality)
Carbon dioxide, liquefied
Chlorine
2-Chloro-4-ethylamino-6-isopropylamino-5-triazine solution
Chlorosulfonic acid
Decyloxytetrahydrothiophene dioxide
2,4-Dichlorophenoxyacetic acid, Dimethylamine salt solution (70% or less) ¹
Dimethylamine salt of 2,4-Dichlorophenoxyacetic acid solution ¹
Dimethyl disulfide
Diphenylol propane-Epichlorohydrin resins
tert-Dodecanethiol ¹
Dodecyl hydroxypropyl sulfide ¹
Dodecylbenzenesulfonic acid ¹
Ethylene oxide
Fuming sulfuric acid
Hydrogen peroxide solutions (over 60% but not over 70% by mass)
Hydrogen peroxide solutions (over 8% but not over 60% by mass)
Hydrogenated starch hydrolysate
Lactic acid ¹
Liquid chemical wastes
Long-chain alkaryl sulfonic acid (C16-C60) ¹
Magnesium chloride solution ¹
Maltitol solution
Methylcyclopentadienyl manganese tricarbonyl
Methylcyclopentadienyl manganese tricarbonyl (60-70%) in mineral oil
Molasses residue (from fermentation)
Molybdenum polysulfide long-chain alkyl dithiocarbamide complex
Motor fuel anti-knock compound (containing lead alkyls)
Naphthalene sulfonic acid-formaldehyde copolymer, sodium salt solution
NIAX POLYOL APP 240C ¹
Nitrating acid (mixture of Sulfuric and Nitric acids)
Nitric acid (70% and over) ¹
Nitric Acid, fuming
Nitric Acid, red fuming
Nitrogen
o-Nitrophenol (molten) ¹
Non-noxious Liquid Substance, (12) n.o.s. Cat OS
Noxious Liquid Substance, NF, (1) n.o.s. Cat X
Noxious Liquid Substance, F, (2) n.o.s. Cat X
Noxious Liquid Substance, NF, (3) n.o.s. Cat X
Noxious Liquid Substance, F, (4) n.o.s. Cat X
Noxious Liquid Substance, NF, (5) n.o.s. Cat Y
Noxious Liquid Substance, F, (6) n.o.s. Cat Y
Noxious Liquid Substance, NF, (7) n.o.s. Cat Y
Noxious Liquid Substance, F, (8) n.o.s. Cat Y
Noxious Liquid Substance, NF, (9) n.o.s. Cat Z
Noxious Liquid Substance, F, (10) n.o.s. Cat Z
Noxious Liquid Substance, (11) n.o.s. Cat Z
n-Octyl Mercaptan
Oleum ¹
Orange juice (concentrated)
Orange juice (not concentrated)
Oxygenated aliphatic hydrocarbon mixture
Phosphorus, yellow or white
Phosphosulfurized bicycle terpene
Phthalate based polyester polyol ¹
Potassium polysulfide/Potassium thiosulfide solution (41% or less)
2-Propene-1-aminium, N,N-dimethyl-N-2-propenyl-, chloride, homopolymer solution
Refrigerant gases
Sodium chlorate solution (50% or less) ¹
Sodium dichromate solution (70% or less) ¹
Sodium hydrogen sulfide (6% or less)/Sodium carbonate (3% or less) solution ¹
Sodium methoxide (25% in methanol)
Sodium methylate 21-30% in methanol
Sodium sulfide/Hydrosulfide solution (H2S 15 ppm or less)
Sodium sulfide/Hydrosulfide solution (H2S greater than 15 ppm but less than 200 ppm) ¹
Sodium sulfide/Hydrosulfide solution (H2S greater than 200 ppm)
Sodium thiocyanate solution (56% or less) ¹
Sulfur (molten)
Sulfur dioxide
Tall oil fatty acid, barium salt ¹
Tetraethyl silicate monomer/oligomer (20% in ethanol)
Urea, Ammonium mono- and di-hydrogen phosphate/Potassium chloride solution
Wood lignin with Sodium acetate/oxalate
1. NON-OXIDIZING MINERAL ACIDS
Di-(2-ethylhexyl) phosphoric acid
Ferric chloride solution
Fluorosilicic acid (20-30%) in water solution
Fluorosilicic acid (30% or less)
Hydrochloric acid
Hydrofluorosilicic acid, (25% or less)
Phosphoric acid
Polyaluminum chloride solution
2. SULFURIC ACIDS
Sulfuric acid ¹
Sulfuric acid, spent
Titanium tetrachloride
3. NITRIC ACID
Ferric nitrate/Nitric acid solution
Nitric acid (less than 70%)
4. ORGANIC ACIDS
Acetic acid ¹
Acrylic acid ¹
Butyric acid
Chloroacetic acid (80% or less)
2- or 3-Chloropropionic acid
Citric acid (70% or less)
Decanoic acid
2,2-Dichloropropionic acid
Dimethyl octanoic acid
2-Ethylhexanoic acid
Formic acid ¹
Formic acid (85% or less)
Formic acid (over 85%)
Formic acid mixture (containing up to 18% Propionic acid and up to 25% Sodium formate)
Glycolic acid solution (70% or less)
Glyoxylic acid solution (50% or less)
n-Heptanoic acid
1,6-Hexanediol, distillation overheads
Hexanoic acid
2-Hydroxy-4-(methylthio)butanoic acid
Jatropha oil
Long-chain alkyl (C13+) salicylic acid
Methacrylic acid
Naphthenic acid
Neodecanoic acid
Nonanoic acid (all isomers)
Nonanoic/Tridecanoic acid mixture
Octanoic acid (all isomers)
Oleic acid
Pentanoic acid
n-Pentanoic acid (64%)/2-Methyl butryic acid (36%) mixture
Propionic acid
Trimethylacetic acid
Undecanoic acid
5. CAUSTICS
Aluminum hydroxide/sodium hydroxide/sodium carbonate solution (40% or less)
Ammonium sulfide solution (45% or less)
Calcium hydroxide slurry
Calcium hypochlorite solution (15% or less)
Calcium hypochlorite solution (more than 15%)
Caustic potash solution ¹
Caustic soda solution ¹
Cresylate spent caustic
Cresylic acid, sodium salt solution
1,4-Dihydro-9,10-dihydroxy anthracene, disodium salt solution
Kraft black liquor
Kraft pulping liquors (free alkali content 3% or more) (Black, Green, or White)
Magnesium hydroxide slurry
Mercaptobenzothiazol, sodium salt solution
2-Mercaptobenzothiazol (in liquid mixture)
Potassium hydroxide solution ¹
Sodium acetate, Glycol, Water mixture (1% or less Sodium hydroxide) (if non-flammable or non-combustible)
Sodium acetate, Glycol, Water mixture (containing Sodium hydroxide)
Sodium aluminate solution
Sodium aluminate solution (45% or less)
Sodium borohydride (15% or less)/Sodium hydroxide solution
Sodium carbonate solutions
Sodium cyanide solution
Sodium hydrosulfide solution (45% or less) ¹
Sodium hydrosulfide/Ammonium sulfide solution ¹
Sodium hydroxide solution ¹
Sodium hypochlorite solution (15% or less)
Sodium hypochlorite solution (20% or less)
Sodium 2-mercaptobenzothiazol solution
Sodium nitrite solution
Triphenylborane (10% or less)/Caustic soda solution
Trisodium phosphate solution
Vanillin black liquor (free alkali content 3% or more)
6. AMMONIA
Ammonia, anhydrous
Ammonia, aqueous (28% or less Ammonia)
Ammonium hydroxide (28% or less Ammonia)
Ammonium nitrate/Urea solution (containing Ammonia)
Urea/Ammonium nitrate solution (containing 1% or more Ammonia)
7. ALIPHATIC AMINES
Alkyl amine (C17+)
Alkyl (C12+) dimethylamine
N-Aminoethylpiperazine
Butylamine (all isomers)
Crude piperazine
Cyclohexylamine
Dibutylamine
Diethylamine ¹
Diethylenetriamine ¹
Diisobutylamine
Diisopropylamine
Dimethylamine
Dimethylamine solution (45% or less)
Dimethylamine solution (greater than 45% but not greater than 55%)
Dimethylamine solution (greater than 55% but not greater than 65%)
N,N-Dimethylcyclohexylamine
Dimethyldodecylamine
N,N-Dimethyldodecylamine
Di-n-propylamine
Dodecylamine/Tetradecylamine mixture
Dodecyldimethylamine/Tetradecyldimethylamine mixture
Ethoxylated tallow alkyl amine
Ethoxylated tallow alkyl amine, glycol mixture
Ethoxylated tallow amine (>95%)
Ethylamine ¹
Ethylamine solution (72% or less)
N-Ethylbutylamine
N-ethylcyclohexylamine
Ethyleneamine EA 1302 ¹
Ethylenediamine ¹
2-Ethylhexylamine
N-ethylmethylallylamine
Glycine, sodium salt solution
Glyphosate solution (not containing surfactant)
Hexamethylenediamine (molten)
Hexamethylenediamine solution
Hexamethyleneimine
Hexamethylenetetramine solutions
bis (Hydrogenated tallow alkyl) methyl amines
Isophorone diamine
Isopropylamine
Isopropylamine (70% or less) solution
iso-Propylamine solution
Long-chain alkyl amine
Long-chain polyetheramine in alkyl(C2-C4)benzenes
Metam sodium solution
Methylamine solutions (42% or less)
2-Methyl-1,5-pentanediamine
Monoethylamine
Morpholine ¹
Oleylamine
Pentaethylenehexamine
Pentaethylenehexamine/Tetraethylenepentamine mixture
Phosphate esters, alkyl(C12-C14)amine
Piperazine (70% or less)
Piperazine (crude)
Piperazine, 68% solution
Polyalkenyl succinic anhydride amine
Polyethylene polyamines ¹
Polyethylene polyamines (more than 50% C5-C20 Paraffin oil)
Poly(iminoethylene)-graft-N-poly(ethyleneoxy) solution (90% or less)
Polyisobutenamine in aliphatic (C10-C14) solvent
Polyolefin amide alkeneamine/Molybdenum oxysulfide mixture
Polyolefin amine (C17+)
Polyoxypropylenediamine (MW 2000)
n-Propylamine
ROUNDUP
Sodium N-methyl dithio carbamate solution
Sulfohydrocarbon, long-chain (C18+) alkylamine mixture
Tetraethylenepentamine ¹
Triethylamine
Triethylenetetramine ¹
Trimethylamine solution (30% or less)
Trimethylhexamethylenediamine (2,2,4- and 2,4,4-)
8. ALKANOLAMINES
Alkyl (C12-C16) propoxyamine ethoxylates
Aminoethyldiethanolamine/Aminoethylethanolamine solution
2-(2-Aminoethoxy)ethanol
Aminoethylethanolamine
2-Amino-2-methyl-1-propanol
Diethanolamine
Diethylaminoethanol
Diethylethanolamine
Diisopropanolamine
Dimethylethanolamine ¹
Ethanolamine
Ethoxylated alkyloxy alkyl amine
Ethoxylated long-chain (C16+) alkyloxyalkylamine
Isopropanolamine
Isopropanolamine solution
iso-Propanolamine
Linear alkyl (C12-C16) propoxyamine ethoxylates
Methyl diethanolamine
Monoethanolamine
Monoisopropanolamine
n-Propanolamine
Triethanolamine
Triisopropanolamine
Ucarsol CR Solvent 302 SG
9. AROMATIC AMINES
Alkyl (C8-C9) phenylamine in aromatic solvents
Amine C-6, morpholine process residue
Aniline
Calcium long-chain alkyl phenolic amine (C8-C40)
4-Chloro-2-methylphenoxyacetic acid, Dimethylamine salt solution
Dialkyl (C8-C9) diphenylamines
2,6-Diethylaniline
Dimethylamine salt of 4-Chloro-2-methylphenoxyacetic acid solution
2,6-Dimethylaniline
Diphenylamine (molten)
Diphenylamine, reaction product with 2,2,4-trimethylpentene
Diphenylamines, alkylated
2-Ethyl-6-methyl-N-(1′-methyl-2-methoxyethyl)aniline
N-Methylaniline
2-Methyl-6-ethyl aniline
N-Methyl-5-ethylpyridine
Methylpyridine
2-Methylpyridine
3-Methylpyridine
4-Methylpyridine
N-Methyl-2-pyrrolidone ¹
Paraldehyde-Ammonia reaction product
Polyolefin phenolic amine (C28-C250)
Pyridine
Pyridine bases
Toluenediamine
o-Toluidine
10. AMIDES
Acetochlor
Acrylamide solution (50% or less)
Alkenyl (C11+) amide
N,N-Dimethylacetamide
N,N-Dimethylacetamide solution (40% or less)
Dimethylformamide
Formamide
N,N-bis(2-Hydroxyethyl) oleamide
Octadecenoamide solution
Oleamide solution
Organomolybdenum amide
Polyalkyl alkenamine succinimide, molybdenum oxysulfide
Polybutenyl succinimide
Polyisobutenyl succinimide
Sulfurized polyolefinamide
Zinc alkenyl carboxamide
11. ORGANIC ANHYDRIDES
Acetic anhydride
Alkenyl (C16-C20) succinic anhydride
Alkyl succinic anhydride
Maleic anhydride
Maleic anhydride/sodium allylsulphonate copolymer solution
Phthalic anhydride (molten)
Polyisobutenyl anhydride adduct
Polyisobutylene succinic anhydride
Polyolefin anhydride
Propionic anhydride
12. ISOCYANATES
Diphenylmethane diisocyanate
Hexamethylene diisocyanate
Isophorone diisocyanate
Polymethylene polyphenyl isocyanate
Toluene diisocyanate
Trimethylhexamethylene diisocyanate (2,2,4- and 2,4,4-)
13. VINYL ACETATE
Vinyl acetate
Vinyl ethyl ether
Vinyl neodecanoate
Vinyltoluene
14. ACRYLATES
Butyl acrylate (all isomers)
Butyl methacrylate
Butyl methacrylate, Decyl methacrylate, Cetyl-Eicosyl methacrylate mixture
Butyl/Decyl/Cetyl/Eicosyl methacrylate mixture
Cetyl/Eicosyl methacrylate mixture
Decyl acrylate
Dodecyl methacrylate
Dodecyl/Octadecyl methacrylate mixture
Dodecyl/Pentadecyl methacrylate mixture
Ethyl acrylate
2-Ethylhexyl acrylate
Ethyl methacrylate
2-Hydroxyethyl acrylate ¹
Isobutyl methacrylate
Methacrylic resin in ethylene dichloride
Methyl acrylate
Methyl methacrylate
Nonyl methacrylate monomer
Polyalkyl acrylate
Polyalkyl(C18-C22) acrylate in Xylene
Polyalkyl (C10-C20) methacrylate
Polyalkyl methacrylate in mineral oil
Polyalkyl(C10-C18)methacrylate/Ethylene propylene copolymer mixture
15. SUBSTITUTED ALLYLS
Acrylonitrile ¹
Allyl alcohol ¹
Allyl chloride
Dichloropropene (all isomers)
1,3-Dichloropropene
Dichloropropene/Dichloropropane mixtures
Methacrylonitrile
16. ALKYLENE OXIDES
Brominated Epoxy Resin in Acetone
1,2-Butylene oxide
Diglycidyl ether of Bisphenol A
Diglycidyl ether of Bisphenol F
Epoxy resin
Ethylene oxide/Propylene oxide mixture
Ethylene oxide/Propylene oxide mixture with an Ethylene oxide content not more than 30% by mass
Propylene oxide
17. EPICHLOROHYDRIN
Chlorohydrins
Chlorohydrins (crude)
Epichlorohydrin
18. KETONES
Acetone ¹
Acetophenone
Amyl methyl ketone
2-Butanone
Butyl heptyl ketone
Butyl methyl ketone
Camphor oil (light)
1-(4-Chlorophenyl)-4,4-dimethyl pentan-3-one ¹
Cyclohexanone
Cyclohexanone/Cyclohexanol mixtures
Diisobutyl ketone
Ethyl amyl ketone
Isophorone
Ketone residue
Mesityl oxide ¹
Methyl amyl ketone
Methyl butyl ketone
Methyl ethyl ketone ¹
Methyl heptyl ketone
Methyl isoamyl ketone
Methyl isobutyl ketone ¹
Methyl propyl ketone
beta-Propiolactone
19. ALDEHYDES
Acetaldehyde
Acrolein ¹
Butyraldehyde (all isomers)
Crotonaldehyde ¹
Crude isononylaldehyde
Decaldehyde
2-Ethylhexaldehyde
2-Ethyl-3-propylacrolein ¹
Formaldehyde (50% or more)/Methanol mixtures ¹
Formaldehyde solutions (37%—50%) ¹
Formaldehyde solutions (45% or less) ¹
Furfural
Glutaraldehyde solutions (50% or less)
Glyoxal solution (40% or less)
Isononylaldehyde (crude)
3-Methyl butyraldehyde
Methylolureas
3-(Methylthio)propionaldehyde
Octyl aldehydes
Paraldehyde
Pentyl aldehyde
Propionaldehyde
Valeraldehyde (all isomers)
20. ALCOHOLS, GLYCOLS
Acrylonitrile-Styrene copolymer dispersion in Polyether polyol
Alcohol (C9-C11) poly (2.5-9) ethoxylates
Alcohol (C6-C17) (secondary) poly (3-6) ethoxylates
Alcohol (C6-C17) (secondary) poly (7-12) ethoxylates
Alcohol (C12-C16) poly (1-6) ethoxylates
Alcohol (C12-C16) poly (7-19) ethoxylates
Alcohol (C12-C16) poly (20+) ethoxylates
Alcohol (C12-C15) poly (. . .) ethoxylates
Alcohol polyethoxylates
Alcohol polyethoxylates, secondary
Alcoholic beverages, n.o.s.
Alcohols (C12+), primary, linear
Alcohols (C8-C11), primary, linear and essentially linear
Alcohols (C12-C13), primary, linear and essentially linear
Alcohols (C14-C18), primary, linear and essentially linear
Alcohols (C13+)
Cetyl Alcohol (hexadecanol)
Oleyl Alcohol (octadecenol)
Pentadecanol
Tallow alcohol
Tetradecanol
Tridecanol
Amyl alcohol, primary
n-Amyl alcohol
sec-Amyl alcohol
tert-Amyl alcohol
Behenyl alcohol
Bio-fuel blends of Gasoline and Ethyl alcohol (>25% but <99% by volume)
Brake fluid base mix: Poly (2-8) alkylene (C2-C3) glycols/Polyalkylene (C2-C10) glycols monoalkyl (C1-C4) ethers and their borate esters
1,4-Butanediol
2-Butoxyethanol (58%)/Hyperbranched polyesteramide (42%) (mixture)
Butyl alcohol (all isomers) ¹
Butyl alcohol (iso-, n-, sec-, tert-)
Butylene glycol
Cetyl/Stearyl alcohol
Choline chloride solutions
Crude isopropanol
Cyclohexanol
Decyl alcohol (all isomers) ¹
Decyl/Dodecyl/Tetradecyl alcohol mixture
Diacetone alcohol ¹
Dibutyl carbinol
Diethyl hexanol
Diisobutyl carbinol
2,2-Dimethylpropane-1,3-diol (molten or solution)
Dodecanol (all isomers)
Dodecyl alcohol (all isomers)
Ethoxylated alcohols , C11-C15
2-Ethylhexanol
Ethyl alcohol ¹
Ethyl butanol
Ethylene chlorohydrin
Ethylene cyanohydrin
Ethylene glycol ¹
Furfuryl alcohol ¹
Glycerine ¹
Glycerine (83%)/Dioxanedimethanol (17%) mixture
Glycerol
Glycerol monooleate
Glycol mixture, crude
Heptanol (all isomers)
Hexadecanol (cetyl alcohol)
Hexaethylene glycol
Hexamethylene glycol
Hexanol
Hexylene glycol
Isoamyl alcohol
Isobutyl alcohol
Isopropyl alcohol
Methacrylic acid—Alkoxypoly (alkylene oxide) methacrylate copolymer, sodium salt aqueous solution (45% or less)
3-Methoxy-1-butanol
Methyl alcohol ¹
Methyl amyl alcohol
alpha-Methylbenzyl alcohol with Acetophenone (15% or less)
Methyl butanol
Methyl butenol
Methyl 3- (3,5 di-tert-butyl-4-hydroxyphenyl) propionate crude melt
Methylbutynol
Methylcyclohexanemethanol (crude)
2-Methyl-2-hydroxy-3-butyne
Methyl isobutyl carbinol
3-Methyl-3-methoxybutanol
2-Methyl-1,3-propanediol
Molasses
Nonyl alcohol (all isomers) ¹
1-Octadecanol
Octadecenol (oleyl alcohol)
Octanol (all isomers) ¹
Octyl alcohol ¹
Pentacosa (oxypropane-2,3-diyl)s
Pentaethylene glycol
Polyalkylene oxide polyol
Polybutadiene, hydroxyl terminated
Polyglycerine/Sodium salts solution (containing less than 3% Sodium hydroxide)¹
Polyglycerol
Polyolefin amide alkeneamine polyol
n-Propyl alcohol ¹
Propylene glycol ¹
Rum
Sorbitol solution
Stearyl alcohol
Tallow alcohol
Tallow fatty alcohol (C13+)
Trimethyl nonanol
Trimethylol propane polyethoxylated
Undecanol
Undecyl alcohol
Wine
21. PHENOLS, CRESOLS
Alkyl (C4-C9) phenols
Alkylated (C4-C9) hindered phenols
Benzyl alcohol
Carbolic oil
Creosote ¹
Creosote (coal tar)
Creosote (wood tar)
Cresols (all isomers)
Cresols with 5% or more Phenol
Cresols with less than 5% Phenol
Cresylic acid
Cresylic acid, dephenolized
Cresylic acid tar
Cresylic acid with 5% or more phenol
Dibutylphenols
Di-tert-butylphenol
2,4-Di-tert-butylphenol
2,6-Di-tert-butylphenol
2,4-Dichlorophenol
Dodecyl phenol
o-Ethyl phenol
Long-chain alkylphenate/Phenol sulfide mixture
Methylene bridged isobutylenated phenols
Nonyl phenol
Nonylphenol (48-62%)/Phenol (42-48%)/Dinonylphenol (1-10%) mixture
Octyl phenol
Phenol
Tertiary butylphenols
Xylenols
22. CAPROLACTAM SOLUTIONS
Caprolactam solution
epsilon-Caprolactam (molten or aqueous solutions)
23-29. UNASSIGNED
30. OLEFINS
Acrylic acid/ethenesulfonic acid copolymer with phosphonate groups, sodium salt solution
Amylene
tert-Amylenes
Aryl polyolefin (C11-C50)
Butadiene (all isomers)
Butadiene/Butylene mixtures (containing Acetylenes)
Butene oligomer
Butene
Butylenes (all isomers)
1,5,9-Cyclododecatriene
Cyclopentadiene/Styrene/Benzene mixture
1,3-Cyclopentadiene dimer (molten)
Cyclopentene
Decene
Dicyclopentadiene, Resin Grade, 81-89%
Dicyclopentadiene
Diisobutylene
Dipentene
Dodecene (all isomers)
Ethylene
Ethylidene norbornene ¹
Heptene (all isomers)
Hexene (all isomers)
Isoprene (all isomers)
Isoprene (part refined)
Isoprene concentrate (Shell)
Latex, ammonia (1% or less)- inhibited
d-Limonene
Methyl acetylene/Propadiene mixture
Methyl butenes
Methylcyclopentadiene dimer
4-Methyl-1-pentene
2-Methyl-1-pentene
alpha-Methylstyrene
Mixed C4 Cargoes
Myrcene
Nonene (all isomers)
1-Octadecene
Octene (all isomers)
Olefin-Alkyl ester copolymer (molecular weight 2000+)
Olefin mixture (C7-C9) C8 rich, stabilized
Olefin mixtures (C5-C7)
Olefin mixtures (C5-C15)
Olefins (C13+, all isomers)
alpha-Olefins (C6-C18) mixtures
1,3-Pentadiene
1,3-Pentadiene (greater than 50%), Cyclopentene and isomers, mixtures
Pentene (all isomers)
PIB
alpha-Pinene
beta-Pinene
Piperylene concentrate
Poly (4+) isobutylene
Polyolefin in mineral oil
Poly (5+) propylene
Propylene
Propylene-butylene copolymer
Propylene dimer
Propylene tetramer
Propylene trimer
Propylene/Propane/MAPP gas mixture
Styrene monomer
Tetradecene
Tridecene
Triisobutylene
Tripropylene
Turpentine
Undecene
1-Undecene
31. PARAFFINS
Alkanes (C10-C26), linear and branched (flash point >60 °C)
Alkanes (C6-C9)
n-Alkanes (C10+) (all isomers)
iso-& cyclo-Alkanes (C10-C11)
iso-& cyclo-Alkanes (C12+)
Butane (all isomers)
Butane/Propane mixture
Cycloheptane
Cyclohexane
Cyclopentane
Decane (all isomers)
Dodecane (all isomers)
Ethane
Ethyl cyclohexane
Ethylene-Propylene copolymer (in liquid mixtures)
Heptadecane (all isomers)
Heptane (all isomers)
Hexane ¹ (all isomers)
Hydroxy terminated polybutadiene
iso-Propyl cyclohexane
Isopropylcyclohexane
Liquefied Natural Gas
Methane
Methylcyclohexane
2-Methyl pentane
Nonane (all isomers)
Octane (all isomers)
Paraffin wax
n-Paraffins (C10-C20)
Pentane (all isomers)
Polyalpha olefins
Propane
Tridecane (all isomers)
Undecane (all isomers)
32. AROMATIC HYDROCARBONS
Alkyl acrylate-Vinyl pyridine copolymer in Toluene
Alkyl (C3-C4) benzenes
Butylbenzenes
Cumene
Propylbenzene
Alkyl (C5-C8) benzenes
Amylbenzenes
Heptylbenzenes
Hexylbenzenes
Octylbenzenes
Alkyl (C9+) benzenes
Decylbenzenes
Dodecylbenzenes
Nonylbezenes
Tetradecylbenzenes
Tetrapropylbenzenes
Tridecylbenzenes
Undecylbenzenes
Alkylbenzene mixtures (containing at least 50% of Toluene)
Alkylbenzene, Alkylindane, Alkylindene mixture (each C12-C17)
Alkyl toluene
Alkyl (C18+) toluenes
Benzene
Benzene and mixtures having 10% Benzene or more
Benzene hydrocarbon mixtures (containing Acetylenes) (having 10% Benzene or more)
Benzene/Toluene/Xylene mixtures (having 10% Benzene or more)
Butylbenzene (all isomers)
Butyl phenol, Formaldehyde resin in Xylene
Butyl toluene
C9 Resinfeed (DSM) ¹
p-Cymene
Detergent alkylate
Dialkyl (C10-C14) benzenes
Diethylbenzene
Diisopropylnaphthalene
Diisopropylbenzene (all isomers)
Dimethylbenzene
Diphenyl
Dodecyl xylene
Ethylbenzene
Ethyl toluene
Gasolines: Pyrolysis (containing Benzene)
1-Hexadecylnaphthalene/1,4-bis(Hexadecyl)naphthalene mixture
1-n-Hexadecylnaphthalene (90%)/1,4-di-n-(Hexadecyl)naphthalene (10%)
Hexylbenzenes
Isopropylbenzenes
Methyl naphthalene (molten)
Naphthalene (molten)
Naphthalene still residue
Parachlorobenzotrifluoride
1-Phenyl-1-xylyl ethane
Poly(2+)cyclic aromatics
Polyolefinamine in alkyl(C2-C4)benzenes
Polyolefinamine in aromatic solvent
Propylbenzenes (all isomers)
Pseudocumene
Pyrolysis gasoline (containing Benzene)
Tetrahydronaphthalene
Tetramethylbenzene (all isomers)
1,2,3,5-Tetramethylbenzene
Toluene
Triethylbenzene
Trimethylbenzene (all isomers)
Xylenes
Xylenes/Ethylbenzene (10% or more) mixture
33. MISCELLANEOUS HYDROCARBON MIXTURES
Alachlor technical (90% or more)
Alkylbenzene sulfonic acid, sodium salt solution
Alkyl dithiothiadiazole (C6-C24)
Alkyl (C18-C28) toluenesulfonic acid, Calcium salts, low overbase
Alkyl (C18-C28) toluenesulfonic acid, calcium salts, high overbase
Anthracene oil (Coal tar fraction)
Asphalt
Asphalt blending stocks, roofers flux
Asphalt blending stocks, straight run residue
Asphalt emulsion
Asphalt, kerosene, and other components
Aviation alkylates (C8 paraffins and iso-paraffins BPT 95-120°C)
Bio-fuel blends of Diesel/gas oil and Alkanes (C10-C26), linear and branched with a flash point >60 °C (>25% but <99% by volume)
Bio-fuel blends of Diesel/gas oil and Alkanes (C10-C26), linear and branched with a flash point ≤ 60 °C (>25% but <99% by volume)
Calcium sulfonate/Calcium carbonate/Hydrocarbon solvent mixture
Coal tar
Coal tar crude bases
Coal tar distillate
Coal tar pitch (molten)
Coal tar, high temperature
Decahydronaphthalene
Diphenyl/Diphenyl ether mixture
Distillates, flashed feed stocks
Distillates, straight run
Drilling mud (low toxicity) (if flammable or combustible)
Gas oil, cracked
Gasoline blending stock, alkylates
Gasoline blending stock, reformates
Gasolines:
Automotive (not over 4.23 grams lead per gal.)
Aviation (containing not over 4.86 grams lead per gal.)
Casinghead (natural)
Polymer
Straight run
Jet fuels:
JP-4
JP-5
JP-8
Kerosene
Mineral spirits
Naphtha:
Aromatic
Coal tar naphtha solvent
Heavy
Paraffinic
Petroleum
Solvent
Stoddard solvent
Varnish Makers' and Painters'
Oil, fuel:
No. 1
No. 1-D
No. 2
No. 2-D
No. 4
No. 5
No. 6
Oil, misc:
Aliphatic
Aromatic
Clarified
Coal
Crude
Diesel
Gas, cracked
Gas, high pour
Gas, low pour
Gas, low sulfur
Heartcut distillate
Linseed
Lubricating
Mineral
Mineral seal
Motor
Neatsfoot
Penetrating
Pine
Residual
Resin, distilled
Road
Rosin
Spindle
Transformer
Turbine
Vacuum gas oil
ORIMULSION
Oxyalkylated alkyl phenol formaldehyde
Petrolatum
Petroleum wax
Polybutene
Polyolefin (molecular weight 300+)
Polyolefin amide alkeneamine (C17+)
Polyolefin amide alkeneamine (C28+),
Polyolefin amide alkeneamine borate (C28-C250)
Polyolefin amide alkeneamine in mineral oil
Polyolefinamine (C28-C250)
Sulfohydrocarbon (C3-C88)
Sulfurized fat (C14-C20)
Sulfurized polyolefinamide alkene(C28-C250) amine
Turpentine substitute
White spirit
White spirit (low (15-20%) aromatic)
34. ESTERS
Alkane (C14-C17) sulfonic acid, sodium salt solutions
Alkylaryl phosphate mixtures (more than 40% Diphenyl tolyl phosphate, less than 0.02% ortho-isomer)
Alkyl (C8+) amine, Alkenyl (C12+) acid ester mixture
Alkyl dithiocarbamate (C19-C35)
Alkyl ester copolymer (C4-C20)
Alkyl ester copolymer in mineral oil
Alkyl phenol sulfide (C8-C40)
Alkyl (C8-C40) phenol sulfide
Alkyl phthalates
Alkyl (C10-C20), saturated and unsaturated phosphite
Alkyl (C7-C9) nitrates ¹
Alkyl sulfonic acid ester of phenol
Alkyl (C18-C28) toluenesulfonic acid, Calcium salts, borated
Amyl acid phosphate
Amyl acetate (all isomers)
Animal and Fish oils, n.o.s.
Cod liver oil
Lanolin
Neatsfoot oil
Pilchard oil
Sperm oil
Animal and Fish acid oils and distillates, n.o.s.
Animal acid oil
Fish acid oil
Lard acid oil
Mixed acid oil
Mixed general acid oil
Mixed hard acid oil
Mixed soft acid oil
Barium long-chain alkaryl (C11-C50) sulfonate
Barium long-chain alkyl (C8-C14) phenate sulfide
Benzenetricarboxylic acid, trioctyl ester
Benzyl acetate
Bio-fuel blends of Diesel/gas oil and FAME (>25% but <99% by volume)
Bio-fuel blends of Diesel/gas oil and vegetable oil (>25% but <99% by volume)
Bis (2-ethylhexyl) terephthalate
Boronated calcium sulfonate
Butyl acetate (all isomers)
Butyl benzyl phthalate
Butyl butyrate (all isomers)
n-Butyl formate
n-Butyl propionate
Butyl stearate
Calcium alkaryl sulfonate (C11-C50)
Calcium alkyl (C10-C28) salicylate
Calcium alkyl salicylate
Calcium alkyl (C9) phenol sulfide, polyolefin phosphorosulfide mixture
Calcium carbonate slurry
Calcium long-chain alkaryl sulfonate (C11-C50)
Calcium long-chain alkyl (C8-C40) phenate
Calcium long-chain alkyl (C5-C10) phenate
Calcium long-chain alkyl (C5-C20) phenate
Calcium long-chain alkyl (C11-C40) phenate
Calcium long-chain alkyl phenate sulfide (C8-C40)
Calcium long-chain alkyl (C18-C28) salicylate
Calcium long-chain alkyl salicylate (C13+)
Calcium nitrate solutions (50% or less)
Calcium nitrate/Magnesium nitrate/Potassium chloride solution
Calcium salts of fatty acids
Calcium stearate
Canola oil
Cobalt naphthenate in solvent naphtha
Copper salt of long-chain (C17+) alkanoic acid
Copper salt of long-chain (C3-C16) fatty acid
Cyclohexyl acetate
Decyl acetate
Dialkyl (C9-C10) phthalates
Dialkyl thiophosphates sodium salts solution
Dialkyl (C7-C13) phthalates
Di-(2-ethylhexyl) phthalate
Diheptyl phthalate
Dihexyl phthalate
Diisooctyl phthalate
Dioctyl phthalate
Diisodecyl phthalate
Diisononyl phthalate
Dinonyl phthalate
Ditridecyl phthalate
Diundecyl phthalate
Dibutyl hydrogen phosphonate
Dibutyl phthalate
Dibutyl terephthalate
Di-(2-ethylhexyl) adipate
Di-(2-ethylhexyl) terephthalate
Diethylene glycol dibenzoate
Diethylene glycol phthalate
Diethyl phthalate
Diethyl sulfate
Di-n-hexyl adipate
Diisobutyl phthalate
Diisononyl adipate
Dimethyl adipate
Dimethylcyclicsiloxane hydrolyzate
Dimethyl glutarate
Dimethyl hydrogen phosphite ¹
Dimethyl naphthalene sulfonic acid, sodium salt solution¹
Dimethyl phthalate
Dimethylpolysiloxane
Dimethyl succinate
Dipropylene glycol dibenzoate
Dithiocarbamate ester (C7-C35)
Ditridecyl adipate
2-Dodecenylsuccinic acid, dipotassium salt solution
2-Ethoxyethyl acetate
Ethyl acetate
Ethyl acetoacetate
Ethyl butyrate
2-Ethyl-2-(2,4-dichlorophenoxy) acetate
2-Ethyl-2-(2,4-dichlorophenoxy) propionate
S-Ethyl dipropylthiocarbamate
Ethylene carbonate
Ethylene glycol acetate
Ethylene glycol butyl ether acetate
Ethylene glycol diacetate
Ethylene glycol ethyl ether acetate
Ethylene glycol methyl ether acetate
Ethyl-3-ethoxypropionate
Ethyl hexyl phthalate
Ethyl hexyl tallate
2-Ethyl-2-(hydroxymethyl) propane-1,3-diol (C8-C10) ester
Ethyl lactate
Ethyl propionate
Fatty acid methyl esters
Fatty acids, (C8-C10)
Fatty acids, (C12+)
Fatty acids (saturated, C13+)
Fatty acids (saturated, C14+)
Fatty acids, (C16+)
Fatty acids, essentially linear (C6-C18) 2-ethylhexyl ester
Glyceryl triacetate
Glycidyl ester of C10 trialkyl acetic acid
Glycidyl ester of tertiary carboxylic acid
Glycidyl ester of tridecyl acetic acid
Glycidyl ester of Versatic acid
Glycol diacetate
Glycol triacetate
Heptyl acetate
Herbicide (C15-H22-NO2-Cl)
Hexyl acetate
Hog grease
Isobutyl formate
Isopropyl acetate
Lauric acid
Lauric acid methyl ester/Myristic acid methyl ester mixture
Lecithin
Magnesium long-chain alkaryl sulfonate (C11-C50)
Magnesium long-chain alkyl phenate sulfide (C8-C20)
Magnesium long-chain alkyl salicylate (C11+)
Magnesium nonyl phenol sulfide
Magnesium sulfonate
3-Methoxybutyl acetate
1-Methoxy-2-propyl acetate
Methyl acetate
Methyl acetoacetate
Methyl amyl acetate
Methyl butyrate
Methyl formate
3-Methyl-3-methoxybutyl acetate
Methyl salicylate
N-(2-Methoxy-1-methyl ethyl)-2-ethyl-6-methyl chloroacetanilide
Metolachlor
Naphthalene sulfonic acid, sodium salt solution
Nitrilotriacetic acid, trisodium salt solution
Nonyl acetate
Nonyl phenol sulfide (90% or less) solution
Octamethylcyclotetrasiloxane
n-Octyl acetate
Octyl decyl adipate
Octyl nitrate
Octyl phthalate
Oil, edible:
Beechnut
Castor
Cocoa butter
Coconut
Cod liver
Corn
Cotton seed
Fish
Grape seed
Groundnut
Hazelnut
Illipe
Lard
Maize
Mango kernel
Nutmeg butter
Olive
Palm
Palm kernel
Palm kernel olein
Palm kernel stearin
Palm mid fraction
Palm olein
Palm stearin
Peanut
Poppy
Poppy Seed
Raisin seed
Rapeseed
Rapeseed, (low erucic acid containing less than 4% free fatty acids)
Rice bran
Safflower
Salad
Sesame
Shea
Soyabean
Sunflower
Sunflower seed
Tucum
Vegetable
Walnut
Oil, misc:
Acid mixture from soybean, corn (maize) and sunflower oil refining
Animal
Camelina
Cashew nut shell oil (untreated)
Coconut fatty acid
Coconut, fatty acid methyl ester
Cotton seed oil, fatty acid
Lanolin
Oiticica
Palm acid
Palm fatty acid distillate
Palm oil, fatty acid methyl ester
Palm kernel acid
Palm kernel fatty acid distillate
Palm, non-edible industrial grade
Perilla
Pilchard
Rapeseed fatty acid methyl esters
Seal
Soapstock
Soyabean (epoxidized)
Soyabean fatty acid methyl ester
Tall
Tall, crude
Tall, distilled
Tall, fatty acid
Tall, fatty acid (resin acids less than 20%)
Tall pitch
Tung
n-Pentyl propionate
Phosphate esters
Poly(2-8)alkylene glycol monoalkyl(C1-C6) ether acetate
Diethylene glycol butyl ether acetate
Diethylene glycol ethyl ether acetate
Diethylene glycol methyl ether acetate
Polycarboxylic ester (C9+)
Polydimethylsiloxane
Polyferric sulfate solution
Polymerized esters
Polymethylsiloxane
Polyolefin aminoester salts (MW 2000+)
Polyolefin ester (C28-C250)
Polyolefin phosphorosulfide, barium derivative (C28-C250)
Poly(20)oxyethylene sorbitan monooleate
Polysiloxane
Polysiloxane/White spirit, low (15-20%) aromatic
Potassium formate solutions
Potassium oleate
Potassium salt of polyolefin acid
n-Propyl acetate
Propylene carbonate
Propylene glycol methyl ether acetate
Siloxanes
Sodium acetate solutions
Sodium acetate, Glycol, Water mixture (not containing Sodium hydroxide)
Sodium alkyl (C14-C17) sulfonates (60-65% solution)
Sodium aluminosilicate slurry
Sodium benzoate
Sodium bicarbonate solution (less than 10%)
Sodium dimethyl naphthalene sulfonate solution ¹
Sodium long-chain alkyl salicylate (C13+)
Sodium naphthalene sulfonate solution
Sodium petroleum sulfonate
Sodium sulfate solution
Stearic acid
Tallow
Tallow fatty acid
Triarylphosphate
Tributyl phosphate
Tricresyl phosphate (containing 1% or more ortho-isomer)
Tricresyl phosphate (containing less than 1% ortho-isomer)
Tridecanoic acid
Tridecyl acetate
Triethylene glycol di-(2-ethylbutyrate)
Triethylene glycol dibenzoate
Triethyl phosphate
Triethyl phosphite ¹
Triisooctyl trimellitate ¹
Triisopropylated phenyl phosphates
Trimethyl phosphite ¹
2,2,4-Trimethyl-1,3-pentanediol diisobutyrate
2,2,4-Trimethyl-1,3-pentanediol-1-isobutyrate
2,2,4-Trimethyl-3-pentanol-1-isobutyrate
Trisodium nitrilotriacetate solution
Trixylyl phosphate
Trixylenyl phosphate
Vegetable acid oils, n.o.s.
Corn acid oil
Cottonseed acid oil
Dark mixed acid oil
Groundnut acid oil
Mixed acid oil
Mixed general acid oil
Mixed hard acid oil
Mixed soft acid oil
Rapeseed acid oil
Safflower acid oil
Soya acid oil
Sunflower seed acid oil
Vegetable fatty acid distillates, n.o.s.
Palm kernel fatty acid distillate
Palm oil fatty acid distillate
Tall fatty acid distillate
Tall oil fatty acid distillate
Vegetable oils, n.o.s.
Beechnut oil
Camelina oil
Cashew nut shell
Castor oil
Cocoa butter
Coconut oil
Corn oil
Cotton seed oil
Croton oil
Grape seed oil
Groundnut oil
Hazelnut oil
Illipe oil
Linseed oil
Mango kernel oil
Nutmeg butter
Oiticica oil
Olive oil
Palm kernel oil
Palm kernel olein
Palm kernel stearin
Palm mid fraction
Palm, non-edible industrial grade
Palm oil
Palm olein
Palm stearin
Peanut oil
Peel oil (oranges and lemons)
Perilla oil
Pine oil
Poppy seed oil
Poppy oil
Raisin seed oil
Rapeseed oil
Rapeseed (low erucic acid containing less than 4% free fatty acids)
Rice bran oil
Rosin oil
Safflower oil
Salad oil
Sesame oil
Shea butter
Soyabean oil
Sunflower seed oil
Tall
Tall, crude
Tall, distilled
Tall, pitch
Tucum oil
Tung oil
Walnut oil
Waxes:
Candelilla
Carnauba
Zinc alkaryl dithiophosphate (C7-C16)
Zinc alkyl dithiophosphate (C3-C14)
35. VINYL HALIDES
Vinyl chloride
Vinylidene chloride
36. HALOGENATED HYDROCARBONS
Benzyl chloride
Bromochloromethane
Carbon tetrachloride ¹
Catoxid feedstock ¹
Chlorinated paraffins (C10-C13)
Chlorinated paraffins (C14-C17) (with 50% Chlorine or more, and less than 1% C13 or shorter chains)
Chlorinated paraffins (C14-C17) (with 52% Chlorine)
Chlorinated paraffins (C18+) with any level of chlorine
Chlorobenzene
Chlorodifluoromethane
Chloroform
m-Chlorotoluene
o-Chlorotoluene
p-Chlorotoluene
Chlorotoluenes (mixed isomers)
Dibromomethane
Dichlorobenzene (all isomers)
3,4-Dichloro-1-butene
Dichlorodifluoromethane
1,1-Dichloroethane
1,6-Dichlorohexane
Dichloromethane
Dichloropropane
1,1-Dichloropropane
1,2-Dichloropropane
1,3-Dichloropropane
Ethyl chloride
Ethylene dibromide
Ethylene dichloride ¹
Methyl bromide
Methyl chloride
Methylene chloride
Monochlorodifluoromethane
Pentachloroethane
Perchloroethylene
n-Propyl chloride
Sym-trichlorobenzene
Tetrachloroethane
1,1,2,2-Tetrachloroethane
1,2,3-Trichlorobenzene (molten)
1,2,4-Trichlorobenzene
1,2,3-Trichlorobenzol
1,1,1-Trichloroethane ¹
1,1,2-Trichloroethane
Trichloroethylene ¹
1,1,2-Trichloro-1,2,2-trifluoroethane
1,2,3-Trichloropropane
37. NITRILES
Acetonitrile
Acetonitrile (low purity grade)
Adiponitrile
Lactonitrile solution (80% or less)
2-Methylglutaronitrile
2-Methylglutaronitrile with 2-Ethylsuccinonitrile (12% or less)
Propionitrile
Tallow alkyl nitrile
38. CARBON DISULFIDE
Carbon disulfide
39. SULFOLANE
Sulfolane
40. GLYCOL ETHERS
Alkyl (C7-C11) phenol poly (4-12) ethoxylates
Alkyl (C9-C15) phenyl propoxylate
Diethylene glycol ¹
Diethylene glycol dibutyl ether
Diethylene glycol diethyl ether
Diethylene glycol phenyl ether
Dipropylene glycol
Ethoxy triglycol
2-Ethoxyethanol
Ethoxy triglycol (crude)
Ethylene glycol dibutyl ether
Ethylene glycol n-propyl ether
Ethylene glycol monoalkyl ethers
Ethylene glycol butyl ether
Ethylene glycol ethyl ether
Ethylene glycol isobutyl ether
Ethylene glycol methyl butyl ether
Ethylene glycol tert-butyl ether
Ethylene glycol hexyl ether
Ethylene glycol methyl ether
Ethylene glycol propyl ether
Ethylene glycol isopropyl ether
Ethylene glycol phenyl ether
Ethylene glycol phenyl ether/Diethylene glycol phenyl ether mixture
Glucitol/Glycerol blend propoxylated (containing less than 10% amines)
Glycerol ethoxylated
Glycerol polyalkoxylate
Glycerol propoxylated
Glycerol, propoxylated and ethoxylated
Glycerol/Sucrose blend propoxylated and ethoxylated
alpha-Hydro-omega-hydroxytetradeca (oxytetramethylene)
Methoxy triglycol
Nonyl phenol poly(4+)ethoxylate
Pentaethylene glycol methyl ether
Polyalkylene glycols/Polyalkylene glycol monoalkyl ethers mixtures
Poly(2-8)alkylene glycol monoalkyl(C1-C6) ether
Diethylene glycol butyl ether
Diethylene glycol ethyl ether
Diethylene glycol n-hexyl ether
Diethylene glycol propyl ether
Diethylene glycol methyl ether
Dipropylene glycol butyl ether
Dipropylene glycol methyl ether
Polyalkylene glycol butyl ether
Polyethylene glycol monoalkyl ether
Polypropylene glycol methyl ether
Tetraethylene glycol methyl ether
Triethylene glycol butyl ether
Triethylene glycol ethyl ether
Triethylene glycol methyl ether
Tripropylene glycol methyl ether
Polyethylene glycol
Polyethylene glycol dimethyl ether
Poly (ethylene glycol) methylbutenyl ether (MW > 1000)
Polypropylene glycol
Poly(tetramethylene ether) glycols (mw 950-1050)
Polytetramethylene ether glycol
Propylene glycol monoalkyl ether
n-Propoxypropanol
Propylene glycol n-butyl ether
Propylene glycol ethyl ether
Propylene glycol methyl ether
Propylene glycol propyl ether
Propylene glycol phenyl ether
Tetraethylene glycol
Triethylene glycol
Triethylene glycol butyl ether mixture
Triethylene glycol ether mixture
Tripropylene glycol
41. ETHERS
Alcohol (C12-C13, branched and linear) poly (4-8) propoxy sulfates, sodium salt 25-30% solution
Alkaryl polyether (C9-C20)
tert-Amyl methyl ether
n-Butyl ether
Dichloroethyl ether
2,2′-Dichloroisopropyl ether
Diethyl ether
Dimethyl ether
Dimethyl furan
1,4-Dioxane
Diphenyl ether
Diphenyl ether/Biphenyl ether mixture
Diphenyl ether/Diphenyl phenyl ether mixture
Diphenyl oxide
ETBE
Ethyl tert-butyl ether ¹
Ethyl ether
Isopropyl ether
Long-chain alkaryl polyether (C11-C20)
Methyl tert-butyl ether ¹
Methyl tert-pentyl ether
MTBE
Polyether, borated
Polyether (molecular weight 1350+)
Polyether polyols
Poly (oxyalkylene) alkenyl ether (MW>1000)
Polyoxybutylene alcohol
Propyl ether
TAME
Tetrahydrofuran
1,3,5-Trioxane
42. NITROCOMPOUNDS
o-Chloronitrobenzene
Dinitrotoluene (molten)
Nitrobenzene
o-Nitrochlorobenzene
Nitroethane
Nitroethane(80%)/Nitropropane (20%)
Nitroethane/1-Nitropropane (each 15% or more) mixture
Nitrophenol (mixed isomers)
Nitropropane (60%)/Nitroethane (40%) mixture
1-or 2-Nitropropane
o- or p-Nitrotoluenes
43. MISCELLANEOUS WATER SOLUTIONS
Alkyl polyglucoside solution
Alkyl (C8-C10) polyglucoside solution (65% or less)
Alkyl (C8-C10)/(C12-C14):(40% or less/60% or more) polyglucoside solution (55% or less)
Alkyl (C8-C10)/(C12-C14):(50%/50%) polyglucoside solution (55% or less)
Alkyl (C8-C10)/(C12-C14):(60% or more/40% or less) polyglucoside solution (55% or less)
Alkyl (C12-C14) polyglucoside solution (55% or less)
Aluminum sulfate solution ¹
2-Amino-2-hydroxymethyl-1,3-propanediol solution
Ammonium bisulfite solution (70% or less) ¹
Ammonium chloride solution (less than 25%)
Ammonium lignosulfonate solution
Ammonium nitrate/Urea solution (not containing Ammonia)
Ammonium phosphate/Urea solution
Ammonium polyphosphate solution
Ammonium sulfate solution
Ammonium sulfate solution (20% or less)
Ammonium thiosulfate solution (60% or less)
Apple juice
Calcium bromide/Zinc bromide solution
Calcium chloride solution
Calcium lignosulfonate solutions
Caramel solutions
Cesium formate solution
Clay slurry
Coal slurry
Corn syrup
Dextrose solution
2,4-Dichlorophenoxyacetic acid, Diethanolamine salt solution
2,4-Dichlorophenoxyacetic acid, Triisopropanolamine salt solution¹
Diethanolamine salt of 2,4-Dichlorophenoxyacetic acid solution
Diethylenetriamine pentaacetic acid, pentasodium salt solution
Dodecyl diphenyl ether disulfonate solution
Drilling brines (containing Calcium, Potassium or Sodium salts)
Drilling brines (containing Zinc salts)
Drilling brines, including: Calcium bromide solution, Calcium chloride solution and Sodium chloride solution
Drilling mud (low toxicity) (if non-flammable or non-combustible)
Ethylenediaminetetraacetic acid/tetrasodium salt solution
Ethylene-Vinyl acetate copolymer (emulsion)
Ferric hydroxyethylethylenediaminetriacetic acid, trisodium salt solution ¹
Fish solubles (water based fish meal extracts)
Fructose solution
Fumaric adduct of Rosin, water dispersion
Glucose solution
Hexamethylenediamine adipate (50% in water)
Hexamethylenediamine adipate solution
N-(Hydroxyethyl)ethylenediamine triacetic acid, trisodium salt solution
Kaolin clay solution
Kaolin slurry
Latex, liquid synthetic
Latex: Carboxylated Styrene-Butadiene copolymer; Styrene-Butadiene rubber
Lauryl polyglucose (50% or less)
Lauryl polyglucose
Lignin liquor
Ligninsulfonic acid, magnesium salt solution
Ligninsulfonic acid, sodium salt solution
Liquid Streptomyces solubles
L-Lysine solution (60% or less)
Magnesium nitrate solution (66.7%)
N-Methylglucamine solution (70% or less)
Microsilica slurry
Milk
Naphthenic acid, sodium salt solution
Pentasodium salt of Diethylenetriamine pentaacetic acid solution
Phenol solutions (2% or less)
Polyacrylic acid solution (40% or less)
Potassium chloride solution
Potassium chloride solution (10% or more)
Potassium chloride solution (less than 26%)
Potassium thiosulfate (50% or less)
Rosin soap (disproportionated) solution
Sewage sludge
Silica slurry
Sludge, treated
Sodium bromide solution (less than 50%)
Sodium hydrogen sulfite solution (45% or less)
Sodium lignosulfonate solution
Sodium naphthenate solution
Sodium poly(4+)acrylate solution
Sodium polyacrylate solution ¹
Sodium salt of Ferric hydroxyethylethylenediaminetriacetic acid solution
Sodium silicate solution ¹
Sodium sulfide solution (15% or less)
Sodium sulfite solution (25% or less)
Sodium tartrates/Sodium succinates solution
Sulfonated polyacrylate solution ¹
Tall oil soap (disproportionated) solution
Tetrasodium salt of ethylenediaminetetraacetic acid solution
Titanium dioxide slurry
Triisopropanolamine salt of 2,4-Dichlorophenoxyacetic acid solution,
Trisodium salt of N-(Hydroxyethyl)ethylenediaminetriacetic acid solution
Urea solution
Urea/Ammonium phosphate solution
Urea/Ammonium nitrate solution (containing less than 1% free Ammonia)
Vegetable protein solution (hydrolyzed)
Water
Zinc bromide/Calcium bromide solution
Note:
1. See Appendix I to 46 CFR part 150 (Exceptions to the Chart).

6. Revise Appendix I to part 150, as amended by the interim rule published on August 16, 2013 (78 FR 50148), effective January 16, 2017, as delayed at 79 FR 68132, November 14, 2014, to read as follows:

Appendix I to Part 150—Exceptions to the Chart

(a) The binary combinations listed below have been tested as prescribed in Appendix III to part 150 and found not to be dangerously reactive. These combinations are exceptions to Figure 1 of part 150 (Compatibility Chart) and may be stowed in adjacent tanks.

Member of reactive group | Compatible with
Acetone (18) | Diethylenetriamine (7).
Acetone cyanohydrin (0) | Acetic acid (4).
| Acrylates (14).
| Alcohols, Gylcols (20).
| Aldehydes (19).
| Aromatic Hydrocarbon Mixtures (32).
| Carbon Disulfide (38).
| Esters (34).
| Ethers (41).
| Glycol Ethers (40).
| Halogenated Hydrocarbons (36).
| Ketones (18).
| Misc. Hydrocarbon Mixtures (33).
| Nitriles (37).
| Nitrocompounds (42).
| Olefins (30).
| Paraffins (31).
| Phenols, Cresols (21).
| Substituted Allyls (15).
| Sulfolane (39).
| Vinyl Acetate (13).
| Vinyl Halides (35).
Acrylonitrile (15) | Triethanolamine (8).
1,3-Butylene glycol (20) | Morpholine (7).
1,4-Butylene glycol (20) | Ethylamine (7).
| Triethanolamine (8).
gamma-Butyrolactone (0) | N-Methyl-2-pyrrolidone (9).
Caustic potash, 50% or less (5) | Bio-fuel blends of Gasoline and Ethyl alcohol (>25% but <99% by volume) (20).
| Isobutyl alcohol (20).
| Ethyl alcohol (20).
| n-Butyl alcohol (20).
| Ethylene glycol (20).
| Isopropyl alcohol (20).
| Methyl alcohol (20).
| iso-Octyl alcohol (20).
| Propylene glycol (20).
Caustic soda, 50% or less (5) | Acrylonitrile/Styrene copolymer dispersion in Polyether polyol (20).
| Bio-fuel blends of Gasoline and Ethyl alcohol (>25% but <99% by volume) (20).
| iso-Butyl alcohol (20).
| Butyl alcohol (20).
| tert-Butyl alcohol, Methanol mixtures.
| Decyl alcohol (20).
| Cetyl alcohol (20).
| Alcohol (C12-C16) poly(1-6)ethoxylates) (20).
| iso-Decyl alcohol (20).
| Diacetone alcohol (20).
| Diethylene glycol (40).
| Dodecyl alcohol (20).
| Ethyl alcohol (20).
| Ethyl alcohol (40%, whiskey) (20).
| Ethylene glycol (20).
| Ethylene glycol, Diethylene glycol mixture (20).
| Ethyl hexanol (Octyl alcohol) (20).
| Methyl alcohol (20).
| Nonyl alcohol (20).
| iso-Nonyl alcohol (20).
| Propyl alcohol (20).
| iso-Propyl alcohol (20).
| Propylene glycol (20).
| Sodium chlorate solution (0).
| iso-Tridecanol (20).
Dimethyl disulfide (0) | Acrylates (14).
| Alcohols, Glycols (20).
| Esters (34).
| Halogenated Hydrocarbons (36).
| Ketones (18).
| Methyl tert-butyl ether (41).
| Aromatic Hydrocarbon Mixtures (32).
| Olefins (30).
| Organic Acids (4).
| Organic Anhydrides (11).
| Paraffins (31).
| Phenols, Cresols (21).
Diphenylmethane diisocyanate (12) | 2,2-Dimethylpropane-1,3-diol (20).
| Polypropylene glycol (40).
tert-Dodecanethiol (0) | Acetone (18).
| Acrylonitrile (15).
| n-Butyl acrylate (14).
| Caustic soda solution (50%) (5).
| Chloroform (36).
| iso-Decyl alcohol (20).
| Diglycidyl ether of Bisphenol A (16).
| Dichloromethane (36).
| Diisodecyl phthalate (34).
| Dipropylene glycol (40).
| Epichlorohydrin (17).
| Ethyl acrylate (14).
| Ethylene glycol monoalkyl ethers (40).
| Methanol (20).
| Methyl ethyl ketone (18).
| Methyl isobutyl ketone (18).
| Naphtha, Solvent (33).
| iso-Nonyl alcohol (20).
| Perchloroethylene (36).
| Poly(2-8)alkylene glycol monoalkyl(C1-C6) ether (40).
| iso-Propyl alcohol (20).
| iso-Propylamine solution (70%) (7).
| Propylene glycol methyl ether (40).
| Propylene glycol methyl ether acetate (34).
| Tall oil, crude (34).
| Tall oil fatty acid (resin acids less than 20%) (34).
| Toluene (32).
| Toluene diisocyanate (TDI) (12).
| White mineral oil (Carnation oil) (33).
Dodecyl and Tetradecylamine mixture (7) | Tall oil, fatty acid (34).
Ethylenediamine (7) | Bio-fuel blends of Gasoline and Ethyl alcohol (>25% but <99% by volume) (20).
| Butyl alcohol (20).
| tert-Butyl alcohol (20).
| Butylene glycol (20).
| Creosote (21).
| Diethylene glycol (40).
| Ethyl alcohol (20).
| Ethylene glycol (20).
| Ethyl hexanol (20).
| Fatty alcohols (C12-C14).
| Glycerine (20).
| Isononyl alcohol (20).
| Isophorone (18).
| Methyl butyl ketone (18).
| Methyl iso-butyl ketone (18).
| Methyl ethyl ketone (18).
| Propyl alcohol (20).
| Propylene glycol (20).
Lactic acid (0) | Acetic acid (4).
| Benzene (32).
| Ethanol (20).
| Polypropylene glycol (40).
| Vinyl acetate (13).
Oleum (0) | Hexane (31).
| Dichloromethane (36).
| Perchloroethylene (36).
1,2-Propylene glycol (20) | Diethylenetriamine (7).
| Polyethylene polyamines (7).
| Triethylenetetramine (7).
Sodium cresylate as Cresylate spent caustic (5) | Methyl alcohol (20).
Sodium dichromate solution (70% or less) (0) | Acetone (18).
| n-Butyl alcohol (20).
| Ethyl Acetate (34).
| 1-Hexene (30).
| Methyl alcohol (20).
| Octene (all isomers) (30).
| Phosphoric Acid (1).
Sodium hydrogen sulfide solution (5) | iso-Propyl alcohol (20).
Sodium hydrosulfide solution (5) | Methyl alcohol (20).
| Iso-Propyl alcohol (20).
Sodium Methylate 21-30% in methanol (0) | 1,2-Dichloropropane (36).
| Chlorobenzene (36).
| Cyclohexanone (18).
| Cyclohexanone, Cyclohexanol mixtures (18).
| Diethanolamine (8).
| Diisononyl phthalate (34).
| Dimethylformamide (10).
| Ethyl alcohol (20).
| Ethylene glycol (20).
| Furfuryl alcohol (20).
| Heptene (all isomers) (30).
| Isobutyl alcohol (20).
| Isopropyl alcohol (20).
| Lubricating oil (33).
| Methyl ethyl ketone (18).
| Nonene (all isomers) (30).
| Nonyl alcohol (all isomers) (20).
| Octene (all isomers) (30).
| o-Toluidine (9).
| Perchloroethylene (36).
| Polyisobutenamine in aliphatic (C10-C14) solvent (7).
| Xylene (32).
Sulfuric acid (2) | Coconut oil (34).
| Coconut oil acid (34).
| Palm oil (34).
| Soyabean oil (34).
| Tallow (34).
Sulfuric acid, 98% or less (2) | Choice white grease tallow (34).
Urea/Ammonium Nitrate solution (containing less than 1% free Ammonia) (43) | Magnesium chloride solutions (0).

(b) The binary combinations listed below have been determined to be dangerously reactive, based on either data obtained in the literature or on laboratory testing which has been carried out in accordance with procedures prescribed in Appendix III. These combinations are exceptions to the Compatibility Chart (Figure 1) and may not be stowed in adjacent tanks.

Acetone cyanohydrin (0) is not compatible with Groups 1-12, 16, 17 and 22.

Acrolein (19) is not compatible with Group 1, Non-Oxidizing Mineral Acids.

Acrylic acid (4) is not compatible with Group 9, Aromatic Amines.

Acrylonitrile (15) is not compatible with Group 5, Caustics.

Alkylbenzene sulfonic acid (less than 4%) (0) is not compatible with Groups 1-3, 5-9, 15, 16, 18, 19, 30, 34, 37, and strong oxidizers.

Allyl alcohol (15) is not compatible with Group 12, Isocyanates.

Alkyl (C7-C9) nitrates (34) is not compatible with Group 1, Non-oxidizing Mineral Acids.

Aluminum sulfate solution (43) is not compatible with Groups 5-11.

Ammonium bisulfite solution (70% or less) (43) is not compatible with Groups 1, 3, 4, and 5.

Benzenesulfonyl chloride (0) is not compatible with Groups 5-7, and 43.

1, 4-Butylene glycol (20) is not compatible with Caustic soda solution, 50% or less (5).

gamma-Butyrolactone (0) is not compatible with Groups 1-9.

C9 Resinfeed (DSM) (32) is not compatible with Group 2, Sulfuric acid.

Carbon tetrachloride (36) is not compatible with Tetraethylenepentamine or Triethylenetetramine, both Group 7, Aliphatic amines.

Catoxid feedstock (36) is not compatible with Group 1, 2, 3, 4, 5, or 12.

Caustic soda solution, 50% or less (5) is not compatible with 1, 4-Butylene glycol (20).

1-(4-Chlorophenyl)-4, 4-dimethyl pentan-3-one (18) is not compatible with Group 5 (Caustics) or 10 (Amides).

Crotonaldehyde (19) is not compatible with Group 1, Non-Oxidizing Mineral Acids.

Cyclohexanone/Cyclohexanol mixture (18) is not compatible with Group 12, Isocyanates.

2, 4-Dichlorophenoxyacetic acid, Triisopropanolamine salt solution (43) is not compatible with Group 3, Nitric Acid.

2, 4-Dichlorophenoxyacetic acid, Dimethylamine salt solution (0) is not compatible with Groups 1-5, 11, 12, and 16.

Diethylenetriamine (7) is not compatible with 1, 2, 3-Trichloropropane, Group 36, Halogenated hydrocarbons.

Dimethyl hydrogen phosphite (34) is not compatible with Groups 1 and 4.

Dimethyl naphthalene sulfonic acid, sodium salt solution (34) is not compatible with Group 12, Formaldehyde, and strong oxidizing agents.

Dodecylbenzenesulfonic acid (0) is not compatible with oxidizing agents and Groups 1, 2, 3, 5, 6, 7, 8, 9, 15, 16, 18, 19, 30, 34, and 37.

Ethylenediamine (7) and Ethyleneamine EA 1302 (7) are not compatible with either Ethylene dichloride (36) or 1, 2, 3-Trichloropropane (36).

Ethylene dichloride (36) is not compatible with Ethylenediamine (7) or Ethyleneamine EA 1302 (7).

Ethylidene norbornene (30) is not compatible with Groups 1-3 and 5-8.

2-Ethyl-3-propylacrolein (19) is not compatible with Group 1, Non-Oxidizing Mineral Acids.

Ethyl tert-butyl ether (41) is not compatible with Group 1, Non-oxidizing mineral acids.

Fatty acids, essentially linear (C6-C18) 2-ethylhexyl ester (34) is not compatible with Group 3, Nitric acid.

Ferric hydroxyethylethylenediamine triacetic acid, Triodium salt solution (43) is not compatible with Group 3, Nitric acid.

Fish oil (34) is not compatible with Sulfuric acid (2).

Formaldehyde (over 50%) in Methyl alcohol (over 30%) (19) is not compatible with Group 12, Isocyanates.

Formic acid (4) is not compatible with Furfuryl alcohol (20).

Furfuryl alcohol (20) is not compatible with Group 1, Non-Oxidizing Mineral Acids and Formic acid (4).

1,6-Hexanediol distillation overheads (4) is not compatible with Group 3, Nitric acid, and Group 9, Aromatic amines.

2-Hydroxyethyl acrylate (14) is not compatible with Group 5, 6, or 12.

Isophorone (18) is not compatible with Group 8, Alkanolamines.

Lactic acid (0) is not compatible with Caustic soda solution.

Magnesium chloride solution (0) is not compatible with Groups 2, 3, 5, 6 and 12.

Mesityl oxide (18) is not compatible with Group 8, Alkanolamines.

Methacrylonitrile (15) is not compatible with Group 5 (Caustics).

Methyl tert-butyl ether (41) is not compatible with Group 1, Non-oxidizing Mineral Acids.

Nitroethane, 1-Nitropropane (each 15% or more) mixture (42) is not compatible with Group 7, Aliphatic amines, Group 8, Alkanol amines, and Group 9, Aromatic amines.

Nitropropane (20%), nitroethane (80%) mixture (42) is not compatible with Group 7 (Aliphatic amines), Group 8 (Alkanol amines), and Group 9 (Aromatic amines).

NIAX POLYOL APP 240C (0) is not compatible with Groups 2, 3, 5, 7, or 12.

o-Nitrophenol (0) is not compatible with Groups 2, 3, and 5-10.

Oleum (0) is not compatible with Sulfuric acid (2) and 1, 1, 1-Trichloroethane (36).

Phthalate based polyester polyol (0) is not compatible with Groups 2, 3, 5, 7 and 12.

Polyglycerine, Sodium salts solution (20) is not compatible with Groups 1, 4, 11, 16, 17, 19, 21 and 22.

Propylene, Propane, MAPP gas mixture (containing 12% or less MAPP gas) (30) is not compatible with Group 1 (Non-oxidizing mineral acids), Group 36 (Halogenated hydrocarbons), nitrogen dioxide, oxidizing materials, or molten sulfur.

Sodium acetate, Glycol, Water mixture (1% or less Sodium hydroxide) (5) is not compatible with Group 12 (Isocyanates).

Sodium chlorate solution (50% or less) (0) is not compatible with Groups 1-3, 5, 7, 8, 10, 12, 13, 17 and 20.

Sodium dichromate solution (70% or less) (0) is not compatible with Groups 1-3, 5, 7, 8, 10, 12, 13, 17 and 20.

Sodium dimethyl naphthalene sulfonate solution (34) is not compatible with Group 12, Formaldehyde and strong oxidizing agents.

Sodium hydrogen sulfide (6% or less)/Sodium carbonate solution (3% or less) (0) is not compatible with Groups 6 (Ammonia) and 7 (Aliphatic amines).

Sodium hydrosulfide solution (45% or less) (5) is not compatible with Groups 6 (Ammonia) and 7 (Aliphatic amines).

Sodium hydrosulfide, Ammonium sulfide solution (5) is not compatible with Groups 6 (Ammonia) and 7 (Aliphatic amines).

Sodium polyacrylate solution (43) is not compatible with Group 3, Nitric Acid.

Sodium silicate solution (43) is not compatible with Group 3, Nitric Acid.

Sodium sulfide, hydrosulfide solution (0) is not compatible with Groups 6 (Ammonia) and 7 (Aliphatic amines).

Sodium thiocyanate (56% or less) (0) is not compatible with Groups 1-4.

Sulfonated polyacrylate solution (43) is not compatible with Group 5 (Caustics).

Sulfuric acid (2) is not compatible with Fish oil (34), or Oleum (0).

Tall oil fatty acid (Resin acids less than 20%) (34) is not compatible with Group 5, Caustics.

Tallow fatty acid (34) is not compatible with Group 5, Caustics.

Tetraethylenepentamine (7) is not compatible with Carbon tetrachloride, Group 36, Halogenated hydrocarbons.

1, 2, 3-Trichloropropane (36) is not compatible with Diethylenetriamine, Ethylenediamine, Ethyleaneamine EA 1302, or Triethylenetetramine, all Group 7, Aliphatic amines.

1, 1, 1-Trichloroethane (36) is not compatible with Oleum (0).

Trichloroethylene (36) is not compatible with Group 5, Caustics.

Triethylenetetramine (7) is not compatible with Carbon tetrachloride, or 1, 2, 3-Trichloropropane, both Group 36, Halogenated hydrocarbons.

Triethyl phosphite (34) is not compatible with Group 1 (non-oxidizing mineral acids) and Group 4 (Organic acids).

Trimethyl phosphite (34) is not compatible with Group 1 (non-oxidizing mineral acids) and Group 4 (Organic acids).

1, 3, 5-Trioxane (41) is not compatible with Group 1 (non-oxidizing mineral acids) and Group 4 (Organic acids).

Vinyl neodecanoate (13) is not compatible with Group 5, Caustics.

PART 153—SHIPS CARRYING BULK LIQUID, LIQUEFIED GAS, OR COMPRESSED GAS HAZARDOUS MATERIALS

7. Revise the authority citation for part 153 to read as follows:

Authority: 46 U.S.C. 2103, 3703; Department of Homeland Security Delegation No. 0170.1, para. II (92.a), (92.b). Section 153.40 issued under 49 U.S.C. 5103. Sections 153.470 through 153.491, 153.1100 through 153.1132, and 153.1600 through 153.1608 also issued under 33 U.S.C. 1903 (b).

8. Revise Table 2 to part 153, as amended by the interim rule published on August 16, 2013 (78 FR 50148), effective January 16, 2017, as delayed at 79 FR 68132, November 14, 2014, to read as follows:

The cargoes listed in this table are not regulated under subchapter D or O of this title when carried in bulk on non-oceangoing barges. Category X, Y, or Z noxious liquid substance (NLS) cargo, as defined in Annex II of MARPOL 73/78, listed in this table, or any mixture containing one or more of these cargoes, must be carried under this subchapter if carried in bulk on an oceangoing ship.

Table 2 to Part 153—Cargoes Not Regulated Under Subchapters D or O of This Chapter When Carried in Bulk on Non-Oceangoing Barges
Cargoes | Pollution category
Acrylic acid/ethenesulfonic acid copolymer with phosphonate groups, sodium salt solution | Z.
Aluminum sulfate solution | Y.
2-Amino-2-hydroxymethyl-1,3-propanediol solution | #.
Ammonium hydrogen phosphate solution | Z.
Ammonium lignosulfonate solutions, see also Lignin liquor | Z.
Ammonium nitrate solution (45% or less) | #.
Ammonium phosphate, urea solution, see also Urea, Ammonium phosphate solution | #.
Ammonium polyphosphate solution | Z.
Ammonium sulfate solution | Z.
Ammonium thiosulfate solution (60% or less) | Z.
Apple juice | OS.
Calcium bromide solution | Z.
Calcium carbonate slurry | OS.
Calcium chloride solution | Z.
Calcium hydroxide slurry | Z.
Calcium lignosulfonate solution, see also Lignin liquor | Z.
Calcium nitrate solutions (50% or less) | Z.
Calcium nitrate/Magnesium nitrate/Potassium chloride solution | Z.
Caramel solutions | #.
Chlorinated paraffins (C14-C17) (with 50% Chlorine or more, and less than 1% C13 or shorter chains) | X.
Chlorinated paraffins (C14-C17) (with 52% Chlorine) | #.
2-Chloro-4-ethylamino-6-isopropylamino-5-triazine solution | #.
4-Chloro-2-methylphenoxyacetic acid, dimethylamine salt solution | Y.
Choline chloride solutions | Z.
Clay slurry | OS.
Coal slurry | OS.
Dextrose solution, see Glucose solution |
Diethylenetriamine pentaacetic acid, pentasodium salt solution | Z.
1,4-Dihydro-9,10-dihydroxy anthracene, disodium salt solution | #.
Dodecenylsuccinic acid, dipotassium salt solution | #.
Drilling brine (containing Calcium, Potassium, or Sodium salts) (see also Potassium chloride solution (10% or more)) | #.
Drilling brines, including: Calcium bromide solution, Calcium chloride solution and Sodium chloride solution (if non-flammable and non-combustible) | Z.
Drilling brines (containing Zinc salts) | X.
Drilling mud (low toxicity) (if non-flammable and non-combustible) | #
Ethylene-Vinyl acetate copolymer (emulsion) | Y.
Ferric hydroxyethylethylenediamine triacetic acid, trisodium salt solution | #.
Fish solubles (water based fish meal extracts) | #.
Fructose solution | #.
Glucose solution | OS.
Glycine, Sodium salt solution | Z.
Glyphosate solution (not containing surfactant) | Y.
Hexamethylenediamine adipate solution | #.
Hexamethylenediamine adipate (50% in water) | Z.
N-(Hydroxyethyl)ethylenediamine triacetic acid, trisodium salt solution | Y.
Kaolin clay solution | #.
Kaolin slurry | OS.
Kraft pulping liquor (free alkali content, 1% or less) including: Black, Green, or White liquor | #.
Lignin liquor (free alkali content, 1% or less) | Z.
including: |
Ammonium lignosulfonate solutions | Z.
Calcium lignosulfonate solutions | Z.
Sodium lignosulfonate solution | Z.
Ligninsulfonic acid, Sodium salt solution | Z.
Magnesium chloride solution | Z.
Magnesium hydroxide slurry | Z.
Magnesium sulfonate solution | #.
Maltitol solution | OS.
Microsillica slurry | OS.
Milk | #.
Molasses | OS.
Molasses residue (from fermentation) | #.
Naphthalenesulfonic acid-Formaldehyde copolymer, sodium salt solution | Z.
Naphthenic acid, sodium salt solution | #.
Nitrilotriacetic acid, trisodium salt solution | Y.
Noxious liquid, NF, (1) n.o.s. (“trade name” contains “principle components”) ST 1, Cat X (if non-flammable and non-combustible) | X.
Noxious liquid, NF, (3) n.o.s. (“trade name” contains “principle components”) ST 2, Cat X (if non-flammable and non-combustible) | X.
Noxious liquid, NF, (5) n.o.s. (“trade name” contains “principle components”) ST 2, Cat Y (if non-flammable and non-combustible) | Y.
Noxious liquid, NF, (7) n.o.s. (“trade name” contains “principle components”) ST 3, Cat Y (if non-flammable and non-combustible) | Y.
Noxious liquid, NF, (9) n.o.s. (“trade name” contains “principle components”) ST 3, Cat Z (if non-flammable and non-combustible) | Z.
Noxious liquid, NF, (11) n.o.s. (“trade name” contains “principle components”) Cat Z (if non-flammable and non-combustible) | Z.
Noxious liquid, NF, (12) n.o.s. (“trade name” contains “principle components”) Cat OS (if non-flammable and non-combustible) | OS.
Orange juice (concentrated) | OS.
Orange juice (not concentrated) | OS.
Pentasodium salt of Diethylenetriamine pentaacetic acid solution, see Diethylenetriamine pentaacetic acid, pentasodium salt solution |
Polyaluminum chloride solution | Z.
Potassium chloride solution (26% or more), see Drilling brines, including: Calcium bromide solution, Calcium chloride solution and Sodium chloride solution |
Potassium chloride solution (less than 26%) | OS.
Potassium formate solutions | Z.
Potassium thiosulfate (50% or less) | Y.
Sewage sludge, treated (treated so as to pose no additional decompositional and fire hazard; stable, non-corrosive, non-toxic, non-flammable) | #.
Silica slurry | #.
Sludge, treated (treated so as to pose no additional decompositional and fire hazard; stable, non-corrosive, non-toxic, non-flammable) | #.
Sodium acetate, Glycol, Water mixture (containing 1% or less Sodium hydroxide) (if non-flammable or non-combustible) | #.
Sodium acetate solutions | Z.
Sodium alkyl (C14-C17) sulfonates (60-65% solution) | Y.
Sodium aluminosilicate slurry | Z.
Sodium bicarbonate solution (less than 10%) | OS.
Sodium carbonate solution | Z.
Sodium hydrogen sulfide (6% or less)/Sodium carbonate (3% or less) solution | Z.
Sodium lignosulfonate solution, see also Lignin liquor | Z.
Sodium naphthenate solution (free alkali content, 3% or less), see Naphthenic acid, sodium salt solution |
Sodium poly(4+)acrylate solutions | Z.
Sodium silicate solution | Y.
Sodium sulfate solutions | Z.
Sodium sulfite solution (25% or less) | Y.
Sodium thiocyanate solution (56% or less) | Y.
Sorbitol solution | OS.
Sulfonated polyacrylate solution | Z.
Tetrasodium salt of Ethylenediaminetetraaacetic acid solution, see Ethylenediaminetetraacetic acid, tetrasodium salt solution |
Titanium dioxide slurry | Z.
1,1,1-Trichloroethane | Y.
1,1,2-Trichloro-1,2,2-trifluoroethane | Y.
Trisodium salt of N-(Hydroxyethyl)ethylenediamine triacetic acid solution, see N-(Hydroxyethyl)ethylenediamine triacetic acid, trisodium salt solution |
Urea, Ammonium mono-and di-hydrogen phosphate, Potassium chloride solution | #.
Urea/Ammonium nitrate solution | Z.
Urea/Ammonium phosphate solution | Y.
Urea solution | Z.
Vanillan black liquor (free alkali content, 1% or less) | #.
Vegetable protein solution (hydrolyzed) (if non-flammable and non-combustible) | OS.
Water | OS.
Zinc bromide, Calcium bromide solution, see Drilling brines (containing Zinc salts) |
Explanation of Symbols Used in this Table:
X, Y, Z—NLS Category of Annex II of MARPOL 73/78.
#—No determination of NLS status. For shipping on an oceangoing vessel, see 46 CFR 153.900(c).
OS—Other substances, at present considered to present no harm to marine resources, human health, amenities or other legitimate uses of the sea when discharged into the sea from tank cleaning or deballasting operations.
Abbreviations for Noxious liquid substances used in this table:
Cat—Pollution category.
NF—Non-flammable (flash point greater than 60 degrees C (140 degrees F) cc).
n.o.s.—Not otherwise specified.
ST—Ship type.
Entries in bold were added from the March 2012 Annex to the 2007 IBC Code.

Dated: October 13, 2015.
J.G. Lantz,
Director of Commercial Regulations and Standards, U.S. Coast Guard.

[FR Doc. 2015-26371 Filed 10-21-15; 8:45 am]

BILLING CODE 9110-04-P